DEPARTMENT OF STATE

[Public Notice 8301]

Office of the Chief of Protocol; Gifts to Federal Employees From Foreign Government Sources Reported to Employing Agencies in Calendar Year 2011

The Department of State submits the following comprehensive listing of the statements which, as required by law, Federal employees filed with their employing agencies during calendar year 2011 concerning gifts received from foreign government sources. The compilation includes reports of both tangible gifts and gifts of travel or travel expenses of more than minimal value, as defined by statute. Also included are gifts received in previous years including one gift in 2007, five gifts in 2008, ten gifts in 2009, and six gifts with unknown dates. These latter gifts are being reported in 2011 as the Office of the Chief of Protocol, Department of State, did not receive the relevant information to include them in earlier reports.

Publication of this listing in the Federal Register is required by Section 7342(f) of Title 5, United States Code, as added by Section 515(a)(1) of the Foreign Relations Authorization Act, Fiscal Year 1978 (Pub. L. 95-105, August 17, 1977, 91 Stat. 865).

Dated: April 14, 2013.
Patrick F. Kennedy,
Under Secretary for Management, Department of State.

Agency: The White House—Executive Office of the President
[Report of tangible gifts furnished by The White House]
Name and title of person accepting the gift on behalf of the U.S. Government | Gift, date of acceptance on behalf of the U.S. Government, estimated value, and current disposition or location | Identity of foreign donor and government | Circumstances justifying acceptance
The Honorable Barack Obama, President of the United States | 7″ x 11″ red and white porcelain vase by Franz with purple and pink flower design across the front. Rec'd—4/1/2009. Est. Value—$1,000.00. Disposition—National Archives and Records Administration | His Excellency Hu Jintao, President of the People's Republic of China | Non-acceptance would cause embarrassment to donor and U.S. Government.
The Honorable Barack Obama, President of the United States | 14″ x 14″ Bauhaus chess set, with a lightly-colored wood board and pieces carved into the shape of their allowed movements on the board, contained in a carrying box with sliding top, designed by Josef Hartwig. Rec'd—6/11/2009. Est. Value—$554.00. Disposition—National Archives and Records Administration | Mr. Karl-Michael Danzer, Head of Protocol, the Free State of Thuringia, the Federal Republic of Germany | Non-acceptance would cause embarrassment to donor and U.S. Government.
The Honorable Barack Obama, President of the United States | 11″ x 20″ x 12″ wooden display case containing a small sword, the top of the case displays the seal of the State of Qatar and reads, “Fight Against Corruption.” Rec'd—1/5/2011. Est. Value—$350.00. Disposition—Display box is in the White House Gift Office; Handled pursuant to U.S. Secret Service policy | Ali bin Mohsen bin Fetais Al-Marri, Attorney General of the State of Qatar | Non-acceptance would cause embarrassment to donor and U.S. Government.
The Honorable Barack Obama, President of the United States | 14″ red and gold colored vase in red presentation box. Rec'd—1/5/2011. Est. Value—$580.00. Disposition—National Archives and Records Administration | His Excellency Yang Jiechi, Foreign Minister of the People's Republic of China | Non-acceptance would cause embarrassment to donor and U.S. Government.
The Honorable Barack Obama, President of the United States | Large, black Hermes golf accessory bag including set of lock and key, and extra strap in bottom compartment, presented in cream colored drawstring bag. Rec'd—1/10/2011. Est. Value—$7,750.00. Disposition—National Archives and Records Administration | His Excellency Nicolas Sarkozy, President of the French Republic, and Mrs. Carla Bruni-Sarkozy, First Lady of the French Republic | Non-acceptance would cause embarrassment to donor and U.S. Government.
The Honorable Barack Obama, President of the United States | Bronze 48″ statue of Abraham Lincoln by the artist Yuan Xikun, includes a red leather booklet describing the gift. Rec'd—1/18/2011. Est. Value—$9,800.00. Disposition—National Archives and Records Administration | His Excellency Hu Jintao, President of the People's Republic of China | Non-acceptance would cause embarrassment to donor and U.S. Government.
The Honorable Barack Obama, President of the United States | Book, title: “Suriname Discovered,” by: Toon Fey. Royal Mint 2000 Millennium 22 carat gold coin that reads “Suriname 100,000 Gulden” on one side, and “Suriname” on the other. Rec'd—2/1/2011. Est. Value—$1,575.79. Disposition—National Archives and Records Administration | His Excellency Desi Bouterse, President of the Republic of Suriname, and Mrs. Ingrid Bouterse-Waldring, Spouse of the President of the Republic of Suriname | Non-acceptance would cause embarrassment to donor and U.S. Government.
The Honorable Barack Obama, President of the United States | Basketball, signed by 2010-2011 Toronto Raptors NBA basketball team, in a 10″ x 10″ hard-plastic display case, presented in a 14.5″ x 22.5″ green leather-bound box that has the Prime Minister seal on the top. 23.25″ x 18.25″ golden-framed 19th Century antique map of North America, surrounded by drawings of North American Indians, beavers, and other images, and drawn by Tallis & Co. Rec'd—2/4/2011. Est. Value—$1,880.00. Disposition—National Archives and Records Administration | The Right Honorable Stephen Harper, P.C., M.P., Prime Minister of Canada | Non-acceptance would cause embarrassment to donor and U.S. Government.
The Honorable Barack Obama, President of the United States | 52″ x 85″ red Afghan rug with blue trim and white tassels. Rec'd—2/22/2011. Est. Value—$400.00. Disposition—National Archives and Records Administration | His Excellency Eklil Hakimi, Ambassador of the Islamic Republic of Afghanistan | Non-acceptance would cause embarrassment to donor and U.S. Government.
The Honorable Barack Obama, President of the United States | 13″ tall beige clay ceramic vase with black and red designs made by Antonio Veloz, presented in green box with Mexican flag colored ribbons. Paperback Book, title: “Mata Ortiz Ceramics: Artes de Mexico, Numero 45″. Rec'd—3/2/2011. Est. Value—$365.00. Disposition—National Archives and Records Administration | His Excellency Felipe de Jesús Calderon, President of the United Mexican States | Non-acceptance would cause embarrassment to donor and U.S. Government.
The Honorable Barack Obama, President of the United States | Green and white 2GB iPod Shuffle. Sherrin Match Australian football. Red, white, and blue Western Bulldogs Australian Football League on a field jersey; Red, white, and blue “U.S. Footy” football jersey with “USA Revolution” on the front and “25” on the back. Hand-crafted 2.5″ x 4″ x 6″ Dragonfly silver ash wood trinket box with “Wood Works Gallery” sticker on bottom, presented in brown box with “Australia” sticker on top. Rec'd—3/4/2011. Est. Value—$478.00. Disposition—National Archives and Records Administration | The Honorable Julia Gillard MP, Prime Minister of the Commonwealth of Australia | Non-acceptance would cause embarrassment to donor and U.S. Government.
The Honorable Barack Obama, President of the United States | Leather-bound book, title: “Daniel O'Connell: The Man who Discovered Ireland,” authored by Professor Patrick Geoghegan. 21.5″ x 29.5″ black and white photograph of President John F. Kennedy addressing Irish Oireachtas, formatted in white matte board in a black frame. Fred Curtis Crystal presentation bowl with American flags engraved alongside a shamrock above inscription commemorating St. Patrick's Day Shamrock ceremony at White House, presented in black box with “Fred Curtis Crystal” written on sides and on top. Rec'd—3/17/2011. Est. Value—$3,176.00. Disposition—National Archives and Records Administration | His Excellency Enda Kenny, T.D., Taoiseach of Ireland | Non-acceptance would cause embarrassment to donor and U.S. Government.
The Honorable Barack Obama, President of the United States | 10″ diameter wooden globe by Eduardo Eleuterio with a cutout of Brazil. Photo album containing 37 photographs of the President during his visit with President Rousseff of the Federative Republic of Brazil, photo album has a hardcover and a medal that reads “Republica Federativa do Brasil/15 de Nov. de 1889”. Rec'd—3/19/2011. Est. Value—$780.00. Disposition—National Archives and Records Administration | Her Excellency Dilma Rousseff, President of the Federative Republic of Brazil | Non-acceptance would cause embarrassment to donor and U.S. Government.
The Honorable Barack Obama, President of the United States | 20″ x 18″ x 5″ wooden mask carved into shape of a jaguar head on a 24″ x 12″ x 5″ wooden base with a gold-colored plaque on bottom describing the piece. Rec'd—3/20/2011. Est. Value—$410.00. Disposition—National Archives and Records Administration | His Excellency Mauricio Funes, President of the Republic of El Salvador and Mrs. Vanda Pignato, Spouse of the President of the Republic of El Salvador | Non-acceptance would cause embarrassment to donor and U.S. Government.
The Honorable Barack Obama, President of the United States | Personalized “Penalty” white soccer jersey with one diagonal black stripe and “Electrobras” in blue on the front. Personalized “Olympikus” red and black striped soccer jersey. Personalized “Fluminenso” green and red soccer jersey with white collar. Personalized “FILA” black and white striped soccer jersey with black collar with “Neo Quimica Genericos” on the front. Personalized yellow Nike Brazil soccer jersey with one horizontal green stripe across chest. Two DVDs, title: 5x Favela Agora por Nos Mesmos. Two DVDs, title: Orfeu. Book, title: “Memorias de um Sargento de Milicias/Memoirs of a Militia Sergeant.” Book, title: “Casa Velha/The Old House,” by: Machado de Assis. Paperback book authored by Manuel Antonio de Almeida. Book, title: “A Alma Encantadora Das Ruas/The Enchanting Soul of the Streets,” by: Joao do Rio. Two sets of DVDs, title: “Unidade de Policia,” distributor: Governo Rio de Janeiro. Rec'd—3/20/2011. Est. Value—$679.58. Disposition—National Archives and Records Administration | The Honorable Sergio Cabral, Governor of the State of Rio de Janeiro of the Federative Republic of Brazil | Non-acceptance would cause embarrassment to donor and U.S. Government.
The Honorable Barack Obama, President of the United States | 51″ x 40″ digital C print photograph, by artist Vik Muniz, titled “Marat (Sebastiao),” depicting a man using arranged items in the style of David's “Death of Marat.” Rec'd—3/22/2011. Est. Value—$40,000.00. Disposition—On loan to museum for public exhibit | The Honorable Sergio Cabral, Governor of the State of Rio de Janeiro of the Federative Republic of Brazil | Non-acceptance would cause embarrassment to donor and U.S. Government.
The Honorable Barack Obama, President of the United States | 9″ diameter Tiffany & Co. Revere Pewter bowl, engraved with “Ban Ki-moon Secretary-General United Nations” on one side and the Secretary's signature and United Nations logo on the other, presented in turquoise cloth bag with “Tiffany & Co” printed on top. Rec'd—3/28/2011. Est. Value—$400.00. Disposition—National Archives and Records Administration | His Excellency Ban Ki-moon, Secretary-General of the United Nations | Non-acceptance would cause embarrassment to donor and U.S. Government.
The Honorable Barack Obama, President of the United States | Sterling silver water jug and cup in a blue leather presentation box. Rec'd—4/7/2011. Est. Value—$410.00. Disposition—National Archives and Records Administration | His Excellency Juan Manuel Santos, President of the Republic of Colombia | Non-acceptance would cause embarrassment to donor and U.S. Government.
The Honorable Barack Obama, President of the United States | 30″ circumference gold and silver base with silver statues of two wild goats and a tree with gold clock hanging from it, depicting a desert scene. Rec'd—4/14/2011. Est. Value—$3,200.00. Disposition—National Archives and Records Administration | His Highness Sheikh Hamad bin Khalifa al-Thani, Amir of the State of Qatar | Non-acceptance would cause embarrassment to donor and U.S. Government.
The Honorable Barack Obama, President of the United States | 14-karat gold bird-shaped cufflinks, presented in 3″ x 2″ x 1.5″ blue leather jewelry box. 5″ x 9″ wood and sterling silver eagle sculpture. Rec'd—4/28/2011. Est. Value—$705.00. Disposition—National Archives and Records Administration | His Excellency Ricardo Martinelli Berrocal, President of the Republic of Panama | Non-acceptance would cause embarrassment to donor and U.S. Government.
The Honorable Barack Obama, President of the United States | 1″ x 7″ x 9″ Porcelain sculpture of Jordanian archway on a black pedestal, presented in dark brown and beige leather-topped box. Rec'd—5/17/2011. Est. Value—$350.00. Disposition—National Archives and Records Administration | His Majesty King Abdullah II ibn Al Hussein, King of the Hashemite Kingdom of Jordan | Non-acceptance would cause embarrassment to donor and U.S. Government.
The Honorable Barack Obama, President of the United States | Red leather-bound book, title: “A Selection of Papers From the Royal Archives 1834-1897,” encased in a 19″ x 16″ x 2″ red leather box. Rec'd—5/24/2011. Est. Value—$2,800.00. Disposition—National Archives and Records Administration | Her Majesty Queen Elizabeth II, Queen of the United Kingdom of Great Britain and Northern Ireland | Non-acceptance would cause embarrassment to donor and U.S. Government.
The Honorable Barack Obama, President of the United States | Lacoste white classic men's polo shirt. Limited-edition “HOPE” fountain pen and Ligne 8 lighter from S.T. Dupont, each in a cherry blossom design, and contained in a 6.5″ x 6.5″ black box with “G8 France 2011” on the top. Bottle of Christian Drouin Pays d'Auge. S.T. Dupont black and silver fountain pen, presented in a 8.5″ x 4.5″ black case. Six black glass goblets in a plastic display case and contained in a 30″ x 18″ red box; 14.35″ tall blue-gray glass sculpture of Bucephalus, Alexander the Great's horse. Rec'd—5/25/2011. Est. Value—$15,083.62. Disposition—National Archives and Records Administration; Perishable goods handled pursuant to US Secret Service policy | His Excellency Nicolas Sarkozy, President of the French Republic | Non-acceptance would cause embarrassment to donor and U.S. Government.
The Honorable Barack Obama, President of the United States | CD, title: “The Historical Recordings,” by Paderewski, enclosed in a brown leather book. Silver Waldmann brand pen from the 17th Meeting of Presidents of Central European States, enclosed in a 3.5″ x 8″ black leather box. 4.5″ x 6″ wall plaque of Paderewski, enclosed in a 7.5″ x 8″ blue box. Five bottles of flavored liquors by Nalewski Staropolskie. Rec'd—5/27/2011. Est. Value—$715.00. Disposition—National Archives and Records Administration; Perishable goods handled pursuant to U.S. Secret Service policy | His Excellency Bronislaw Komorowski, President of the Republic of Poland | Non-acceptance would cause embarrassment to donor and U.S. Government.
The Honorable Barack Obama, President of the United States | DVD, title: “Best of the Witcher 2: Video Trailers for President Barack Obama,” distributor: Atari. Zubrowka Bison Grass Vodka. Book, title: “Blood of Elves,” by Andrzej Sapkowski. Book, title: “The Last Wish,” by Andrzej Sapkowski. Set of four 2″ x 1.5″ clear glass liqueur glasses, each has “Zubrowka” engraved in white. 13.5″ x 9.75″ x 4.5″ “Witcher 2” gift box, inside are three golden “Witcher 2” coins, a “Witcher 2” book, “Witcher 2” stickers, “Witcher 2” make your own aircraft. 5.5″ x 6.5″ x 3″ ivory-colored bust of “Witcher 2” character “Gwynbleioo,” a DVD box set of “Witcher 2” bonus DVD, Game DVD, and Game Guide. “Witcher 2” playing cards, and 5 wooden die in black sack with “Witcher 2” emblem. 11.75″ x 7″ x 5″ brown leather carrying case with handles and lock. Rec'd—5/28/2011. Est. Value—$497.08. Disposition—National Archives and Records Administration; Perishable goods handled pursuant to U.S. Secret Service policy | His Excellency Donald Franciszek Tusk, Prime Minister of the Republic of Poland | Non-acceptance would cause embarrassment to donor and U.S. Government.
The Honorable Barack Obama, President of the United States | Kramski putter set, includes: 35″ HPP 340 putter with two protective club head covers, teal HPT 40 training console, HPS 30 Aim Aid set, book title: “The Kramski Putt Philosophy”. Rec'd—6/6/2011. Est. Value—$1,400.00. Disposition—National Archives and Records Administration | Her Excellency Dr. Angela Merkel, Chancellor of the Federal Republic of Germany | Non-acceptance would cause embarrassment to donor and U.S. Government.
The Honorable Barack Obama, President of the United States | 14″ blue mask sculpture by Daum, on a 10″ black and silver stand, enclosed in 34″ x 16″ x 13″ red box. Rec'd—6/9/2011. Est. Value—$52,695.00. Disposition—National Archives and Records Administration | His Excellency Ali Bongo Ondimba, President of the Gabonese Republic | Non-acceptance would cause embarrassment to donor and U.S. Government.
The Honorable Barack Obama, President of the United States | 12″ x 8″ x 6″ gold-colored bust of woman, on a 6″ x 6″ x 2″ wooden base. Rec'd—6/14/2011. Est. Value—$780.00. Disposition—National Archives and Records Administration | His Excellency Goodluck Ebele Azikiwe Jonathan, President of the Federal Republic of Nigeria | Non-acceptance would cause embarrassment to donor and U.S. Government.
The Honorable Barack Obama, President of the United States | Book, title: “Genghis Khan and the Making of the Modern World,” by Jack Weatherford. 19” tall bronze statue depicting a man riding a horse, on an 8.5″ x 4.5″ x 1.5″ granite pedestal, presented in brown suede bag. Rec'd—6/16/2011. Est. Value—$440.00. Disposition—Book personally retained; Other items are at National Archives and Records Administration | His Excellency Tsakhiagiin Elbegdorj, President of Mongolia | Non-acceptance would cause embarrassment to donor and U.S. Government.
The Honorable Barack Obama, President of the United States | Traditional Chief's robe (Kita), from the Akan People. Rec'd—6/27/2011. Est. Value—$450.00. Disposition -National Archives and Records Administration | Council of Traditional Chiefs and Kings of Cote d'Ivoire | Non-acceptance would cause embarrassment to donor and U.S. Government.
The Honorable Barack Obama, President of the United States | Book, title: “L`Italia Unita: 150 anniversario Unita d' Italia.” Rec'd—7/1/2011. Est. Value—$1,000.00. Disposition—National Archives and Records Administration | His Excellency Giorgio Napolitano, President of the Italian Republic | Non-acceptance would cause embarrassment to donor and U.S. Government.
The Honorable Barack Obama, President of the United States | Bamboo bicycle, handmade by the Bambike Company. Rec'd—7/5/2011. Est. Value—$1,060.00. Disposition—National Archives and Records Administration | His Excellency Jose L. Cuisia, Jr., and Mrs. Maria Victoria J. Cuisia, Ambassador and Spouse of the Republic of the Philippines | Non-acceptance would cause embarrassment to donor and U.S. Government.
The Honorable Barack Obama, President of the United States | 11.5″ x 4″ traditional Maori weapon with a short broad-bladed club, made of the sacred greenstone, carved by Aden Hoglund, and contained in a 16″ x 7″ x 3″ wooden presentation box. Rec'd—7/22/2011. Est. Value—$3,200.00. Disposition—National Archives and Records Administration | The Right Honorable John Key, M.P., Prime Minister of New Zealand | Non-acceptance would cause embarrassment to donor and U.S. Government.
The Honorable Barack Obama, President of the United States | 29″ x 8″ x 15″ ebony wood carving of a mask on four legs. Rec'd—7/29/2011. Est. Value—$850.00. Disposition—National Archives and Records Administration | His Excellency Alpha Condé, President of the Republic of Guinea | Non-acceptance would cause embarrassment to donor and U.S. Government.
The Honorable Barack Obama, President of the United States | Crystal golf statuette by Baccarat, depicting a golfer with his iron pitched over his head in the moment before striking a ball. Crystal golf statuette by Baccarat, depicting a golfer with his iron out in front in a follow-through posture. Black Hermes golf travel bag with canvas cover and carrying strap. Rec'd—8/1/2011. Est. Value—$1,650.00. Disposition—National Archives and Records Administration | His Excellency Nicolas Sarkozy, President of the French Republic, and Mrs. Carla Bruni-Sarkozy, First Lady of the French Republic | Non-acceptance would cause embarrassment to donor and U.S. Government.
The Honorable Barack Obama, President of the United States | Black leather briefcase and a black leather portfolio, both with sterling silver pieces mounted on the leather engraved with “Barack H. Obama.” Rec'd—8/1/2011. Est. Value—$660.00. isposition—National Archives and Records Administration | Her Excellency Fatou Danielle Diagne, Ambassador of the Republic of Senegal | Non-acceptance would cause embarrassment to donor and U.S. Government.
The Honorable Barack Obama, President of the United States | 5′ x 4′ framed black and white photograph of a child looking down and wrapped in an American flag, given to commemorate the 10th Anniversary of the September 11th attacks. Rec'd—9/1/2011. Est. Value—$650.00. Disposition—National Archives and Records Administration | His Majesty Mohammed VI, King of the Kingdom of Morocco | Non-acceptance would cause embarrassment to donor and U.S. Government.
The Honorable Barack Obama, President of the United States | Waterman Expert II black lacquer ball point pen with gold color trimmings. Black 64GB iPad 2. Rec'd—9/7/2011. Est. Value—$784.99. Disposition—National Archives and Records Administration | His Excellency Donald Franciszek Tusk, Prime Minister of the Republic of Poland | Non-acceptance would cause embarrassment to donor and U.S. Government.
The Honorable Barack Obama, President of the United States | Bronze, three-legged candlestick holder on a 6.25″ circular stone base, atop the three legs sits a ring depicting a camel caravan and ram heads. Rec'd—9/21/2011. Est. Value—$1,245.00. Disposition—National Archives and Records Administration | His Excellency Nursultan Nazarbayev, President of the Republic of Kazakhstan | Non-acceptance would cause embarrassment to donor and U.S. Government.
The Honorable Barack Obama, President of the United States | 35″ x 26″ oil painting, depicting the Rempart Mountain in the Republic of Mauritius, signed by “Ashley 2011,” in a silver frame with an engraved plaque. Rec'd—9/22/2011. Est. Value—$500.00. Disposition—National Archives and Records Administration | The Honorable Dr. Navinchandra Ramgoolam, GCSK, FRCP, Prime Minister of the Republic of Mauritius | Non-acceptance would cause embarrassment to donor and U.S. Government.
The Honorable Barack Obama, President of the United States | A 7″ x 9″ plaque congratulating the President on his election in a wooden box. 23″ x 11″ ebony black rhino. 15″ hand-etched bowl with an image of Africa and African animals. Rec'd—9/23/2011. Est. Value—$865.00. Disposition—National Archives and Records Administration | His Excellency Salva Kiir Mayardit, President of the Republic of South Sudan | Non-acceptance would cause embarrassment to donor and U.S. Government.
The Honorable Barack Obama, President of the United States | 19″ x 12″ ornate silver serving tray with mirror inset, in a 20″ x 21″ x 7.5″ blue velvet presentation box. 16″ x 5″ 6″ ornate silver serving dish in a 20″ x 21″ x 7.5″ blue velvet presentation box. Rec'd—9/23/2011. Est. Value—$1,580.00. Disposition—National Archives and Records Administration | His Excellency Recep Tayyip Erdogan, Prime Minister of the Republic of Turkey | Non-acceptance would cause embarrassment to donor and U.S. Government.
The Honorable Barack Obama, President of the United States | Large Afghan rug in mostly tan, black, brown, and green geometric patterns. Rec'd—9/23/2011. Est. Value—$1,200.00. Disposition—National Archives and Records Administration | His Excellency Hamid Karzai, President of the Islamic Republic of Afghanistan | Non-acceptance would cause embarrassment to donor and U.S. Government.
The Honorable Barack Obama, President of the United States | 100″ x 65″ handmade traditional woven Tunisian rug, design is geometric and primarily red with black, yellow, white, and blue accents. Rec'd—10/6/2011. Est. Value—$900.00. Disposition—National Archives and Records Administration | His Excellency Beji Caid Essebsi, Interim Prime Minister of the Republic of Tunisia | Non-acceptance would cause embarrassment to donor and U.S. Government.
The Honorable Barack Obama, President of the United States | Book, title: “The Uncharted Path: An Autobiography” authored by President Lee Myung-bak. 12.5″ white porcelain plate, with painted images of the President and First Lady, contained within a 14″ x 14″ x 6″ mahogany box with golden turtle latch and iridescent depictions of birds. 14″ x 5.5″ 10.5″ black lacquer box inlaid with mother of pearl, and box is decorated with iridescent scenes of sailboats, birds, and scenery of the landscape of the Republic of Korea, both contained inside a 15″ x 6″ x 11.5″ blue presentation box. Rec'd—10/13/2011. Est. Value—$778.00. Disposition—National Archives and Records Administration | His Excellency Lee Myung-bak and Mrs. Kim Yoon-ok, President and First Lady of the Republic of Korea | Non-acceptance would cause embarrassment to donor and U.S. Government.
The Honorable Barack Obama, President of the United States | Six pouches of coffee contained in a 14″ x 9.5″ x 5″ wooden box, interior is red velvet and divided into six compartments, each containing a small wicker box, includes a depiction of the American flag with an eagle in the foreground made from precious and semiprecious stones, includes a 9″ x 7″ frame with a gold plaque. Diamond-shaped cufflinks, made from 10-karat white gold and inset with nine blue sapphires each, presented in a 5.25″ x 5.5″ x 2.5″ wooden box. Rec'd—11/5/2011. Est. Value—$635.00. Disposition—Box and Jewelry is at National Archives and Records Administration; Perishable goods handled pursuant to US Secret Service policy | His Excellency Mahinda Rajapaksa, President of the Democratic Socialist Republic of Sri Lanka | Non-acceptance would cause embarrassment to donor and U.S. Government.
The Honorable Barack Obama, President of the United States | 72″ x 24″ gray, blue, and green cashmere scarf, made by 1436 Erdos. Rec'd—11/10/2011. Est. Value—$412.00. Disposition—National Archives and Records Administration | His Excellency Hu Jintao, President of the People's Republic of China | Non-acceptance would cause embarrassment to donor and U.S. Government.
The Honorable Barack Obama, President of the United States | 8″ x 7″ silver octagonal box with floral/leaf design, in glass case inside a yellow box with knob, and includes a pendant of the seal of Brunei Darussalam. Rec'd—11/12/2011. Est. Value—$1,200.00. Disposition—National Archives and Records Administration | His Majesty Sultan Haji Hassanal Bolkiah Mu'izzaddin Waddaulah ibni Al-Marhum Sultan Haji Omar `Ali Saifuddien Sa'adul Khairi Waddien, Sultan and Yang Di-Pertuan of Brunei Darussalam | Non-acceptance would cause embarrassment to donor and U.S. Government.
The Honorable Barack Obama, President of the United States | 5″ tall condiment pot and a silver utensil, both made of Chilean silver. Rec'd—11/12/2011. Est. Value—$725.00. Disposition—National Archives and Records Administration | His Excellency Sebastián Piñera Echenique, President of the Republic of Chile | Non-acceptance would cause embarrassment to donor and U.S. Government.
The Honorable Barack Obama, President of the United States | 6″ x 6″ x 2.25″ ornate pewter jewelry box with velvet interior, presented in a 9″ x 9″ x 4″ blue velvet box. Rec'd—11/13/2011. Est. Value—$525.00. Disposition—National Archives and Records Administration | His Excellency YAB Dato' Sri Haji Mohd Najib bin Tun Haji Abdul Razak, Prime Minister of Malaysia | Non-acceptance would cause embarrassment to donor and U.S. Government.
The Honorable Barack Obama, President of the United States | 7″ tall Baynihan centerpiece made of cast aluminum in nickel plate with a black granite stone base, portraying men carrying a traditional home. Rec'd—11/14/2011. Est. Value—$390.00. Disposition—National Archives and Records Administration | His Excellency Benigno S. Aquino III, President of the Republic of the Philippines | Non-acceptance would cause embarrassment to donor and U.S. Government.
The Honorable Barack Obama, President of the United States | 27″ brass statue of a woman carrying a water jug on her head and a small child on her back. 25″ brass statue of a man wearing a conical hat and carrying a stick over his shoulders that suspends two water jugs, each jug and “rope” is detachable from the statue. Rec'd—11/14/2011. Est. Value—$840.00. Disposition—National Archives and Records Administration | His Excellency Seydou Bouda, Ambassador of Burkina Faso | Non-acceptance would cause embarrassment to donor and U.S. Government.
The Honorable Barack Obama, President of the United States | Book, title: “That Deadman Dance” authored by Kim Scott. Book, title: “Truth” authored by Peter Temple. Book, title: “Breath” authored by Tim Winton. 22″ x 13″ framed collection of historic Australian ANZUS stamps. Custom-made, authentic Akubra Cattleman hat in tanmark brown, made of pure fur felt with dark brown leather trimmings. 17″ x 17″ framed black-and-white commemorative historical picture of a ship, with plaque commemorating 60th Anniversary of the ANZUS Alliance. Rec'd—11/15/2011. Est. Value—$511.27. Disposition—National Archives and Records Administration | The Honorable Julia Gillard MP, Prime Minister of the Commonwealth of Australia | Non-acceptance would cause embarrassment to donor and U.S. Government.
The Honorable Barack Obama, President of the United States | 31.5″ x 39″ oil painting, title: “The Celebrate” by artist Rene Jimenez, depicting a turkey's face and neck, float-mounted in a red wooden frame. Large painting made up of nine panels titled “The Day and Night—in the White House” by Rene Jimenez, depicting Thanksgiving at the White House. 60 polychrome prints of the painting “The Day and Night—in the White House,” each in a white envelope with a black monochrome image of the U.S. Capitol. Rec'd—11/15/2011. Est. Value—$13,200.00. Disposition—National Archives and Records Administration | The Honorable Gabino Cue Monteagudo, Governor of the State of Oaxaca, United Mexican States | Non-acceptance would cause embarrassment to donor and U.S. Government.
The Honorable Barack Obama, President of the United States | Book, title: “The Footprints of Time: Menapak Waktu,” by Purnomo Yusgiantoro. Brown, white, and black bag with a black zipper, and a red and white ribbon rosette on front. Book, title: “Iwan Tirta Batik,” by Sebuah Lakon. Book, title: “Dhenok: The Semarangan Wedding Arts & Culture,” by Ineke F. Priyo. Book, title: “The Journey: Batik Pesisr from Semarang, Kendal, Demak & Kudu,” by Ieneke F. Priyo. Iwan Tirta private-collection shawl, men's shirt, with blue, brown, and white Indonesian batik design depicting birds. Rec'd—11/18/2011. Est. Value—$390.00. Disposition—National Archives and Records Administration | His Excellency Dr. Purnomo Yusgiantoro, Minister of Defense of the Republic of Indonesia | Non-acceptance would cause embarrassment to donor and U.S. Government.
The Honorable Barack Obama, President of the United States | 20″ octagonal white marble table top with design of inlaid blue and yellow flowers, and octagonal stand decorated with blue and red flowers. Rec'd—11/18/2011. Est. Value—$1,375.00. Disposition—National Archives and Records Administration; stand is in White House Gift Office | His Excellency Manmohan Singh, Prime Minister of the Republic of India | Non-acceptance would cause embarrassment to donor and U.S. Government.
The Honorable Barack Obama, President of the United States | Black leather and multi-colored batik-bound padfolio, embossed with “19th ASEAN Summit and Related Summits, Bali—Indonesia, 17-19 November 2011” in gold lettering, accompanied by an ASEAN writing pad, a silver bookmark decorated with a “Bali Dancer,” an Indonesia 2011 lapel pin, and a Montblanc pen, all contained in a gold-colored presentation box. ASEAN Summit green batik Leader's shirt in orange, red, black, white, gold, and green. 31″ x 23″ framed oil portrait of the Chiefs of State who attended the East Asia Summit in Indonesia in November 2011 with the words: “East Asia Summit in Indonesia November 2011.” Rec'd—11/22/2011. Est. Value—$1,945.00. Disposition—National Archives and Records Administration | His Excellency Dr. H. Susilo Bambang Yudhoyono, President of the Republic of Indonesia | Non-acceptance would cause embarrassment to donor and U.S. Government.
The Honorable Barack Obama, President of the United States | 11″ x 10″ wooden box, lined with green velvet, has “the President” and “Barack Obama” embossed on top of a green name plate, contains a DVD titled, “Formula of Power” with the President's picture on the front of the case. 19.125″ x 17.8125″ miniature enamel painting of the Moscow Kremlin, enclosed in a copper frame. Rec'd—11/29/2011. Est. Value—$1,050.00. Disposition—National Archives and Records Administration | His Excellency Dmitry Medvedev, President of the Russian Federation | Non-acceptance would cause embarrassment to donor and U.S. Government.
The Honorable Barack Obama, President of the United States | 12″ x 8″ silver tray, engraved with a scene of a palace, labeled “Iraq,” and floral and geometric decorative pattern. The tray is sealed under glass in a leather display case, all held in 13″ x 9.5″ x 2.25″ leather box. Rec'd—12/11/2011. Est. Value—$460.00. Disposition—National Archives and Records Administration | His Excellency Nouri al-Maliki, Prime Minister of the Republic of Iraq | Non-acceptance would cause embarrassment to donor and U.S. Government.
The Honorable Barack Obama, President of the United States | 15″ x 12″ black leather “Neo Igor” Louis Vuitton men's business bag with luggage tag attached and embossed with “B.O.” Rec'd—12/13/2011. Est. Value—$2,310.00. Disposition—National Archives and Records Administration | His Excellency Nicolas Sarkozy, President of the French Republic, and Mrs. Carla Bruni-Sarkozy, First Lady of the French Republic | Non-acceptance would cause embarrassment to donor and U.S. Government.
The Honorable Barack Obama, President of the United States | Hand-carved wooden sculpture in blue display box. Rec'd—12/17/2011. Est. Value—$430.00. Disposition—National Archives and Records Administration | His Excellency Dr. H. Susilo Bambang Yudhoyono, President of the Republic of Indonesia | Non-acceptance would cause embarrassment to donor and U.S. Government.
The Honorable Barack Obama, President of the United States | 24″ x 34″ elaborate black rug with gold color and floral bead detailing. Rec'd—12/21/2011. Est. Value—$1,100.00. Disposition—Handled pursuant to US Secret Service policy | Her Excellency Nirupama Rao, Ambassador of the Republic of India | Non-acceptance would cause embarrassment to donor and U.S. Government.
The Honorable Barack Obama, President of the United States, and the First Lady Michelle Obama | Blue-glazed porcelain hand figurine with a small bird in a yellow display box. Rec'd—1/18/2011. Est. Value—$430.00. Disposition—National Archives and Records Administration | His Excellency Hu Jintao, President of the People's Republic of China | Non-acceptance would cause embarrassment to donor and U.S. Government.
The Honorable Barack Obama, President of the United States, and the First Lady Michelle Obama | Two 11″ sterling silver filing lamps with 10″ shades, enclosed in 16″ x 12.5″ x 12″ brown presentation box. Rec'd—2/2/2011. Est. Value—$1,200.00. Disposition—National Archives and Records Administration | Her Royal Highness Princess Haya bint Al-Hussein of the Hashemite Kingdom of Jordan | Non-acceptance would cause embarrassment to donor and U.S. Government.
The Honorable Barack Obama, President of the United States, and the First Lady Michelle Obama | 14.5″ x 8.5″ x 2″ green copper Marquette, entitled “Equality Emerging” on gray marble base, enclosed in a 10.5″ x 4″ x 1.5″ wooden box. Rec'd—5/20/2011. Est. Value—$365.00. Disposition—National Archives and Records Administration | His Excellency Eamon Gilmore, T.D., Tánaiste and Minister for Foreign Affairs of Ireland | Non-acceptance would cause embarrassment to donor and U.S. Government.
The Honorable Barack Obama, President of the United States, and the First Lady Michelle Obama | CD, title: “Black is the Earth,” by artist Adele O'Dwyer. Book, title: “Living Under the Hatch,” by Barry O'Riley. 34″ x 70″ flag of Offaly, in green, yellow, pink. Book, title: “Stories from a Sacred Landscape: Croghan Hill to Clonmacnoise,” by Caiman O'Brien. 8cm x 8cm x 20cm three dimensional model of High Cross at Burrow, enclosed in black presentation box. Book, title: “Offaly History and Societies,” edited by William Nolan and Timothy P. O'Neil. 18-karat Sterling silver pendant and two necklaces, in green presentation box. Pen and ink artist's depiction titled, “Church of Ireland at Templehorry, Welcome President Obama,” in a 46.5″ x 34.5″ black frame. Rec'd—5/23/2011. Est. Value—$1,799.00. Disposition—National Archives and Records Administration | Mr. Pat Gallagher, Offaly County Manager of Ireland | Non-acceptance would cause embarrassment to donor and U.S. Government.
The Honorable Barack Obama, President of the United States, and the First Lady Michelle Obama | 15 piece “Sun & Moon” china set, Traditional Arts, Ltd., in white with gold leaf accents, includes 9″ x 9″ x 5.5″ tea pot with top, 5″ x 4″ x 3.5″ creamer, 4.5″ x 4″ x 4″ sugar cup with top, six 3.5″ x 2.5″ x 2.5″ tea cups and six 5.25″ saucers, all enclosed in blue 15″ x 15″ x 10″ presentation box; 11″ x 15″ framed photograph of the Prince of Wales and Duchess of Cornwall with their signatures on white matting, and enclosed in green presentation box marked “Ettinger London.” Rec'd—5/24/2011. Est. Value—$685.00. Disposition—National Archives and Records Administration | His Royal Highness The Prince of Wales | Non-acceptance would cause embarrassment to donor and U.S. Government.
The Honorable Barack Obama, President of the United States, and the First Lady Michelle Obama | 48″ x 70″ tapestry with eagle and American flag design made by The Rug Company and enclosed in a canvas bag with teal and orange designs. Rec'd—5/24/2011. Est. Value—$1,400.00. Disposition—National Archives and Records Administration | The Right Honorable David Cameron, MP, Prime Minister of the United Kingdom of Great Britain and Northern Ireland and Mrs. Samantha Cameron | Non-acceptance would cause embarrassment to donor and U.S. Government.
The Honorable Barack Obama, President of the United States, and the First Lady Michelle Obama | 10.2″ x 7.1″ Hermes orange cotton canvas travel case. 36″ x 60″ Hermes cotton terrycloth beach towel, printed with umbrellas and towels beach scene. 7.5″ handmade Forge de Laguiole letter opener with wooden handle in 9″ brown leather case. Both are enclosed in a 14″ x 2.5″ x 1.5″ black presentation box with Forge de Laguiole printed in white. It is a special G8 edition with “G8 France 2011, Nouveau Monde, Nouvelles Idees” and shape of the Eiffel Tower engraved. Box of chocolates. Rec'd—5/25/2011. Est. Value—$1,994.24. Disposition—National Archives and Records Administration; Perishable goods handled pursuant to U.S. Secret Service policy | His Excellency Nicolas Sarkozy and Mrs. Carla Bruni-Sarkozy, President and First Lady of the French Republic | Non-acceptance would cause embarrassment to donor and U.S. Government.
The Honorable Barack Obama, President of the United States, and the First Lady Michelle Obama | 3″ gold coin, “Deauville” embossed with scene of the ocean and an umbrella on the front and “Barack Obama” engraved with several scenes of Deauville on the back, enclosed in 3.5″ x 3.5″ presentation box with a clear plastic display stand. 36″ x 36″ Hermes silk Deauville scarf, with design of a scene of horse race in gray, blue, and brown. Rec'd—5/26/2011. Est. Value—$470.00. Disposition—National Archives and Records Administration | The Honorable Philippe Augier, Mayor of Deauville of the French Republic | Non-acceptance would cause embarrassment to donor and U.S. Government.
The Honorable Barack Obama, President of the United States, and the First Lady Michelle Obama | 9.5″ x 12″ signed and framed photo of Her Majesty and His Royal Highness. Rec'd—6/7/2011. Est. Value—$485.00. Disposition—National Archives and Records Administration | Her Majesty Queen Margrethe II, Queen of Denmark and His Royal Highness Prince Henrik of Denmark | Non-acceptance would cause embarrassment to donor and U.S. Government.
The Honorable Barack Obama, President of the United States, and the First Lady Michelle Obama | Book, title: “The Secret History of the Mongol Queens,” by Jack Weatherford. Three Mongolian cashmere sweaters in pink and green, and purple and brown pattern; 16″ x 27.5″ framed artwork of the First Lady's name in Mongolian calligraphy. Large Gobi Mongolian oatmeal-colored cashmere shawl. Rec'd—6/16/2011. Est. Value—$790.00. Disposition—National Archives and Records Administration | His Excellency Tsakhiagiin Elbegdorj and Mrs. Khajidsuren Bolormaa, President and First Lady of Mongolia | Non-acceptance would cause embarrassment to donor and U.S. Government.
The Honorable Barack Obama, President of the United States, and the First Lady Michelle Obama | 9″ decanter, made of Czech glass, in a 7″ x 10″ red presentation box. Rec'd—7/6/2011. Est. Value—$615.00. Disposition—National Archives and Records Administration | The Honorable Petr Gandalovic, Ambassador of the Czech Republic | Non-acceptance would cause embarrassment to donor and U.S. Government.
The Honorable Barack Obama, President of the United States, and the First Lady Michelle Obama | Reusable grocery/tote bag, orange with a large white dandelion on the side; Book and CD, title: “G20,” by Laurence Jenkell. Book, title: “±5 Metres: Sos Editions Oceans,” by Joe Bunni. Book, title: “Around the World,” by Laurence Jenkell. 11″ x 7.5″ x 3″ black leather folding toiletry bag, made by Lancel. 200 Euro souvenir “G20” coin, in a blue protected sleeve, and housed inside a small blue packet with “Monnaie de Paris” written in gold on the outside. Silver watch with black wristband made by B.R.M. 8″ x 5″ x 1″ brown leather woman's wallet with embroidery on the sides made by Lancel. His and hers white, belted Dior bathrobes with “Dior” embroidered on the breast pocket. 8″ x 13″ x 18″ black leather “Gra-Valise Petit Voyage” suitcase made by Lancel; 7″ x 12″ x 16″ brown and orange leather purse with embroidery on the side made by Lancel; 7.5″ x 11.5″ black leather clutch purse made by Christian Dior. 17″ tall Plexiglas sculpture, entitled “Wrapping Flag Candy USA,” depicting an upright “Tootsie Roll” with an American flag patterned wrapper, on a 6″ x 6.75″ x 0.75″ clear Plexiglass base, accompanied by a certificate of authenticity. Box of Duroc Danner chocolates. Perfumes from the town of Grasse. Chateau d'Estoublon olive oil. Men's Dior hygiene products. Rec'd—11/2/2011. Est. Value—$6,191.00. Disposition—National Archives and Records Administration | His Excellency Nicolas Sarkozy and Mrs. Carla Bruni-Sarkozy, President and First Lady of the French Republic | Non-acceptance would cause embarrassment to donor and U.S. Government.
The Honorable Barack Obama, President of the United States, and the First Lady Michelle Obama | Special edition book, title: “The Colors of Harmony: A Photography Journey” by Ani Yudhoyono. Two silver sculptures of birds mounted on a maroon velvet stand. One bird is 7″ tall and 4″ long and the other bird is 4.5″ tall and 6″ long. Piece is encased in a 15.25″ x 3.5″ x 8.5″ glass case and housed in a 17.25″ x 5.25″ x 10.75″ orange decorative canvas box. Red hand embroidered batik scarf with a multicolor floral design. Rec'd—11/12/2011. Est. Value—$970.00. Disposition—National Archives and Records Administration | His Excellency Dr. H. Susilo Bambang Yudhoyono, President of the Republic of Indonesia | Non-acceptance would cause embarrassment to donor and U.S. Government.
The Honorable Barack Obama, President of the United States, and the First Lady Michelle Obama | Two volume set about the diary of Frida Kahlo, printed by the Bank of Mexico. This volume is a limited edition of 3000 for three Mexican art museums. Volume One: “Transcriptions,” bound in ¼ leather, is a Spanish language transcription. Volume Two: “Poems,” bound in full embossed blue leather, is a 92-page full-color facsimile of one of Kahlo's diaries. Rec'd—12/14/2011. Est. Value—$1,844.54. Disposition—National Archives and Records Administration | His Excellency Arturo Sarukhan, Ambassador of the United Mexican States | Non-acceptance would cause embarrassment to donor and U.S. Government.
The Honorable Barack Obama, President of the United States, and the First Lady Michelle Obama | Wooden candle holder comprised of two spheres on top of one another with white designs containing candle in center; Wooden candle holder comprised of three rectangular figures on top of one another with white designs. Rec'd—12/20/2011. Est. Value—$2,200.00. Disposition—National Archives and Records Administration | His Royal Highness King Abdullah II ibn Al Hussein, King of the Hashemite Kingdom of Jordan | Non-acceptance would cause embarrassment to donor and U.S. Government.
First Lady Michelle Obama | Two 6.5″ x 14″ Baccarat “Our Fire” clear full-headed crystal table lamps on silver pedestals with silver and crystal lampshades in red presentation box, inscribed with “Baccarat” on the top. Rec'd—1/10/2011. Est. Value—$5,500.00. Disposition—National Archives and Records Administration | Mrs. Carla Bruni-Sarkozy, First Lady of the French Republic | Non-acceptance would cause embarrassment to donor and U.S. Government.
First Lady Michelle Obama | Silver, handmade “Plum Blossom” brooch designed by Teng Fei, presented in a wooden box with brooch design on front. Rec'd—1/18/2011. Est. Value—$1,400.00. Disposition—National Archives and Records Administration | His Excellency Hu Jintao and Mrs. Liu Yongqing, President and First Lady of the People's Republic of China | Non-acceptance would cause embarrassment to donor and U.S. Government.
First Lady Michelle Obama | 17.5″ green, pink, and red-beaded necklace with silver-colored leaf pendants. Matching silver-colored flower earrings with pink and green beads. Two piece vase includes a 12″ tall base with ceramic base and black flowers painted on tan background, and a 5.5″ tall, round vase top with black floral pattern painted on tan background. Rec'd—3/2/2011. Est. Value—$380.00. Disposition—National Archives and Records Administration | Mrs. Margarita Zavala Gomez del Campo, First Lady of the United Mexican States | Non-acceptance would cause embarrassment to donor and U.S. Government.
First Lady Michelle Obama | Personalized, red and black stripe “Regatas di Flamengo” women's jersey by Olympikus. Personalized white, silver, and black “Electrobras” women's soccer jersey by Penalty. Personalized yellow and green women's CBF Brazil soccer jersey by Nike. Silver necklace with silver medallion by designer Francesca Romana Diana. Personalized, crimson and green “Unimed Brazil” women's soccer jersey by Adidas. Personalized black and white striped “Bozzano” women's soccer jersey by Fila. Rec'd—3/18/2011. Est. Value—$874.60. Disposition—National Archives and Records Administration | The Honorable Sergio Cabral, Governor of the State of Rio de Janeiro of the Federative Republic of Brazil | Non-acceptance would cause embarrassment to donor and U.S. Government.
First Lady Michelle Obama | 3″ x 5″ metal cross, attached to rectangular wooden base with Renca town emblem and plaque commemorating the First Lady's visit on the front, presented in blue velvet box. Silver-colored bracelet with blue and green charms, presented in square, blue velvet box. 10″ silver-colored necklace with blue stones, presented in rectangular blue velvet box. Rec'd—3/19/2011. Est. Value—$870.00. Disposition—National Archives and Records Administration | The Honorable Vicky Barahona Kunstmann, Mayor of Renca of the Republic of Chile | Non-acceptance would cause embarrassment to donor and U.S. Government.
First Lady Michelle Obama | 16″ x 72″ Alpaca “Ocatavio Pizarro” scarf, in off-white with small black sequin pattern, and black jewels sewn in two rows, presented in 10.5″ x 28.25″ black leather box. Silver necklace with 19 cone-shaped pendants and matching silver earrings, presented in 2″ x 8.5″ x 1″ blue box. Rec'd—3/21/2011. Est. Value—$670.00. Disposition—National Archives and Records Administration | Mrs. Cecilia Morel Montes, First Lady of the Republic of Chile | Non-acceptance would cause embarrassment to donor and U.S. Government.
First Lady Michelle Obama | 8.5″ x 10″ silk bag, purple with pink, red, and green floral pattern. 34″ x 33″ cotton scarf, red with pink, blue, yellow, and green pattern. 65″ x 26″ cotton scarf in green, red and black cotton scarf with black fringe. Set of earrings, ring, and necklace made of silver and turquoise. Rec'd—4/12/2011. Est. Value—$388.00. Disposition—National Archives and Records Administration | Mrs. Maria Bashir, Chief Prosecutor of Herat Province of the Islamic Republic of Afghanistan | Non-acceptance would cause embarrassment to donor and U.S. Government.
First Lady Michelle Obama | Three Coffret soaps, 100G, by Frederic Malle. Jurassic flower candle by Frederic Malle. Cologne Bigarade by Frederic Malle, 250ml. Rec'd—5/25/2011. Est. Value—$435.00. Disposition—Handled pursuant to U.S. Secret Service policy | Mrs. Carla Bruni-Sarkozy, First Lady of the French Republic | Non-acceptance would cause embarrassment to donor and U.S. Government.
First Lady Michelle Obama | 2″ brooch with gold leaves and coral flowers in red leather jewel box by Bentley & Skinner, presented in black gift box. 10″ x 12″ oak box with Her Majesty's emblem on the front and chocolates, tea, and orange sticks from Demarquette Fine Chocolates inside. Oak box contained in a white box from Charbonnel et Walker. Porcelain floral arrangement from Bronte Floral Collection, enclosed in a 16″ x 10″ red box. Rec'd—5/25/2011. Est. Value—$1,660.00. Disposition—Brooch is on Official Display/Use; Box is at National Archives and Records Administration; Perishable goods handled pursuant to US Secret Service policy | Her Majesty Queen Elizabeth II, Queen of the United Kingdom of Great Britain and Northern Ireland | Non-acceptance would cause embarrassment to donor and U.S. Government.
First Lady Michelle Obama | Book, title: “Berlin: Art and Architecture,” published by Ullmann Publishing. Six 7.5″ hand-blown wine glasses with amber flowers and amber stem. Six bottles of German wine. Rec'd—6/6/2011. Est. Value—$1,331.99. Disposition—National Archives and Records Administration; Perishable goods handled pursuant to U.S. Secret Service policy | Her Excellency Dr. Angela Merkel, Chancellor of the Federal Republic of Germany | Non-acceptance would cause embarrassment to donor and U.S. Government.
First Lady Michelle Obama | 34″ x 29.5″ wooden-framed embroidery piece on white textile, depicting two people, one with a smoking pipe. 18″ x 18″ platter and set of four 4.5″ x 5.5″ matching bowls, all are green with yellow, red, and blue highlights, and blue and black trim. All pieces are enclosed in 16″ x 16″ x 5.5″ green box. 12″ x 9″ x 6″ golden bust of South African woman wearing gray headdress in 14″ x 11″ x 6″ black presentation box; Matching, hand-blown 8″ x 5.5″ display bowl and 10.5″ x 8″ stem vase, with swirl pattern in green, brown, purple, and gray, both enclosed in a 19.5″ x 12.5″ x 7.5″ green presentation box. Rec'd—6/21/2011. Est. Value—$2,400.00. Disposition—National Archives and Records Administration | Mrs. Nompumelelo Ntuli-Zuma, First Lady of the Republic of South Africa | Non-acceptance would cause embarrassment to donor and U.S. Government.
First Lady Michelle Obama | Ten pieces of six yards of cloth made by Vlisco in Holland, of various designs and colors. Rec'd—8/11/2011. Est. Value—$820.00. Disposition—National Archives and Records Administration | His Excellency Dr. Boni Yayi, President of the Republic of Benin | Non-acceptance would cause embarrassment to donor and U.S. Government.
First Lady Michelle Obama | Painting of a red roofed building on a tropical shore with a woman and small child in the foreground, in an 11.5″ x 9.5″ gold frame. Pair of Swarovski crystal swans, in a 7.75″ x 7.75″ x 3.75″ blue cardboard presentation box. Rec'd—9/20/2011. Est. Value—$390.00. Disposition—National Archives and Records Administration | The Honorable Dr. Navinchandra Ramgoolam, GCSK, FRCP, Prime Minister of the Republic of Mauritius | Non-acceptance would cause embarrassment to donor and U.S. Government.
First Lady Michelle Obama | 8″ x 5.5″ x 4″ black wood jewelry box with four embroidered panels, the background of the panels is purple silk, and the embroidery depicts birds and landscapes. 11″ x 14.5″ x 7″ Korean, black lacquer jewelry box with mother of pearl inlay that depicts landscapes and birds, and has bureau-style doors with turtle-shaped doorknobs on the front and a drawer below, with an inner compartment that has three smaller drawers on the left and a section for hanging necklaces on the right. An assortment of Vidi Vici make-up. Rec'd—10/12/2011. Est. Value—$725.00. Disposition—National Archives and Records Administration; Perishable goods handled pursuant to U.S. Secret Service policy | His Excellency Lee Myung-bak and Mrs. Kim Yoon-ok, President and First Lady of the Republic of Korea | Non-acceptance would cause embarrassment to donor and U.S. Government.
First Lady Michelle Obama | Blue crystal brooch with small crystal pieces in a circular shape. Moser crystal decanter and six crystal glasses with gold rim, in pattern called “Splendid.” Rec'd—10/27/2011. Est. Value—$1,872.00. Disposition—National Archives and Records Administration | His Excellency Petr Necas, Prime Minister of the Czech Republic | Non-acceptance would cause embarrassment to donor and U.S. Government.
First Lady Michelle Obama | Approximately 72″ x 24″ gray, red, and black cashmere scarf made by 1436 Erdos. Rec'd—11/10/2011. Est. Value—$412.00. Disposition—National Archives and Records Administration | His Excellency Hu Jintao, President of the People's Republic of China | Non-acceptance would cause embarrassment to donor and U.S. Government.
First Lady Michelle Obama | Franz brand “Island Beauty” sculpted porcelain vase with hibiscus flower design sculpted porcelain vase in red with a flower wrapped around the exterior. Rec'd—11/10/2011. Est. Value—$590.00. Disposition—National Archives and Records Administration | Dr. Lien Chan, Honorary Chairman of the Kuomintang | Non-acceptance would cause embarrassment to donor and U.S. Government.
First Lady Michelle Obama | Four 18″ x 18″ Batik pillow cases in a brown, yellow, and black design. 20″ x 90″ decorative Batik table runner in brown, yellow, and black with four tassels hanging from the corners. Batik bag in brown with a black and white design. Rec'd—11/11/2011. Est. Value—$410.00. Disposition—National Archives and Records Administration | His Excellency Dr. H. Susilo Bambang Yudhoyono, President of the Republic of Indonesia | Non-acceptance would cause embarrassment to donor and U.S. Government.
First Lady Michelle Obama | 80″ x 15″ gray scarf with floral embroidery. Brown velvet handbag with orange floral embroidery. Rec'd—11/12/2011. Est. Value—$640.00. Disposition—National Archives and Records Administration | His Excellency Truong Tan Sang, President of the Socialist Republic of Vietnam | Non-acceptance would cause embarrassment to donor and U.S. Government.
First Lady Michelle Obama | Book, title: “Pathways to Independence: Story of Official & Family Life in Papua New Guinea from 1951—1975,” by Rachel Cleland. Bird of Paradise gold pendant, ornately crafted and inset with various stones. Rec'd—11/13/2011. Est. Value—$575.00. Disposition—National Archives and Records Administration | The Honorable Peter O'Neill, Prime Minister of Papua New Guinea | Non-acceptance would cause embarrassment to donor and U.S. Government.
First Family | Set of seven Bonpoint Paris perfume, skincare lotion, and soap products presented in a rectangular zip up white box that says Bonpoint on the inside flap. Rec'd—1/10/2011. Est. Value—$401.00. Disposition—Handled pursuant to US Secret Service policy | His Excellency Nicolas Sarkozy and Mrs. Carla Bruni-Sarkozy, President and First Lady of the French Republic | Non-acceptance would cause embarrassment to donor and U.S. Government.
First Family | One silver Links Sweetie Bracelet with an “M” charm, enclosed in a black velvet bag and inside a cream colored box. One silver Links Sweetie Bracelet with an “S” charm, enclosed in a black velvet bag and inside a cream colored box. 13″ bone-shaped chew toy with United Kingdom flag. Rec'd—5/24/2011. Est. Value—$589.18. Disposition—National Archives and Records Administration | The Right Honorable David Cameron, MP, Prime Minister of the United Kingdom of Great Britain and Northern Ireland and Mrs. Samantha Cameron | Non-acceptance would cause embarrassment to donor and U.S. Government.
First Family | 36″ x 94″ purple batik with blue fringe, and a silver, green, orange, red, and blue pattern. 36″ x 94″ pink batik with white fringe and a silver, purple, blue, green, and orange pattern; Two books, title: “The Discerning Voice of the First Lady Rosmah” contained in cardboard book sleeves. Rec'd—11/13/2011. Est. Value—$715.00. Disposition—National Archives and Records Administration | His Excellency YAB Dato' Sri Haji Mohd Najib bin Tun Haji Abdul Razak, Prime Minister of Malaysia | Non-acceptance would cause embarrassment to donor and U.S. Government.
First Family Children | Toy brown kangaroo stuffed animal with a baby kangaroo in its pouch. Gray, white, and black Koala Bear stuffed animal. DVD, title: “Red Dog.” EMU boots in chestnut color and Paddington HI style. EMU boots in chocolate color and Paddington HI style. Rec'd—11/15/2011. Est. Value—$388.00. Disposition—National Archives and Records Administration | The Honorable Julia Gillard MP, Prime Minister of the Commonwealth of Australia | Non-acceptance would cause embarrassment to donor and U.S. Government.
First Family Children | Pink outfit from Bonpoint Paris clothing store. Green outfit from Bonpoint Paris clothing store. Rec'd—1/10/2011. Est. Value—$360.85. Disposition—National Archives and Records Administration | Mrs. Carla Bruni-Sarkozy, First Lady of the French Republic | Non-acceptance would cause embarrassment to donor and U.S. Government.
First Family Children | Personalized red, white, and green striped Adidas soccer jersey with “Unimed” on front. Personalized yellow and green Nike Brazil national soccer team jersey. Personalized white, black, and blue “Penalty” soccer jersey with “Electrobras” on front. Personalized “Olympikus” red and black striped soccer jersey. Personalized black and white striped “Fila” soccer jersey. 3″ x 5″ black and white spiral notebook with photo of the face of “Cristo Redentor.” Yellow coffee mug with “Rio de Janeiro” and beach and heart designs across it. Star-shaped yellow bag clip with “Rio de Janeiro” on front. “I [heart] Rio” miniature pen. Rec'd—3/18/2011. Est. Value—$682.70. Disposition—National Archives and Records Administration | The Honorable Sergio Cabral, Governor of the State of Rio de Janeiro of the Federative Republic of Brazil | Non-acceptance would cause embarrassment to donor and U.S. Government.
First Family Children | Two 6″ x 4.5″ x 2″ wooden jewelry box with lily flower and hummingbird design on top, presented in charcoal grey box with gold-colored Brazil seal sticker on top. Rec'd—3/19/2011. Est. Value—$470.00. Disposition—National Archives and Records Administration | Her Excellency Dilma Rousseff, President of the Federative Republic of Brazil | Non-acceptance would cause embarrassment to donor and U.S. Government.
First Family Children | Personalized red and green Adidas soccer jersey with white collar and “Unimed” on front. Yellow Nike soccer jersey with one horizontal green stripe along on front. Personalized white Penalty soccer jersey with one diagonal black stripe and “Electrobras” in blue on front. Personalized “Fila” black and white striped soccer jersey, and “Neo Quimica Gerenicos” on front. Personalized black and red striped “Olympikus” soccer jersey. 3.25″ x 4.5″ black notebook with black and white image of Copacabana Beach on front cover. Yellow mug with cartoon image of Rio de Janeiro, Brazil and “Rio de Janeiro” written in black on front and back. 5″ plastic pen with liquid and glitter. “I [heart] Rio.” 2.5″ yellow plastic clip magnet with cartoon image of Rio de Janeiro and “Rio de Janeiro” written in black on top center. Rec'd—3/20/2011. Est. Value—$685.58. Disposition—National Archives and Records Administration | The Honorable Sergio Cabral, Governor of the State of Rio de Janeiro of the Federative Republic of Brazil | Non-acceptance would cause embarrassment to donor and U.S. Government.
First Family Children | Book, title: “At the Gateways of the Day (1924): Tales and Legends of Hawaii, Vol. 1,” 1st Edition by Padraic Colum, enclosed in green and yellow paisley cardboard sleeve. 1.75″ Sterling silver History of Ireland brooch depicting Ireland through the ages, enclosed in 2.5″ x 2.25″ x 1″ black box. 36″ wooden hurling stick with black electrical tape near top and bottom. 20mm diameter Sterling silver History of Ireland cufflinks depicting Ireland through the ages, enclosed in 4″ x 3″ x 1″ black box. Rec'd—5/23/2011. Est. Value—$553.95. Disposition—National Archives and Records Administration | His Excellency Enda Kenny, T.D., Taoiseach of Ireland | Non-acceptance would cause embarrassment to donor and U.S. Government.
First Family Children | Adidas Blue Storm Kids' swimming goggles. Adidas mini soccer ball in white and blue. Adidas mini soccer ball in white and red. Adidas t-shirt in black with Adidas written in pink. Adidas Aquazilla clear goggles. Adidas t-shirt in black with multicolor dots. Two white journals with the Adidas logo on front. Adidas hooded windbreaker jacket in black, pink, and white. Two red Active Towels with “Adidas” printed in white. Adidas white hooded zip-up jacket. Two gold Adicolor Hold all bags with “Adidas” written in black. Rec'd—6/6/2011. Est. Value—$557.00. Disposition—National Archives and Records Administration | Her Excellency Dr. Angela Merkel, Chancellor of the Federal Republic of Germany | Non-acceptance would cause embarrassment to donor and U.S. Government
First Family Children | Two Trisha-brand silver necklaces with circle and nested diamond. Rec'd—10/12/2011. Est. Value—$660.00. Disposition—National Archives and Records Administration | His Excellency Lee Myung-bak and Mrs. Kim Yoon-ok, President and First Lady of the Republic of Korea | Non-acceptance would cause embarrassment to donor and U.S. Government.
White House Staff Member. Avery, Heidi | Cartier automatic steel Ballon Bleu medium model women's watch. Rec'd—1/2/2011. Est. Value—$5,100.00. Location—Pending Transfer to the General Services Administration | Ali Bin Mohsen Fetais Al Marri, Attorney General of the State of Qatar | Non-acceptance would cause embarrassment to donor and U.S. Government.
White House Staff Member. Avery, Heidi | 5.9″ x 11.4″ x 5.5″ cowhide leather Louis Vuitton “Icare” bag with golden brass pieces, presented in peach colored cloth cover with “Louis Vuitton” on front in brown lettering. Rec'd—2/17/2011. Est. Value—$365.00. Location—Pending transfer to General Services Administration | His Excellency Sheikh Abdullah bin Khalid Al Thani, Minister of Interior of the State of Qatar | Non-acceptance would cause embarrassment to donor and U.S. Government.
White House Staff Member. Brennan, John | 5½″ circular decorative metal dish with floral designs. Rec'd—12/13/2011. Est. Value—$380.00. Location—Pending Transfer to the General Services Administration | Under Secretary Hakan Fidan, Director of the Turkish National Intelligence Organization | Non-acceptance would cause embarrassment to donor and U.S. Government.
White House Staff Member. Daley, Bill | 9″ x 13″ signed photograph of Her Majesty in a black leather frame. 9″ x 13″ signed photograph of His Royal Highness in a black leather frame. Rec'd—5/24/2011. Est. Value—$5,000.00. Location—Pending Transfer to the General Services Administration | Her Majesty Queen Elizabeth II Queen of United Kingdom of Great Britain and Northern Ireland and His Royal Highness Prince Phillip, Duke of Edinburgh | Non-acceptance would cause embarrassment to donor and U.S. Government.
White House Staff Member. Donilon, Thomas | 13.5″ x 10.5″ signed photograph of Her Majesty and His Royal Highness in a black leather frame. Rec'd—5/24/2011. Est. Value—$3,600.00. Location—Pending Transfer to the General Services Administration | Her Majesty Queen Elizabeth II, Queen of the United Kingdom of Great Britain and Northern Ireland and His Royal Highness Prince Phillip, Duke of Edinburgh | Non-acceptance would cause embarrassment to donor and U.S. Government.
White House Staff Member. Donilon, Thomas | 10″ silver replica hookah, enclosed in blue felt box. Rec'd—7/27/2011. Est. Value—$425.00. Location—Pending Transfer to the General Services Administration | His Excellency Major General Morad Mowafy, Director of the Egyptian General Intelligence Service | Non-acceptance would cause embarrassment to donor and U.S. Government.
White House Staff Member. Donilon, Thomas | 22.5″ x 16″ limited edition copy of “Dwelling in the Fuchun Mountains,” originally painted by Huang Gongwang in the 14th century. Rec'd—11/12/2011. Est. Value—$1,100.00. Location—Pending Transfer to the General Services Administration | His Excellency Dai Bingguo, State Councilor of the People's Republic of China | Non-acceptance would cause embarrassment to donor and U.S. Government.
White House Staff Member. Donilon, Thomas | 6″ x 3″ Silver bowl that resembles a flower. Rec'd—12/13/2011. Est. Value—$440.00. Location—Pending Transfer to the General Services Administration | Under Secretary Hakan Fidan, Director of the Turkish National Intelligence Organization | Non-acceptance would cause embarrassment to donor and U.S. Government.
White House Staff Member. Froman, Michael | 13.5″ x 10.5″ signed photograph of Her Majesty and His Royal Highness in a black leather frame. Rec'd—5/24/2011. Est. Value—$3,600.00. Location—Pending Transfer to the General Services Administration | Her Majesty Queen Elizabeth II, Queen of the United Kingdom of Great Britain and Northern Ireland and His Royal Highness Prince Phillip, Duke of Edinburgh | Non-acceptance would cause embarrassment to donor and U.S. Government
White House Staff Member. Jarrett, Valerie | 13.5″ x 10.5″ signed photograph of Her Majesty and His Royal Highness in a black leather frame. Rec'd—5/24/2011. Est. Value—$3,600.00. Location—Pending Transfer to the General Services Administration | Her Majesty Queen Elizabeth II, Queen of the United Kingdom of Great Britain and Northern Ireland and His Royal Highness Prince Phillip, Duke of Edinburgh | Non-acceptance would cause embarrassment to donor and U.S. Government.
White House Staff Member. Jensen, Robert | Stainless steel Swiss Military wrist watch by Chrono, contained in a 4.5″ x 5.5″ x 2.5″ green box. Rec'd—6/8/2011. Est. Value—$750.00. Location—Pending Transfer to the General Services Administration | His Majesty King Abdullah II ibn Al Hussein, King of the Hashemite Kingdom of Jordan | Non-acceptance would cause embarrassment to donor and U.S. Government.
White House Staff Member. McDonough, Denis | Traditionally etched gold tea kettle that is approximately 11.5″ tall. Two small gold teacups, approximately 1″ tall. Gift presented in a 15.5″ x 10.5″ x 6″ red wooden box with a gold seal on the cover. Rec'd—6/1/2011. Est. Value—$850.00. Location—Pending Transfer to the General Services Administration | His Excellency Islam Karimov, President of the Republic of Uzbekistan | Non-acceptance would cause embarrassment to donor and U.S. Government.
White House Staff Member. McDonough, Denis | Circular green glass relief sculpture of a Chinese-style dragon made by Tittot, glass is approximately 4″ in diameter and 1.75″ thick. Rec'd—12/2/2011. Est. Value—$485.00. Location—Pending Transfer to the General Services Administration | Hu Wei-jen, NSC Secretary General of the Taiwan National Security Council of Taiwan | Non-acceptance would cause embarrassment to donor and U.S. Government.
White House Staff Member. McFaul, Michael | 45″ x 82″ wool rug with hands/paws/dots. 40″ x 22″ tapestry in autumnal colors, made of wool with 22″ bamboo sticks on each end. Rec'd—5/15/2011. Est. Value—$1,380.00. Location—Pending Transfer to the General Services Administration | His Excellency Ruslan Kazakbaev, Minister of Foreign Affairs of the Kyrgyz Republic | Non-acceptance would cause embarrassment to donor and U.S. Government.
White House Staff Member. McFaul, Michael | Lacquered folding chess/checkers board with backgammon, filled with carved wood pieces. The board is dark wood, roughly a square, but with decorative rounded edges, closed by brass clasps. Rec'd—12/21/2011. Est. Value—$420.00. Location—Pending Transfer to the General Services Administration | Her Excellency Roza Otunbayeva, President of the Kyrgyz Republic | Non-acceptance would cause embarrassment to donor and U.S. Government.
White House Staff Member. Mosteller, Brian | Stainless steel Swiss Military wristwatch by Chrono, contained in a 4.5″ x 5.5″ x 2.5″ green box. Rec'd—6/8/2011. Est. Value—$750.00. Location—Pending Transfer to the General Services Administration | His Majesty King Abdullah II ibn Al Hussein, King of the Hashemite Kingdom of Jordan | Non-acceptance would cause embarrassment to donor and U.S. Government.
White House Staff Member. Newton, Julia | Necklace of red and white stone beads with a silver chain and medallion in the middle, contained in a 7.5″ x 7.5″ x 2.5″ yellow and red. Rec'd—6/7/2011. Est. Value—$1,260.00. Location—Pending Transfer to the General Services Administration | His Majesty King Abdullah II ibn Al Hussein, King of the Hashemite Kingdom of Jordan | Non-acceptance would cause embarrassment to donor and U.S. Government.
White House Staff Member. Phee, Molly | 11″ x 7″ leather-bound, handmade silver platter with ornate design in a 13.5″ x 9.5″ leather presentation box, held in a black zippered case. Rec'd—7/20/2011. Est. Value—$390.00. Location—Pending Transfer to the General Services Administration | His Excellency Usama Al-Nujaifi, Speaker of Iraqi Parliament | Non-acceptance would cause embarrassment to donor and U.S. Government.
White House Staff Member. Plouffe, David | 13.5″ x 10.5″ signed photograph of Her Majesty and His Royal Highness in a black leather frame. Rec'd—5/24/2011. Est. Value—$3,600.00. Location—Pending Transfer to the General Services Administration | Her Majesty Queen Elizabeth II, Queen of the United Kingdom of Great Britain and Northern Ireland and His Royal Highness Prince Phillip, Duke of Edinburgh | Non-acceptance would cause embarrassment to donor and U.S. Government.
White House Staff Member. Russel, Danny | Red silk tie by Hermes. Brooch by the Gana Art Gallery composed of a turquoise stone, silver-plated leaves, and small purple and orange stones. Rec'd—11/1/2011. Est. Value—$575.00. Location—Pending Transfer to the General Services Administration | His Excellency Han Duck-soo, Ambassador of the Republic of Korea | Non-acceptance would cause embarrassment to donor and U.S. Government.
White House Staff Member. Sherwood-Randall, Elizabeth | 13.5″ x 10.5″ signed photograph of Her Majesty and His Royal Highness in a black leather frame. Rec'd—5/24/2011. Est. Value—$3,600.00. Location—Pending Transfer to the General Services Administration | Her Majesty Queen Elizabeth II, Queen of the United Kingdom of Great Britain and Northern Ireland and His Royal Highness Prince Phillip, Duke of Edinburgh | Non-acceptance would cause embarrassment to donor and U.S. Government.

Agency: The White House—Office of the Vice President
[Report of tangible gifts furnished by The White House—Office of the Vice President]
Name and title of person accepting the gift on behalf of the U.S. Government | Gift, date of acceptance on behalf of the U.S. Government, estimated value, and current disposition or location | Identity of foreign donor and government | Circumstances justifying acceptance
The Honorable Joseph R. Biden, Jr., Vice President of the United States | Large embroidered handwoven rug with floral design inside 3 borders. Rec'd—1/12/2011. Est. Value—$450.00. Disposition—National Archives and Records Administration | His Excellency Yousuf Raza Gilani, Prime Minister of the Islamic Republic of Pakistan | Non-acceptance would cause embarrassment to donor and U.S. Government.
The Honorable Joseph R. Biden, Jr., Vice President of the United States | Orange and gold over black background “Khokhloma” Swan punch bowl with 7 small cups. Rec'd—3/9/2011. Est. Value—$440.00. Location—National Archives and Records Administration | His Excellency Vladimir Putin, Prime Minister of the Russian Federation | Non-acceptance would cause embarrassment to donor and U.S. Government.
The Honorable Joseph R. Biden, Jr., Vice President of the United States | 11.5″ x 6.75″ multicolored wool rug showing a scenery of pink, red, orange and blue flowers and green leaves. Rec'd—3/11/2011. Est. Value—$425.00. Location—National Archives and Records Administration | His Excellency Vladimir Filat, Prime Minister of the Republic of Moldova | Non-acceptance would cause embarrassment to donor and U.S. Government.
The Honorable Joseph R. Biden, Jr., Vice President of the United States | Framed painting of a river and two chapels on the countryside of Pe Malul Nistrului Moldova, painted by I.A. Leu. Rec'd—3/11/2011. Est. Value—$550.00. Disposition—National Archives and Records Administration | His Excellency Marian Lupu, Acting President of the Republic of Moldova | Non-acceptance would cause embarrassment to donor and U.S. Government.
The Honorable Joseph R. Biden, Jr., Vice President of the United States | Large gray ceramic vase 38½″ height by 1″ in diameter. The vase is comprised of 2 sections: a double-headed urn shaped upper section; the lower section is a round base with a dedication tag adhered to base. Rec'd—3/15/2011. Est. Value—$440.00. Disposition—National Archives and Records Administration | His Excellency Vladimir Filat, Prime Minister of the Republic of Moldova | Non-acceptance would cause embarrassment to donor and U.S. Government.
The Honorable Joseph R. Biden, Jr., Vice President of the United States | Set of three matching decorative clay water pots by South African artist Thembia Nala. Rec'd—3/29/2011. Est. Value—$1,150.00. Disposition—National Archives and Records Administration | The Honorable Kgalema Motlanthe, Deputy President of the Republic of South Africa | Non-acceptance would cause embarrassment to donor and U.S. Government.
The Honorable Joseph R. Biden, Jr., Vice President of the United States | Three Star Order medal and a book titled “State Decorations of Latvia” accompanied by a certificate with a wax seal. Rec'd—4/1/2011. Est. Value—$780.00. Disposition—National Archives and Records Administration | His Excellency Valdis Zatlers, President of the Republic of Latvia | Non-acceptance would cause embarrassment to donor and U.S. Government.
The Honorable Joseph R. Biden, Jr., Vice President of the United States | Red box bearing the seal of Qatar containing a silver and gold statue of 3 camels on a marble base. The gift was presented in a sand-colored bag bearing the seal of Qatar. Rec'd—4/13/2011. Est. Value—$2,200.00. Disposition—National Archives and Records Administration | His Highness Sheikh Hamad bin Khalifa Al-Thani, Amir of the State of Qatar | Non-acceptance would cause embarrassment to donor and U.S. Government.
The Honorable Joseph R. Biden, Jr., Vice President of the United States | Large painted plate with American flag design in center and the Vice President's portrait painted on top of the flag on the face of the plate. Rec'd—5/5/2011. Est. Value—$1,200.00. Disposition—Permission to Retain for Official Use Only | The Honorable Namik Tan, Ambassador of Turkey to the United States | Non-acceptance would cause embarrassment to donor and U.S. Government.
The Honorable Joseph R. Biden, Jr., Vice President of the United States | Leather-bound (brown and rather large) Italian encyclopedia, titled “L' Italia Unita” by istituto della enciclopedia italiana fondata da giovanni treccani roma. Rec'd—6/1/2011. Est. Value—$550.00. Disposition—National Archives and Records Administration | His Excellency Giorgio Napolitano, President of the Italian Republic | Non-acceptance would cause embarrassment to donor and U.S. Government.
The Honorable Joseph R. Biden, Jr., Vice President of the United States | 3 Sutter's International Red Series, 2011 edition volumes of “Who's Who in Italy: Celebrating the 150th Anniversary of the Unification of Italy”. Rec'd—6/2/2011. Est. Value—$350.00. Disposition—National Archives and Records Administration | Ambassador Stefano Ronca, Chief of the Diplomatic Protocol of the Italian Republic | Non-acceptance would cause embarrassment to donor and U.S. Government.
The Honorable Joseph R. Biden, Jr., Vice President of the United States | Blue box, labeled “E. Marinella Napoli” with sticker “per Silvio Berlusconi,” containing 6 men's neckties. Rec'd—6/2/2011. Est. Value—$540.00. Disposition—National Archives and Records Administration | His Excellency Silvio Berlusconi, President of the Council of Minister of the Italian Republic | Non-acceptance would cause embarrassment to donor and U.S. Government.
The Honorable Joseph R. Biden, Jr., Vice President of the United States | Large blue fabric box containing a 3-piece Venetian glass set and a book titled “I vertri di Archimede Seguso dal 1950 al 1959”. Rec'd—6/8/2011. Est. Value—$4,800.00. Disposition—National Archives and Records Administration | His Excellency Silvio Berlusconi, President of the Council of Ministers of the Italian Republic | Non-acceptance would cause embarrassment to donor and U.S. Government.
The Honorable Joseph R. Biden, Jr., Vice President of the United States | Leather-bound handmade silver platter with scene of an Iraqi gate and palm trees in a leather presentation box. Rec'd—6/22/2011. Est. Value—$350.00. Disposition—National Archives and Records Administration | His Excellency Usama Al-Nujaifi, Speaker of the Iraqi Parliament | Non-acceptance would cause embarrassment to donor and U.S. Government.
The Honorable Joseph R. Biden, Jr., Vice President of the United States | White porcelain rabbit with red eyes and a red bow around the neck, sitting upright, presented on a brown wooden stand. Rec'd—8/19/2011. Est. Value—$365.00. Disposition—Permission to Retain for Official Use Only | His Excellency Xi Jinping, Vice President of the People's Republic of China | Non-acceptance would cause embarrassment to donor and U.S. Government.
The Honorable Joseph R. Biden, Jr., Vice President of the United States | Large silk 40″ x 60″ painting of 6 running horses presented in a wooden display box. Rec'd—8/21/2011. Est. Value—$3,500.00. Disposition—National Archives and Records Administration | His Excellency Xi Jinping, Vice President of the People's Republic of China | Non-acceptance would cause embarrassment to donor and U.S. Government.
The Honorable Joseph R. Biden, Jr., Vice President of the United States | Silver-framed original calligraphy painting by Sichuan University President. Rec'd—8/21/2011. Est. Value—$1,600.00. Disposition—National Archives and Records Administration | Mr. Xie Heping, President of Sichuan University | Non-acceptance would cause embarrassment to donor and U.S. Government.
Dr. Jill Biden, Second Lady of the United States | “Palekh” wooden lacquer box with oval lid, depicting a family in a bedroom setting. Rec'd—3/10/2011. Est. Value—$445.00. Disposition—National Archives and Records Administration | Gennadiy Sukhikh, Director of the Research Center for Obstetrics, Gynecology and Perinatology, Ministry of Healthcare and Social Development of the Russian Federation | Non-acceptance would cause embarrassment to donor and U.S. Government.
Mrs. Kathleen Biden, The Vice President's Daughter-in-law | Set of two 10″ tall Van Saint Lambert crystal candlestick holders, engraved with a symbol of the Belgian monarchy. Gift was in a navy blue presentation box stamped in gold bearing the symbol of the Belgian monarchy. Rec'd—6/28/2011. Est. Value—$380.00. Diposition—Permission to Retain for Official Use Only | His Royal Highness Prince Philippe, Duke of Brabant and the Crown Prince of the Kingdom of Belgium | Non-acceptance would cause embarrassment to donor and U.S. Government.
Mrs. Kathleen Biden, The Vice President's Daughter-in-law, and family | Silk picture (framed) of bird and lotus flower (meaning “harmony”), with reverse image and children's picture book titled “A Dream of Red Mansions” presented in a pink floral presentation box. Rec'd—8/21/2011. Est. Value—$670.00. Disposition—National Archives and Records Administration (Book Pending Transfer to National Archives and Records Administration) | His Excellency Xi Jinping, Vice President of the People's Republic of China | Non-acceptance would cause embarrassment to donor and U.S. Government.
Jon Wolfsthal, Special Advisor to the Vice President for Nonproliferation | TRAVEL: Lodging, meals, ground transportation and conference fee provided within the United Kingdom in connection with official attendance at “Challenges of the Nuclear Non-proliferation Regime” conference and delivery of speech on U.S. nuclear nonproliferaiton policy. Rec'd—12/12/-14/2011. Est. Value—$3,500.00. Disposition—National Archives and Records Administration | Government of the United Kingdom of Great Britain and Northern Ireland | Non-acceptance would cause embarrassment to donor and U.S. Government.

Agency: Department of State
[Report of tangible gifts furnished by the Department of State]
Name and title of person accepting the gift on behalf of the U.S. Government | Gift, date of acceptance on behalf of the U.S. Government, estimated value, and current disposition or location | Identity of foreign donor and government | Circumstances justifying acceptance
The Honorable Hillary Clinton, Secretary of State of the United States | Large silver bowl with palm tree design. Rec'd—1/11/2011. Est. Value—$3,400.00. Location—Pending Transfer to General Services Administration | His Majesty Sultan Qaboos bin Said al Said, Sultan of Oman | Non-acceptance would cause embarrassment to donor and U.S. Government.
The Honorable Hillary Clinton, Secretary of State of the United States | Silver jewelry set consisting of a necklace, earrings, ring, and bracelet with round design. Rec'd—1/11/2011. Est. Value—$685.00. Location—Pending Transfer to General Services Administration | His Excellency, Yusuf bin Alwai bin Adbullah, Minister Responsible for Foreign Affairs of Oman | Non-acceptance would cause embarrassment to donor and U.S. Government.
The Honorable Hillary Clinton, Secretary of State of the United States | Four silver jeweled rings and silver jambiya broach. One silver ring, two silver earrings, and silver bracelet. Rec'd—1/11/2011. Est. Value—$1,490.00. Location—Pending Transfer to General Services Administration | His Excellency Ali Abdullah Saleh, President of Yemen | Non-acceptance would cause embarrassment to donor and U.S. Government.
The Honorable Hillary Clinton, Secretary of State of the United States | “Heavenly Blessing” tithe, glazed ceramic sphere with ying/yang supported on four dragon legs over square base. Rec'd—1/19/2011. Est. Value—$1,800.00. Location—Pending Transfer to General Services Administration | His Excellency Hu Jintao, President of the People's Republic of China | Non-acceptance would cause embarrassment to donor and U.S. Government.
The Honorable Hillary Clinton, Secretary of State of the United States | Three strand necklace with pearls and sterling silver accents by Majorca Joyas. Rec'd—1/24/2011. Est. Value—$380.00. Location—Pending Transfer to General Services Administration | Her Excellency Trinidad Jimenez, Minister of Foreign Affairs and Cooperation of Spain | Non-acceptance would cause embarrassment to donor and U.S. Government.
The Honorable Hillary Clinton, Secretary of State of the United States | White porcelain vase with red accent. Three pamphlets titled: “The Chinese People's Association for Friendship with Foreign Countries.” Scroll (in red box). Rec'd—2/25/2011. Est. Value—$485.00. Location—Pending Transfer to General Services Administration | Zhou Qiang, Secretary of Hunan of the Provincial Committee of the Communist Party of China | Non-acceptance would cause embarrassment to donor and U.S. Government.
The Honorable Hillary Clinton, Secretary of State of the United States | Gold and silver brooch with blue lapis stone and pearl accents. Rec'd—3/8/2011. Est. Value—$385.00. Location—Pending Transfer to General Services Administration | Her Excellency Roza Otunbayeva, President of the Kyrgyz Republic | Non-acceptance would cause embarrassment to donor and U.S. Government.
The Honorable Hillary Clinton, Secretary of State of the United States | Silver bird with black “berries” on green stone base. Rec'd—3/17/2011. Est. Value—$480.00. Location—Pending Transfer to General Services Administration | His Excellency Foued M'bazza, Interim President of the Republic of Tunisia | Non-acceptance would cause embarrassment to donor and U.S. Government.
The Honorable Hillary Clinton, Secretary of State of the United States | Large portrait of Secretary Clinton in gold frame. Rec'd—4/12/2011. Est. Value—$1,900.00. Location—Pending Transfer to General Services Administration | Madame Liu Yandong, State Councilor of the People's Republic of China | Non-acceptance would cause embarrassment to donor and U.S. Government.
The Honorable Hillary Clinton, Secretary of State of the United States | White scarf with red roses. Black silk scarf (red/green with black stripes). Jewelry set with lapis lazuli panels. Rec'd—4/12/2011. Est. Value—$470.00. Disposition—Pending Transfer to General Services Administration | Mrs. Maria Bashir, Chief Prosecutor of Herat Province of the Islamic Republic of Afghanistan | Non-acceptance would cause embarrassment to donor and U.S. Government.
The Honorable Hillary Clinton, Secretary of State of the United States | Clock on gold camel statue. Rec'd—4/19/2011. Est. Value—$ 2,200.00. Location—Pending Transfer to General Services Administration | His Highness Sheikh Hamad bin Khalifa Al-Thani, Amir of the State of Qatar | Non-acceptance would cause embarrassment to donor and U.S. Government.
The Honorable Hillary Clinton, Secretary of State of the United States | Sterling silver coffee pot with floral and geometric designs in red presentation box. Rec'd—4/28/2011. Est. Value—$560.00. Location—Pending Transfer to General Services Administration | His Excellency Yusuf bin Alawi bin Abdullah, Minister Responsible for Foreign Affairs of Oman | Non-acceptance would cause embarrassment to donor and U.S. Government.
The Honorable Hillary Clinton, Secretary of State of the United States | Scarf with bird and flowers. Tablecloth with four leaf clover design. Rec'd—4/29/2011. Est. Value—$570.00. Disposition—Pending Transfer to General Services Administration | His Excellency Nguyen Quoc Cuong, Ambassador-Designate of the Socialist Republic of Vietnam | Non-acceptance would cause embarrassment to donor and U.S. Government.
The Honorable Hillary Clinton, Secretary of State of the United States | Miao Silver Dragon necklace mounted frame and 22 pendants in the image of a butterfly, Buddha, bell, and leaf. Rec'd—5/8/2011. Est. Value—$440.00. Location—Pending Transfer to General Services Administration | His Excellency Dai Bingguo, State Councilor of the People's Republic of China | Non-acceptance would cause embarrassment to donor and U.S. Government.
The Honorable Hillary Clinton, Secretary of State of the United States | Painting of red mountain scene. Rec'd—5/19/2011. Est. Value—$650.00. Disposition—Purchased for Personal Retention | His Excellency Eduard Nalbandian, Foreign Minister of the Republic of Armenia | Non-acceptance would cause embarrassment to donor and U.S. Government.
The Honorable Hillary Clinton, Secretary of State of the United States | Pair of framed, signed portraits of Her Majesty and His Royal Highness. Small sterling silver trinket box with Royal insignia in gold on lid by William and Son. Box of chocolates by Charbonvel and Walker. Rec'd—5/24/2011. Est. Value—$4,020.00. Location—Pending Transfer to General Services Administration | Her Majesty Queen Elizabeth II of the United Kingdom of Great Britain and Northern Ireland | Non-acceptance would cause embarrassment to donor and U.S. Government.
The Honorable Hillary Clinton, Secretary of State of the United States | Hermes silk scarf. Rec'd—5/25/2011. Est. Value—$385.00. Location—Pending Transfer to General Services Administration | His Excellency Alain Juppé, Minister of Foreign and European Affairs of the French Republic | Non-acceptance would cause embarrassment to donor and U.S. Government.
The Honorable Hillary Clinton, Secretary of State of the United States | Jasper flower pot brooch in lacquer brooch box. Rec'd—5/25/2011. Est. Value—$430.00. Location—Pending Transfer to General Services Administration | His Excellency Kim Sung-hwan, Minister of Foreign Affairs and Trade of the Republic of Korea | Non-acceptance would cause embarrassment to donor and U.S. Government.
The Honorable Hillary Clinton, Secretary of State of the United States | CD Collection of Symphony, Orchestra Music (68 CDs and 4 DVDs). Framed Newspaper Article from Secretary Clinton's trip to Germany. Rec'd—6/6/2011. Est. Value—$914.00. Location—Pending Transfer to General Services Administration | Her Excellency Dr. Angela Merkel, Chancellor of the Federal Republic of Germany | Non-acceptance would cause embarrassment to donor and U.S. Government.
The Honorable Hillary Clinton, Secretary of State of the United States | Navy blue quilted calfskin Dior handbag. Rec'd—6/6/2011. Est. Value—$2,400.00. Location—Pending Transfer to General Services Administration | His Excellency Alain Juppé, Minister of Foreign and European Affairs of the French Republic | Non-acceptance would cause embarrassment to donor and U.S. Government.
The Honorable Hillary Clinton, Secretary of State of the United States | 130 cm x 80 cm painting “Ntano” by Othiniel Kanjonja. 96cm x 50 cm painting “Drum Beaters” by John Chiponda. Local Zambian coffees and teas. Rec'd—6/10/2011. Est. Value—$2,140.00. Disposition—Pending Transfer to General Services Administration | His Excellency Rupiah Bwezani Banda, President of the Republic of Zambia | Non-acceptance would cause embarrassment to donor and U.S. Government.
The Honorable Hillary Clinton, Secretary of State of the United States | Painting of clouds or lava flowing in reds and blues. Rec'd—6/14/2011. Est. Value—$425.00. Location—Pending Transfer to General Services Administration | Jean Ping, Chairperson for the Commission of the African Union | Non-acceptance would cause embarrassment to donor and U.S. Government.
The Honorable Hillary Clinton, Secretary of State of the United States | Large painting of Mongolian landscape in black lacquer frame with gold plaque. Rec'd—6/18/2011. Est. Value—$550.00. Disposition—Permission to Retain for Official Use Only | His Excellency Tsakhiagiin Elbegdorj, President of Mongolia | Non-acceptance would cause embarrassment to donor and U.S. Government.
The Honorable Hillary Clinton, Secretary of State of the United States | Leather-bound silver platter with an ornate design and desert scene in a leather presentation box. Rec'd—6/24/2011. Est. Value—$530.00. Location—Pending Transfer to General Services Administration | His Excellency Usama Al-Nujaifi, Speaker of the Iraqi Parliament | Non-acceptance would cause embarrassment to donor and U.S. Government.
The Honorable Hillary Clinton, Secretary of State of the United States | Painting of bearded man in blue coat. Rec'd—6/30/2011. Est. Value—$680.00. Location—Pending Transfer to General Services Administration | Her Excellency Atifete Jahjaga, President of the Republic of Kosovo | Non-acceptance would cause embarrassment to donor and U.S. Government.
The Honorable Hillary Clinton, Secretary of State of the United States | Small, black lacquered box (oval) with hand-painted city-scape designs. Rec'd—7/12/2011. Est. Value—$680.00. Location—Pending Transfer to General Services Administration | His Excellency Sergey Lavrov, Minister of Foreign Affairs of the Russian Federation | Non-acceptance would cause embarrassment to donor and U.S. Government.
The Honorable Hillary Clinton, Secretary of State of the United States | Large glass metal container with lid. Rec'd—7/15/2011. Est. Value—$440.00. Disposition—Pending Transfer to General Services Administration | His Excellency Recep Tayyip Erdogan, Prime Minister of the Republic of Turkey | Non-acceptance would cause embarrassment to donor and U.S. Government.
The Honorable Hillary Clinton, Secretary of State of the United States | Tall blue glass vase. Rec'd—7/16/2011. Est. Value—$650.00. Disposition—Pending Transfer to General Services Administration | His Excellency Abdullah Gul, President of the Republic of Turkey | Non-acceptance would cause embarrassment to donor and U.S. Government.
The Honorable Hillary Clinton, Secretary of State of the United States | Large book of photos. Photo album. Five OIC newsletters. Rec'd—7/16/2011. Est. Value—$1,250.00. Disposition—Pending Transfer to General Services Administration | His Excellency Ekmeleddin Ihsanglu, Secretary General of the Organization of the Islamic Conference | Non-acceptance would cause embarrassment to donor and U.S. Government.
The Honorable Hillary Clinton, Secretary of State of the United States | Peacock statue. Rec'd—7/19/2011. Est. Value—$390.00. Location—Pending Transfer to General Services Administration | His Excellency Manmohan Singh, Prime Minister of the Republic of India | Non-acceptance would cause embarrassment to donor and U.S. Government.
The Honorable Hillary Clinton, Secretary of State of the United States | Leather portfolio with DVD, pamphlets, brochures, postcards, and a notebook. Batik shirt. Painting. Rec'd—7/23/2011. Est. Value—$415.00. Location—Pending Transfer to General Services Administration | His Excellency Dr. R.M. Marty Natalegawa, Minister of Foreign Affairs of the Republic of Indonesia | Non-acceptance would cause embarrassment to donor and U.S. Government.
The Honorable Hillary Clinton, Secretary of State of the United States | Magenta and green silk shawl with pink and green floral embroidery on one end. Fromone sculptured porcelain tea set in bluebird design, containing a teapot, 4 cups/saucers/spoons, a sugar jar/creamer/and tray set. Rec'd—7/25/2011. Est. Value—$1,470.00. Location—Pending Transfer to General Services Administration | His Excellency Dai Bingguo, State Councilor of the People's Republic of China | Non-acceptance would cause embarrassment to donor and U.S. Government.
The Honorable Hillary Clinton, Secretary of State of the United States | A celapas-traditional ornamental container made of silver and embossed with Bruneian traditional motive, lined with blue velvet and presented in a red and gold presentation box. Rec'd—8/5/2011. Est. Value—$1,100.00. Location—Pending Transfer to General Services Administration | His Excellency Pehin Orang Kaya Pekerma Dewa Dato Seri Setia Lim Jock Seng, Second Minister of Foreign Affairs and Trade of Brunei Darussalam | Non-acceptance would cause embarrassment to donor and U.S. Government.
The Honorable Hillary Clinton, Secretary of State of the United States | African painting with wood frame and 2 sets of tablecloths with napkins and cloth bread bowl. Rec'd—8/11/2011. Est. Value—$465.00. Disposition—Pending Transfer to General Services Administration | His Excellency Dr. Boni Yayi, President of the Republic of Benin | Non-acceptance would cause embarrassment to donor and U.S. Government.
The Honorable Hillary Clinton, Secretary of State of the United States | Red and gold glass vessel by Topesco Glass Studio. Rec'd—9/13/2011. Est. Value—$585.00. Location—Pending Transfer to General Services Administration | His Excellency Teodor Baconshi, Minister of Foreign Affairs of Romania | Non-acceptance would cause embarrassment to donor and U.S. Government.
The Honorable Hillary Clinton, Secretary of State of the United States | Swarovski crystal rose bud on stem with 3 leaves. Painting of town scene signed “R. Gunnoo 2011” with gold-painted wooden frame. Rec'd—9/19/2011. Est. Value—$390.00. Location—Pending Transfer to General Services Administration | The Honorable Dr. Navinchandra Ramgoolam, GCSK, FRCP and Mrs. Veena Ramgoolam, Prime Minister and Spouse of the Republic of Mauritius | Non-acceptance would cause embarrassment to donor and U.S. Government.
The Honorable Hillary Clinton, Secretary of State of the United States | Traditional Emirati dress. Rec'd—9/23/2011. Est. Value—$360.00. Location—Pending Transfer to General Services Administration | Her Highness Sheikha Fatima bint Mubarak Al Ketbi, Chairperson of the Family Development Foundation of the United Arab Emirates | Non-acceptance would cause embarrassment to donor and U.S. Government.
The Honorable Hillary Clinton, Secretary of State of the United States | Hermes scarf in autumn colors with mosaic design. Rec'd—9/25/2011. Est. Value—$485.00. Location—Pending Transfer to General Services Administration | His Excellency Najib Mikati, Prime Minister of the Republic of Lebanon | Non-acceptance would cause embarrassment to donor and U.S. Government.
The Honorable Hillary Clinton, Secretary of State of the United States | Traditional sky blue and beige scarf. Landscape painting in a gold frame. Blue table runner. Rec'd—9/29/2011. Est. Value—$595.00. Disposition—Pending Transfer to General Services Administration | His Excellency Elyor Ganiev, Deputy Prime Minister and Minister of Foreign Affairs of the Republic of Uzbekistan | Non-acceptance would cause embarrassment to donor and U.S. Government.
The Honorable Hillary Clinton, Secretary of State of the United States | Statue of a falcon (approx 18″ high) with decorative jewels on a marble pedestal. Rec'd—9/29/2011. Est. Value—$2,300.00. Disposition—Pending Transfer to General Services Administration | His Highness Sheikh Nasser Mohammed Al Ahmed Al-Sabah, Prime Minister of the State of Kuwait | Non-acceptance would cause embarrassment to donor and U.S. Government.
The Honorable Hillary Clinton, Secretary of State of the United States | Commemorative yellow gold coin and silk scarf. Rec'd—10/19/2011. Est. Value—$7,425.00. Disposition—Pending Transfer to General Services Administration | His Majesty Sultan Qaboos bin Said al Said, Sultan of Oman | Non-acceptance would cause embarrassment to donor and U.S. Government.
The Honorable Hillary Clinton, Secretary of State of the United States | Portrait of Secretary Clinton in traditional Tajik painting and frame. Traditional Tajik coat vest, shoes, and hat for women. Traditional Tajik silver necklace and earrings. Tajik embroidered hand-craft wall tapestry. Traditional Tajik dress with embroidery. Traditional Tajik silk dress. Rec'd—10/22/2011. Est. Value—$2,850.00. Location—Pending Transfer to General Services Administration | His Excellency Emomali Rahmon, President of the Republic of Tajikistan | Non-acceptance would cause embarrassment to donor and U.S. Government.
The Honorable Hillary Clinton, Secretary of State of the United States | Small decorative table (hand-painted and lacquered) and a brass tea set. Rec'd—10/26/2011. Est. Value—$1,500.00. Location—Pending Transfer to General Services Administration | His Excellency Islam Karimov, President of the Republic of Uzbekistan | Non-acceptance would cause embarrassment to donor and U.S. Government.
The Honorable Hillary Clinton, Secretary of State of the United States | Strand of white pearls with information booklet and information disc. Rec'd—10/27/2011. Est. Value—$3,200.00. Disposition—Pending Transfer to General Services Administration | Madame Chen Zhili, President of All-China Women's Federation and Vice Chairperson of the Standing Committee of the National People's Congress | Non-acceptance would cause embarrassment to donor and U.S. Government.
The Honorable Hillary Clinton, Secretary of State of the United States | Jewelry box inlaid with pearl. Rec'd—11/10/2011. Est. Value—$460.00. Disposition—Pending Transfer to General Services Administration | His Excellency Koichiro Gemba, Foreign Minister of Japan | Non-acceptance would cause embarrassment to donor and U.S. Government.
The Honorable Hillary Clinton, Secretary of State of the United States | 15″ Ginkgo motif porcelain vase . Rec'd—11/12/2011. Est. Value—$465.00. Location—Pending Transfer to General Services Administration | Dr. Lien Chan, Leader's Representative of Chinese Taipei | Non-acceptance would cause embarrassment to donor and U.S. Government.
The Honorable Hillary Clinton, Secretary of State of the United States | Amber-colored traditional crystal ladle-shaped object with round crystal stark. Rec'd—11/13/2011. Est. Value—$440.00. Location—Pending Transfer to General Services Administration | Donald Tsang, Chief Executive of the Hong Kong Special Administrative Region | Non-acceptance would cause embarrassment to donor and U.S. Government.
The Honorable Hillary Clinton, Secretary of State of the United States | Silver vase with jade stones. Jade bracelet. Rec'd—12/1/2011. Est. Value—$350.00. Disposition—Permission to Retain for Official Use Only | His Excellency U Thein Sein, President of the Union of Burma | Non-acceptance would cause embarrassment to donor and U.S. Government.
The Honorable Hillary Clinton, Secretary of State of the United States | Brooch with a pink marbled stone inlaid in gold. Off-white felt wall hanging tapestry with intricate floral cut-out design. Brown and red felt rug. Rec'd—Unknown. Est. Value—$1,560.00. Location—Pending Transfer to General Services Administration | Her Excellency Roza Otunbayeva, President of the Kyrgyz Republic | Non-acceptance would cause embarrassment to donor and U.S. Government.
The Honorable Hillary Clinton, Secretary of State of the United States | Emerald and diamond necklace. Rec'd—Unknown. Est. Value—$7,834.00. Disposition—Pending Transfer to General Service Administration | Mrs. Thandiwe Banda, First Lady of the Republic of Zambia | Non-acceptance would cause embarrassment to donor and U.S. Government.
The Honorable William J. Burns, Deputy Secretary of State | Cologne by Amouage in a wooden gift box. Rec'd—11/10/2011. Est. Value—$410.00. Location—Pending Transfer to General Services Administration | His Excellency Dr. Salem al Ismaily, Chief Executive Office of the Public Authority for Investment Promotion and Export Development of Oman | Non-acceptance would cause embarrassment to donor and U.S. Government.
The Honorable William J. Burns, Deputy Secretary of State | Eterna watch with royal crest watch face. Book, title: “Curahan Kasih”. Rec'd—Unknown. Est. Value—$510.00. Location—Pending Transfer to General Services Administration | His Royal Highness Prince Haji Al-Muhtadee Billah ibni His Majesty Sultan Haji Hassanal Bolkiah Mu'izzaddin Waddaulah, Crown Prince of Brunei Darussalam | Non-acceptance would cause embarrassment to donor and U.S. Government.
The Honorable William J. Burns, Under Secretary of State for Political Affairs | Silver and black Algerian dagger in a leather gift case. Rec'd—Unknown. Est. Value—$385.00. Disposition—Permission to Retain for Official Use Only | His Excellency Abdelaziz Bouteflika, President of Algeria | Non-acceptance would cause embarrassment to donor and U.S. Government.
The Honorable Thomas Nides, Deputy Secretary of State | Leather-bound silver platter with an ornate design and desert scene in a leather presentation box. Rec'd—6/24/2011. Est. Value—$530.00. Location—Pending Transfer to General Services Administration | His Excellency Usama Al-Nujaifi, Speaker of the Iraqi Parliament | Non-acceptance would cause embarrassment to donor and U.S. Government.
The Honorable Thomas Nides, Deputy Secretary of State | Hand-made rug with traditional Iraqi man making prayer beads. Hand-made rug with a traditional Iraqi woman making good on two stones. Rec'd—7/8/2011. Est. Value—$660.00. Disposition—Permission to Retain for Official Use Only | His Excellency Dr. Sami Ra'ouf Al-Araji, Chairman of the National Investment Commission of the Republic of Iraq | Non-acceptance would cause embarrassment to donor and U.S. Government.
The Honorable James B. Steinburg, Deputy Secretary of State | Jeweled ornamental plate. Rec'd—1/3/2011. Est. Value—$650.00. Location—Pending Transfer to General Services Administration | Under Secretary Hakan Fidan, Director of the Turkish National Intelligence Organization | Non-acceptance would cause embarrassment to donor and U.S. Government.
The Honorable Robert D. Hormats, Under Secretary for Economics, Energy, and Agricultural Affairs | iPad with adapter power cord. Rec'd—5/32/2011. Est. Value—$499.00. Location—Pending Transfer to General Services Administration | His Majesty King Abdullah II ibn Al Hussein, King of the Hashemite Kingdom of Jordan | Non-acceptance would cause embarrassment to donor and U.S. Government.
The Honorable Maria Otero, Under Secretary for Democracy and Global Affairs | Rug with navy blue base and neutral colored floral designs. Rec'd—11/2/2011. Est. Value—$400.00. Location—Pending Transfer to General Services Administration | His Excellency Imtiaz Kazi, Secretary of the Ministry of Water and Power of the Islamic Republic of Pakistan | Non-acceptance would cause embarrassment to donor and U.S. Government.
The Honorable Wendy R. Sherman, Under Secretary for Political Affairs | 6″ plate with floral trim, inscribed with donor's name and title with stand. Handmade 18″ pearl necklace and earring set in oval box with jeweled top. Rec'd—11/4/2011. Est. Value—$405.00. Location—Pending Transfer to General Services Administration | Major General (Retd) Tarique Ahmed Siddique, Defense and Security Adviser to the Honorable Prime Minister of Bangladesh | Non-acceptance would cause embarrassment to donor and U.S. Government.
The Honorable Ann Stock, Assistant Secretary | Gold plated eagles. Rec'd—7/13/2011. Est. Value—$380.00. Location—Pending Transfer to General Services Administration | Her Excellency Hafsa Al Ulama, Ambassador of the United Arab Emirates Women's Football Committee | Non-acceptance would cause embarrassment to donor and U.S. Government.
The Honorable Dr. Arturo Valenzuela, Assistant Secretary | Engraved silver glass. Engraved silver spoon. Rec'd—4/7/2011. Est. Value—$460.00. Disposition—Permission to Retain for Offical Use Only | His Excellency Dr. Luis Federico Franco Gomez, Vice President of Paraguay | Non-acceptance would cause embarrassment to donor and U.S. Government.
The Honorable Capricia Penavic Marshall, Chief of Protocol | Wooden ship with cloth sails and stand. Rec'd—9/9/2011. Est. Value—$360.00. Location—Permission to Retain for Official Use Only | His Excellency Somduth Soborun, Ambassador to the United States from the Republic of Mauritius | Non-acceptance would cause embarrassment to donor and U.S. Government.
The Honorable Capricia Penavic Marshall, Chief of Protocol | 3.4 oz Lola Marc Jacobs perfume. Box of Godiva chocolates. Swarovski crystal Chinese zodiac tiger. Rec'd—12/12/2011. Est. Value—$388.00. Location—Pending Transfer to General Services Administration | His Excellency Ali Aujali, Ambassador of the Embassy of Libya | Non-acceptance would cause embarrassment to donor and U.S. Government.
The Honorable Capricia Penavic Marshall, Chief of Protocol | Mont Blanc pen with roller ball refill. Note from Ambassador. Rec'd—12/21/2011. Est. Value—$480.00. Location—Pending Transfer to General Services Administration | His Excellency Samir Sumaidaie, Former Ambassador to the United States from the Republic of Iraq | Non-acceptance would cause embarrassment to donor and U.S. Government.
The Honorable R. Stephen Beecroft, U.S. Ambassador to the Hashemite Kingdom of Jordan | Small gold coin with image of His Majesty King Abdullah II, the insignia of the Hashemite Kingdom of Jordan on the reverse side. Small silver coin with image of His Majesty King Abdullah II, the insignia of the Hashemite Kingdom of Jordan on the reverse side. Rec'd—5/26/2011. Est. Value—$996.00. Location—Pending Transfer to General Services Administration | Central Bank of the Hashemite Kingdom of Jordan | Non-acceptance would cause embarrassment to donor and U.S. Government.
The Honorable Daniel Benjamin, U.S. Ambassador-at-Large | Arabian sword with sheath and case. Rec'd—2/14/2011. Est. Value—$1,450.00. Location—Pending Transfer to General Services Administration | Ali bin Mohsen bin Fetais Al-Marri, Attorney General of the State of Qatar | Non-acceptance would cause embarrassment to donor and U.S. Government.
The Honorable Eleni Tsakopoulos Kounalakis, U.S. Ambassador to Hungary | Framed artwork made of marzipan, with representation of Hungarian lace patterns on blue background. Rec'd—2/16/2011. Est. Value—$4,000.00. Disposition—Permission to Retain for Offical Use Only | Dr. László Habis, Mayor of the City of Eger of Hungary | Non-acceptance would cause embarrassment to donor and U.S. Government.
The Honorable Joseph LeBaron and Elinor LeBaron, U.S. Ambassador to the State of Qatar and Spouse | Germani diamond men's watch. Germani diamond women's watch. Technoluxury men's watch . Rec'd—5/23/2011. Est. Value—$37,000.00. Location—Pending Transfer to General Services Administration | Major General Hamad bin Ali Al-Attiyah, Chief of Staff of the Qatar Armed Forces | Non-acceptance would cause embarrassment to donor and U.S. Government.
The Honorable Hugo Llorens, U.S. Ambassador to Republic of Hondorus | Silver tray inscribed to Ambassador Llorens. Rec'd—6/20/2011. Est. Value—$390.00. Location—Pending Transfer to General Services Administration | Honduras Diplomatic Corps | Non-acceptance would cause embarrassment to donor and U.S. Government.
The Honorable Richard Olson, U.S. Ambassador to the United Arab Emirates | Longines watch (evidenze) L26424. Rec'd—3/29/2011. Est. Value—$2,200.00. Location—Pending Transfer to General Services Administration | Mr. Hussein Abas Lootah, Dubai Economic Council of the United Arab Emirates | Non-acceptance would cause embarrassment to donor and U.S. Government.
The Honorable Clark Randt, U.S. Ambassador to the People's Republic of China | 5 scarves in different colors. Rec'd—Unknown. Est. Value—$800.00. Location—Pending Transfer to General Services Administration | Government of the People's Republic of China | Non-acceptance would cause embarrassment to donor and U.S. Government.
The Honorable Richard J. Schmierer, U.S. Ambassador to the Sultanate of Oman | Silver traditional Omani khanjar knife with plastic handle and leather back inside inscribed wooden box. Rec'd—12/1/2011. Est. Value—$1,000.00. Location—Pending Transfer to General Services Administration | Royal Air Force of Oman | Non-acceptance would cause embarrassment to donor and U.S. Government.
The Honorable Mary Burce Warlick, U.S. Ambassador to the Republic of Serbia | Framed painting in Serbian naïve style by Serbian painter Sara Stojkov . Rec'd—5/7/2011. Est. Value—$5,600.00. Disposition—Permission to Retain for Official Use Only | Colonel Goran Dragovic, Commander of the Counter Terrorist Unit of Serbia in the Ministry of Interior of the Republic of Serbia | Non-acceptance would cause embarrassment to donor and U.S. Government.
The Honorable Beatrice Welters, U.S. Ambassador to the Republic Trinidad and Tobago | Gold necklace and earring set. Rec'd—12/19/2011. Est. Value—$890.00. Location—Pending Transfer to General Services Administration | The Honorable Kamla Persad-Bissessar, S.C., Prime Minister of the Republic of Trinidad and Tobago | Non-acceptance would cause embarrassment to donor and U.S. Government.
The Honorable Susan Ziadeh, U.S. Ambassador to the State of Qatar | 100 Riyal, 92% gold coin, 17 grams. Rec'd—10/18/2011. Est. Value—$866.00. Location—Pending Transfer to General Services Administration | Abdulla Bin Saud Al-Thani, Governor of the Qatar Central Bank | Non-acceptance would cause embarrassment to donor and U.S. Government.
The Honorable Susan Ziadeh, U.S. Ambassador to the State of Qatar | Concord men's watch. Concord women's watch. Rec'd—10/18/2011. Est. Value—$1,125.00. Location—Pending Transfer to General Services Administration | Major General Hamad bin Ali Al-Attiyah, Chief of Staff of the Qatar Armed Forces | Non-acceptance would cause embarrassment to donor and U.S. Government.
The Honorable Carlos Pascual, Special Envoy for International Energy Affairs | Wool and silk rug. Wool and silk rug. Silver bowl. Rec'd—9/14/2011. Est. Value—$1,533.00. Location—Recipient Wishes to Purchase | Ministry of Water and Power of the Government of Pakistan | Non-acceptance would cause embarrassment to donor and U.S. Government.
Ms. Gladys Boluda, Assistant Chief of Protocol | Swarovski angelfish figurine, Jonquil Moroda. Rec'd—12/8/2011. Est. Value—$440.00. Location—Pending Transfer to General Services Administration | His Excellency Ali Aujali, Ambassador of the Embassy of Libya | Non-acceptance would cause embarrassment to donor and U.S. Government.
Ms. Susannah Cooper, Economic Counselor | Mont Blanc 38302 StarWalker ballpoint pen. Rec'd—6/20/2011. Est. Value—$950.00. Location—Pending Transfer to General Services Administration | His Excellency Mohammed Saif Al Suwaidi, Direct General of the Abu Dhabi Fund for Development | Non-acceptance would cause embarrassment to donor and U.S. Government.
Ms. Marina Ereci, Spouse of the U.S. Ambassador to the Kingdom of Bahrain | Gold necklace, rings, earrings, bracelet. Rec'd—1/13/2011. Est. Value—$4,650.00. Location—Pending Transfer to General Services Administration | Sheikha Sabeeka Al Kahlifa, Spouse of the King of the Kingdom of Bahrain | Non-acceptance would cause embarrassment to donor and U.S. Government.
Ms. Cvaleria Fowler, Deputy Chief of Mission at the Embassy of Colombo, Sri Lanka | Silver jewel box with semi-precious stones. Rec'd—Unknown. Est. Value—$486.00. Disposition—Permission to Retain for Official Use Only | Gamini Senarath, Chief of Staff to the President of the Democratic Socialist Republic of Sri Lanka | Non-acceptance would cause embarrassment to donor and U.S. Government.
Ms. Alison Kiehle Friedman, Senior Coordinator for Public Engagement | iPad 64 GB 3G with iPad case. Rec'd—3/8/2011. Est. Value—$698.00. Location—Recipient Wishes to Purchase | Lieutenant General Sheikh Saif Bin Zayed Al Nahyan, Minister of the Interior and Deputy Prime Minister of the United Arab Emirates | Non-acceptance would cause embarrassment to donor and U.S. Government.
Mr. Gil Kerlikowske, Director of the White House Office of the National Drug Control Policy | Rug with brown, burgundy, yellow, green, cream, pale blue, featuring leaf shapes making up a diamond pattern, and surrounded by several rectangular borders around the perimeter of the rug. Rec'd—3/25/2011. Est. Value—$1,000.00. Location—Pending Transfer to General Services Administration | Head of the Delegation for the 2011 Commission on Narcotic Drugs from the Republic of Afghanistan | Non-acceptance would cause embarrassment to donor and U.S. Government.
Ms. Kimburlan Lovz, Protocol Officer | Silver Raymond watch with crown on the face. Rec'd—9/1/2011. Est. Value—$780.00. Location—Pending Transfer to General Services Administration | Khalil Atieh, Protocol Officer of the Royal Hashemite Court of the Hashemite Kingdom of Jordan | Non-acceptance would cause embarrassment to donor and U.S. Government.
Ms. Mirembe Nantongo, Deputy Chief of Missions | Box set containing JBR diamond watch, perfume, Pierro Cardin bracelet, and two pens. Rec'd—9/8/2011. Est. Value—$4,200.00. Location—Pending Transfer to General Services Administration | Major General Hamad bin Ali Al-Attiyah, Chief of Staff of the Qatar Armed Forces | Non-acceptance would cause embarrassment to donor and U.S. Government.
Ms. Asel Roberts, Protocol Officer | Women's silver watch with black leather band. Rec'd—4/28/2011. Est. Value—$430.00. Location—Pending Transfer to General Services Administration | His Highness Sheikh Hamad bin Khalifa Al-Thani, Amir of the State of Qatar | Non-acceptance would cause embarrassment to donor and U.S. Government.
Ms. Julie Sawyer, Kuwait Desk Officer | Scarf. Rec'd—7/6/2011. Est. Value—$375.00. Location—Pending Transfer to General Services Administration | His Excellency Sheikh Salem Al-Sabah, Ambassador of Kuwait to the U.S | Non-acceptance would cause embarrassment to donor and U.S. Government.
Mr. John Shep, Program Officer | Pierre Cardin watch. Rec'd—10/18/2011. Est. Value—$490.00. Location—Pending Transfer to General Services Administration | Colonel Ogla Al Zboun, Commander of the Royal Guards of the Royal Hashemite Court of the Hashemite Kingdom of Jordan | Non-acceptance would cause embarrassment to donor and U.S. Government.
Ms. Sangeeta Shields, Spouse of the U.S. Ambassador to Brunei | Earring set and ring with sapphires and diamonds. Rec'd—5/10/2011. Est. Value—$2,800.00. Location—Pending Purchase from General Services Administration | Her Majesty Paduk a Seri Baginda Raja Isteri Pengiran Anak Hajjah Saleha, Queen of Brunei Darussalam | Non-acceptance would cause embarrassment to donor and U.S. Government.
Ms. Sangeeta Shields, Spouse of the U.S. Ambassador to Brunei | Louis Vuitton handbag. Rec'd—8/10/2011. Est. Value—$2,000.00. Location—Pending Transfer to General Services Administration | Her Majesty Paduka Seri Baginda Raja Isteri Pengiran Anak Hajjah Saleha, Queen of Brunei Darussalam | Non-acceptance would cause embarrassment to donor and U.S. Government.
Mr. Michael Stukel, FBI Special Agent | Marco Valentino watch. Rec'd—4/17/2011. Est. Value—$385.00. Location—Pending Transfer to General Services Administration | Kuwait State Security | Non-acceptance would cause embarrassment to donor and U.S. Government.

Agency: Department of the Air Force
[Report of tangible gifts furnished by the Department of the Air Force]
Name and title of person accepting the gift on behalf of the U.S. Government | Gift, date of acceptance on behalf of the U.S. Government, estimated value, and current disposition or location | Identity of foreign donor and government | Circumstances justifying acceptance
The Honorable Michael Donley, Secretary of United States Air Force | 36″ x 60″ light brown Afghan rug. 31″ x 96″ multicolor Afghan rug. Rec'd—9/4/2011. Est. Value—$1,100.00. Disposition—Pending Transfer to General Services Administration | His Excellency Abdul Rahim Wardak, Defense Minister of the Islamic Republic of Afghanistan | Non-acceptance would cause embarrassment to donor and U.S. Government.
The Honorable Michael Donley, Secretary of United States Air Force | Perfume-Al-Jazeera Paris Turquoise, Watch, JBR, Silver and Black Colored with Black band, Boxed Set—JBR Ladies Watch, copper colored with Black Leather Band, JBR Perfume, Pierre Cardin Copper Colored Pen, Pierre Cardin Silver Colored Cell Phone, Boxed Set—JBR Men's Watch with Black Ring and Black Leather Band. JBR Ladies Watch with Silver Ring and Black Leather band, JBR Silver and Black Pen, Pierre Cardin, Conino Lamborghini Wallet, Black, Samsonite X'ion Luggage Bag, Black, Guess Wallet, Black, Perfume-Al-Jazeera Paris Ruby, Perfume-Shalimar Parfum Initial, Perfume-Aqua Eau Parfum Signature. Rec'd—9/8/2011. Est. Value—$8,120.00. Disposition—Pending Transfer to General Services Administration | Major General Hamad Bin-Ali Al Attiyah, Chief of Staff of the Qatar Armed Forces | Non-acceptance would cause embarrassment to donor and U.S. Government.
General Norton Schwartz, Chief of Staff of the United States Air Force | 5′ x 8′ Moroccan rug. Rec'd—11/27/2009. Est. Value—$1,900.00. Location—Currently on display at the Air House, Washington, DC | Major General Ahmed Boutaleb, Chief of Staff Moroccan Air Force of the Kingdom of Morocco | Non-acceptance would cause embarrassment to donor and U.S. Government.
General Norton Schwartz, Chief of Staff of the United States Air Force | Rajput Warrior Dagger Picture with wood frame, White Stone Marble Plate, Framed Tile Artwork in Green Frame, Indian Woman Picture with wood and metal, Swan Silver Candy Dish frame, Wood Plaque, Framed Photo, Indian Woman Picture with wood and metal frame. Rec'd—2/4/2011. Est. Value—$420.00. Disposition—Pending Transfer to General Services Administration | Air Chief Marshal N.A.K. Browne, New Delhi India | Non-acceptance would cause embarrassment to donor and U.S. Government.
Lieutenant General Gary L. North, Commander, United States Central Command Air Forces (USCENTAF/CC), Shaw Air Force Base, South Carolina | Black Predator Titanium Special Ops Watch with solid titanium watch case and band. Rec'd—5/1/2008. Est. Value—$550.00. Disposition—Pending Transfer to General Services Administration | His Royal Highness Prince LTG Faisal bin Al Hussein, Special Assistant to the Chairman of the Joint Chiefs of Staff of the Hashemite Kingdom of Jordan | Non-acceptance would cause embarrassment to donor and U.S. Government.
Special Agent Brent D. Heckel, Air Force Office of Special Investigations, 24th Expeditionary Field Investigative Squadron, Protective Services Division, Al Udeid Air Base Qatar | Glamour Geneve Sports Watch. Rec'd—11/1/2011. Est. Value—$420.00. Disposition—Pending Transfer to General Services Administration | Dr Mohammed bin Saleh Al-Sada, Chief Executive Officer/Director of the Ras Laffan Industrial City and Qatar Petroleum, Doha, Qatar | Non-acceptance would cause embarrassment to donor and U.S. Government.
Lieutenant General David L. Goldfein, United States Air Forces Central Command, Al Udeid Air Base, Qatar | Momodesign Watch Set. Rec'd—9/8/2011. Est. Value—$700.00. Disposition—Pending Transfer to General Services Administration | Major General Ali Al-Sulaiti, Deputy Commander of the Qatar Emiri Air Force | Non-acceptance would cause embarrassment to donor and U.S. Government.
Lieutenant General David L. Goldfein, United States Air Forces Central Command, Al Udeid Air Base, Qatar | Delsey 20″ suitcase, MadlyKenzo Parfum, Masari Parfum, Bottle Eau De Toilette Man, Concord Saratoga Steel Men's Watch, Concord Saratoga Ladies Watch, MCM Women's Wallet, Helveco Men's Wallet, Daniel Hechter Tie, Aigner Tie. Rec'd—10/5/2011. Est. Value—$2,155.00. Disposition—Pending Transfer to General Services Administration | Major General Hamad Bin-Ali Al Attiyah, Chief of Staff of the Qatar Armed Forces | Non-acceptance would cause embarrassment to donor and U.S. Government.
Lieutenant General David L. Goldfein, United States Air Forces Central Command, Al Udeid Air Base, Qatar | Longines His and Hers Watches, Samsonite 20″ Suitcase, Attimo Eau de Toilette, Romance Parfum, Corneliani Tie, Pal Zileri Men's Silk Tie, Helveco Men's Wallet, Masari Parfum, Equss Women's Wallet. Rec'd—11/25/2011. Est. Value—$10,271.99. Disposition—Pending Transfer to General Services Administration | Major General Ali Al-Sulaiti, Deputy Commander of the Qatar Emiri Air Force | Non-acceptance would cause embarrassment to donor and U.S. Government.
Colonel Bernard E. Mater, Vice Commander, 438th Air Expeditionary Wing, Kabul, Afghanistan | Intense Euphoria Men's Cologne by Calvin Klein, 22 Karat gold link chain with cubic zirconium stone, 3′ x 5′ silk carpet. Rec'd—1/26/2011. Est. Value—$1,175.00. Disposition—Pending Transfer to General Services Administration | Major General Abdul Raziq Sherzai, Commander of the 738th AEW of the Islamic Republic of Afghanistan | Non-acceptance would cause embarrassment to donor and U.S. Government.
Lieutenant Colonel Sean Routier, Commander, 21st Fighter Squadron, Luke Air Force Base, Arizona | Tittot (a particular brand of Chinese glass art) colored crystal display piece entitled “Smiles of Victory”. Rec'd—7/7/2011. Est. Value—$1,000.00. Disposition—Currently on display at the 21st Fighter Squadron, Luke AFB, Arizona | Legislator Ming-Shing Lii, Member of the Taiwan Legislative Yuan | Non-acceptance would cause embarrassment to donor and U.S. Government.
Brigadier General Jerry D. Harris, Commander, 56th Fighter Wing, Luke Air Force Base, Arizona | Tittot (a particular brand of Chinese glass art) colored crystal display piece entitled “Smiles of Victory”. Rec'd—7/7/2011. Est. Value—$1,000.00. Disposition—Currently on display at the 56th Fighter Wing, Luke AFB | Legislator Ming-Shing Lii, Member of the Taiwan Legislative Yuan | Non-acceptance would cause embarrassment to donor and U.S. Government.
Lieutenant General Gilmary M. Hostage, III, United States Air Forces Central Command Commander, Al Udeid Air Base, Qatar | Watch, Clerq Women's Watch with Purple face Surrounded by Jewels with Leather Band, Watch, Clerq Men's Watch with Clear Face with Silver Dial with Embossed Wristband; Clerg Women's CXX Scuba Chronograph Watch with white diamonds, Gio Monaco Leather and animal skin wallet, Lioliche by Givana—Cologne for Men (100 ml), 5 bottles of hand-blended perfume, Santal Cologne by Creed (4 oz), Dynastie Eau de Parfum (100 ml), Mont Blanc Starisma Dlila Long Wallet, Clerg Men's Icon 8 Skeleton Silver Dial Watch with crocodile wristband. Rec'd—5/20/2011. Est. Value—$14,463.44. Disposition—Pending Transfer to General Services Administration | Major General Hamad Bin-Ali Al Attiyah, Chief of Staff of the Qatar Armed Forces | Non-acceptance would cause embarrassment to donor and U.S. Government.
Lieutenant General Gilmary M. Hostage, III, United States Air Forces Central Command Commander, Al Udeid Air Base, Qatar | Watch, Silver Colored Concord Men's with Silver Colored Band, Boxed Set-2 Dunhill Silver colored Watches with leather band, Dunhill Silver colored Cufflinks, Dunhill Silver Rollerball Pen, Watch, Silver Colored Concord Landis's with Silver Colored Band. Rec'd—8/2/2011. Est. Value—$7,500.00. Disposition—Pending Transfer to General Services Administration | Major General Hamad Bin-Ali Al Attiyah, Chief of Staff of the Qatar Armed Forces | Non-acceptance would cause embarrassment to donor and U.S. Government.
Lieutenant General Gilmary M. Hostage, III, United States Air Forces Central Command Commander, Al Udeid Air Base, Qatar | Eminent 20″ suitcase, Joseph H. Clissold Super 160's Wool Fabric, 3.4 oz Montale Black Musk Eau De Parfum, 3.4 oz Dirty English EDT cologne by Juicy Couture, 3.3. oz Turquoise Eau De Parfum, 3.4 oz Ambar EDT spray by Jesus del Pozo, Pal Zileri Men's Silk Tie, Equss/Paris Hilton Women's Wallet, Helveco Croc Embossed Men's Leather Wallet, Concord Mariner Steel Men's Watch, Concord Saratoga Steel Mini Ladies Watch, Dunhill Silver Cufflinks, Dunhill Wheel Watch, Dunhill Sentryman Diamond Patter Rollerball Pen, Dunhill Men's Steel Watch. Rec'd—8/3/2011. Est. Value—$10,287.13. Disposition—Pending Transfer to General Services Administration | Major General Hamad Bin-Ali Al Attiyah, Chief of Staff of the Qatar Armed Forces and General Hosni Mubarak, Qatar Chief of Air Staff, Qatar | Non-acceptance would cause embarrassment to donor and U.S. Government.
Jerry Marlow, SES, Assistant to Secretary of the United States Air Force | Boxed Set-Silver CYMA Watch with Metal band, Silver JBR Pen, Silver JBR Cufflinks, Black Leather JBR Wallet all in Wood Box. Rec'd—9/8/2011. Est. Value—$2,000.00. Disposition—Pending Transfer to General Services Administration | Major General Hamad Bin-Ali Al Attiyah, Chief of Staff of the Qatar Armed Forces | Non-acceptance would cause embarrassment to donor and U.S. Government.
Brigadier General Peggy Poore, Military Assistant to Secretary of the United States Air Force | Boxed Set- JBR Ladies Watch, copper colored with Black Leather Band, JBR Perfume, Pierre Cardin Copper Colored Pen, Pierre Cardin Silver Colored Cell Phone. Rec'd—9/8/2011. Est. Value—$2,000.00. Disposition—Pending Transfer to General Services Administration | Major General Hamad Bin-Ali Al Attiyah, Chief of Staff of the Qatar Armed Forces | Non-acceptance would cause embarrassment to donor and U.S. Government.
Brigadier General Scott Hansen, 321nd Air Expeditionary Wing Commander and Director, Iraq Training and Advisory Mission—Air Force, Baghdad, Iraq | Watch, Baum and Mercier Mens Silver Colored Watch with Brown Leather Band, Watch, Baum and Mercier Ladies Silver Colored Watch with Metal Band. Rec'd—12/21/2011. Est. Value—$3,000.00. Disposition—Pending Transfer to General Services Administration | Major General Hamad Bin-Ali Al Attiyah, Chief of Staff of the Qatar Armed Forces | Non-acceptance would cause embarrassment to donor and U.S. Government.

Agency: Department of the Army
[Report of tangible gifts furnished by the Department of the Army]
Name and title of person accepting the gift on behalf of the U.S. Government | Gift, date of acceptance on behalf of the U.S. Government, estimated value, and current disposition or location | Identity of foreign donor and government | Circumstances justifying acceptance
Colonel Michael F. Pappal, Brigade Commander, 1/1 Advise and Assist Task Force, United States Division-North, COS Warrior, Iraq | 30″ x 48″ Qom Persian silk rug. Rec'd—6/28/2011. Est. Value—$1,500.00. Disposition—Retain for Official Display | His Excellency Sheikh Jarrar Mustafa Ali, Minister of Peshmerga Affairs of the Kurdistan Regional Government of the Republic of Iraq | Non-acceptance would cause embarrassment to donor and U.S. Government.
Colonel Michael F. Pappal, Brigade Commander, 1/1 Advise and Assist Task Force | 30″ x 48″ Qom Persian silk rug. Rec'd—9/18/2011. Est. Value—$1,500.00. Disposition—Retain for Official Display | His Excellency Sheikh Jarrar Mustafa Ali, Minister of Peshmerga Affairs of the Kurdistan Regional Government of the Republic of Iraq | Non-acceptance would cause embarrassment to donor and U.S. Government.
Lieutenant General Michael Ferriter, Deputy Commanding General | 39″ x 57″ rug. Rec'd—1/11/2011. Est. Value—$500.00. Disposition—Retain for Official Display | His Excellency Sheikh Jarrar Mustafa Ali, Minister of Peshmerga Affairs of the Kurdistan Regional Government of the Republic of Iraq | Non-acceptance would cause embarrassment to donor and U.S. Government.
Colonel John A. Peeler, 2D Brigade Combat Team (Advise and Assist) 1st Cavalry Division, Brigade Commander | Persian Silk Rug. Rec'd—10/28/2009. Est. Value—$1,500.00. Disposition—Retain for Official Display | His Excellency Sheikh Jarrar Mustafa Ali, Minister of Peshmerga Affairs of the Kurdistan Regional Government of the Republic of Iraq | Non-acceptance would cause embarrassment to donor and U.S. Government.
Lieutenant Colonel Michael Tedesco, Division Special Troops Battalion Commander, 4th Infantry Division | Bust of Saddam Hussein—bronze with black finish; Bust of Saddam Hussein—white marble and chipped nose; Brass Dish—Painted likeness of Saddam Hussein. Rec'd—8/20/2011. Est. Value—$526.85 Disposition—Retain for Official Use | Staff Brigadier General Ali Mohammed Hassan, Dean of the Iraqi Air Force Academy of the Republic of Iraq | Non-acceptance would cause embarrassment to donor and U.S. Government.
Brigadier General Jeffrey A. Sinclair, Deputy Commanding General, Regional Command-South, 82nd Airborne Division, Kandahar Airfield, Afghanistan | 3′ x 53′ Oriental Wool Rug. Rec'd—10/27/2011. Est. Value—$600.00. Disposition—Retain for Official Display | Major General Abdul Raziq Sherzai, Commander of the 738th AEW of the Islamic Republic of Afghanistan | Non-acceptance would cause embarrassment to donor and U.S. Government.
Major General James L. Huggins Jr., Commander, Regional Command-South, 82nd Airborne Division, Kandahar Airfield, Afghanistan | 73′ x 103′ Oriental Wool Rug. Rec'd—10/27/2011. Est. Value—$1,200.00. Disposition—Retain for Official Display | Major General Abdul Raziq Sherzai, Commander of the 738th AEW of the Islamic Republic of Afghanistan | Non-acceptance would cause embarrassment to donor and U.S. Government.
Major General David G. Perkins, Commanding General, United States Division 96 North, COB Speicher, Iraq | 71′ x 50′ Persian Rug. Rec'd—10/10/2011. Est. Value—$1,900.00. Disposition—Retain for Official Display | Barham Ahmed Salih Qasim, Former Prime Minister of the Kurdistan Regional Government | Non-acceptance would cause embarrassment to donor and U.S. Government.
Major General Bernard S. Champoux, Commanding General, 25th ID & USD-Center, Iraq | Bohemia crystal Czech vase, 10.5″ tall, gold pattern, hand decorated with flower design; crystal decanter with stopper, 12.53′ tall, gold hand, decorated with flower design plus six accompanying glasses; crystal wine pitcher, 12′ tall, gold pattern plus six accompanying champagne glasses; Italian super 120's grey, classic two button suit, with four detail buttons on sleeve and cuff. Rec'd—10/31/2011. Est. Value—$759.00. Disposition—Retain for Official Display and Pending Transfer to General Services Administration | Staff Major General Tariq Hashem, Iraqi Army Operations Center of the Republic of Iraq | Non-acceptance would cause embarrassment to donor and U.S. Government.
Major General Bernard S. Champoux, Commanding General, 25th ID & USD-Center, Iraq | 2′ x 4′ silk rug with fringe, handmade and in good condition. Rec'd—11/21/2011. Est. Value—$1,700.00. Disposition—Retain for Official Display | His Excellency Dr. Saleh, al-Mutlaq, Deputy Prime Minister of Services of the Republic of Iraq | Non-acceptance would cause embarrassment to donor and U.S. Government.
Major General Jeffrey S. Buchanan, Director, J9, US Forces—Iraq | Silk rug, 3′ x 5′ in red, gold, and blue. Rec'd—1/12/2009. Est. Value—$500.00. Disposition—Retain for Official Display at HSC, 25th STB, Command Group, Building 580, Schofield Barracks, HI 96857 | Staff Major General Ayad Abd al Wadud Fuad, Iraqi Army Rusafa Operations Center of the Republic of Iraq | Non-acceptance would cause embarrassment to donor and U.S. Government.
Major General Robert Caslen, Commanding General, 25th Infantry Division, Multi-National Division-North Iraq | Stainless-steel Orient Chronograph Sapphire men's watch. Rec'd—5/3/2011. Est. Value—$385.00. Disposition—Pending Transfer to General Services Administration | Iraqi Government Official, Republic of Iraq | Non-acceptance would cause embarrassment to donor and U.S. Government.
Colonel Maxine C. Girard, Commander, Area Support Group-Qatar, Camp As Sayliyah, Qatar | Cyma Ladies New Signature Watch; JRB Perfume (50 ml/1.7 fl oz); Pierre Cardin Open Heart and Star Cell Phone Accessory; Wood Gift Box; Pierre Cardin Pens. Rec'd—12/3/2011. Est. Value—$2,205.00. Disposition—Pending Transfer to General Services Administration | Major General Hamad bin Ali Al-Attiyah, Chief of Staff of the Qatar Armed Forces | Non-acceptance would cause embarrassment to donor and U.S. Government.
Lieutenant Colonel Brian Cole, Sr., Deputy Commander—Area Support Group-Kuwait | Watch, Michele CSX, silver color. Rec'd—1/28/2011. Est. Value—$550.00. Disposition—Pending Transfer to General Services Administration | Sheikha Sabah Al Naser Al-Sabah, Spouse of Minister of Defense for Kuwait | Non-acceptance would cause embarrassment to donor and U.S. Government.
Major Adil Elnour, Deputy Director for Host Nation Affairs—Area Support Group-Kuwait | Watch, MW CSX Traveler. Rec'd—1/28/2011. Est. Value—$750.00. Disposition—Pending Transfer to General Services Administration | Sheikha Sabah Al Naser Al-Sabah, Spouse of Minister of Defense for Kuwait | Non-acceptance would cause embarrassment to donor and U.S. Government.
Esvelia Baez, Protocol Officer, Area Support Group-Qatar, Camp As Sayliyah, Qatar | JBR Watch, stainless steel. Rec'd—9/22/2011. Est. Value—$2,000.00. Disposition—Pending Transfer to General Services Administration | Major General Hamad bin Ali Al-Attiyah, Chief of Staff of the Qatar Armed Forces | Non-acceptance would cause embarrassment to donor and U.S. Government.
Command Sergeant Major Charles A. Holliday, Command Sergeant Major, Area Support Group-Qatar | Geo Vani watch, GOB501-D, all stainless steel, Swiss-made. Rec'd—9/22/2011. Est. Value—$2,000.00. Disposition—Pending Transfer to General Services Administration | Major General Hamad bin Ali Al-Attiyah, Chief of Staff of the Qatar Armed Forces | Non-acceptance would cause embarrassment to donor and U.S. Government.
Colonel Wayne C. Grieme, Jr., Commander, Area Support Group-Qatar | JBR Watch, GL SS W81.644Q1, all stainless steel, Swiss made, water resistant 3 ATM, black leather watch band. Rec'd—9/22/2011. Est. Value—$2,000.00. Disposition—Pending Transfer to General Services Administration | Major General Hamad bin Ali Al-Attiyah, Chief of Staff of the Qatar Armed Forces | Non-acceptance would cause embarrassment to donor and U.S. Government.
Major General Michael T. Harrison, Sr., Commanding General US Army Japan and I Corps (FWD) | Mikimoto Pearl Tie Pin; Mikimoto Pearl Brooch. Rec'd—7/8/2011. Est. Value—$704.00. Disposition—Purchased by Recipient | General Yoshifumi Hibako, Chief of Staff of the Ground Staff Office of the Japanese Ground Self Defense Force (JGSDF) of Japan | Non-acceptance would cause embarrassment to donor and U.S. Government.

Agency: Department of Commerce
[Report of tangible gifts and travel furnished by the Department of Commerce]
Name and title of person accepting the gift on behalf of the U.S. Government | Gift, date of acceptance on behalf of the U.S. Government, estimated value, and current disposition or location | Identity of foreign donor and government | Circumstances justifying acceptance
The Honorable Gary F. Locke, Secretary of the Department of Commerce | Hand Crafted Decorative pottery “Seed Pot”. Rec'd—1/19/2011. Est. Value—$650.00. Disposition—Transferred to General Services Administration | His Excellency Hu Jintao, President of the People's Republic of China | Non-acceptance would cause embarrassment to donor and U.S. Government.
The Honorable Gary F. Locke, Secretary of the Department of Commerce | One Large glass sculpture by Molinari. Rec'd—4/4/2011. Est. Value—$350.00. Disposition—Transferred to General Services Administration | His Excellency Fernando Pimentel, Minister of Development, Industry and Foreign Trade of the Federative Republic of Brazil | Non-acceptance would cause embarrassment to donor and U.S. Government.
The Honorable Gary F. Locke, Secretary of the Department of Commerce | Model of high pressure turbine jet engine blade. Rec'd—5/18/2011. Est. Value—$650.00. Disposition—Transferred to General Services Administration | Pratt and Witney/Shanghai Aircraft Engine Maintenance Co., China | Non-acceptance would cause embarrassment to donor and U.S. Government.
The Honorable Gary F. Locke, Secretary of the Department of Commerce | Miniature toy model of EN-V concept vehicle. Rec'd—5/18/2011. Est. Value—$750.00. Disposition—Transferred to General Services Administration | SAIC-GM/EXPO 2010 Shangai, China | Non-acceptance would cause embarrassment to donor and U.S. Government.
The Honorable Gary F. Locke, Secretary of the Department of Commerce | Amber-colored and glazed Lie Li glass vessel. Vessel, Base height 8′ “Rising”. Rec'd—5/18/2011. Est. Value—$4,500.00. Disposition—Transferred to General Services Administration | Harley Seyedin, President, American Chamber of Commerce, Shanghai, China | Non-acceptance would cause embarrassment to donor and U.S. Government.
The Honorable Gary F. Locke, Secretary of the Department of Commerce | Book, title: “Niemeyer”. Rec'd—5/18/2011. Est. Value—$350.00. Disposition—Transferred to General Services Administration | Her Excellency Dilma Rousseff, President of the Federative Republic of Brazil | Non-acceptance would cause embarrassment to donor and U.S. Government.
The Honorable Gary F. Locke, Secretary of the Department of Commerce | Large Landscape Portrait. Rec'd—8/10/2011. Est. Value—$550.00. Disposition—Transferred to General Services Administration | His Excellency Tsakhiagiin Elbergdorj, President of Mongolia | Non-acceptance would cause embarrassment to donor and U.S. Government.
Suresh Kumar, Assistant Secretary of International Trade Administration | Aluminum Box with fishing rod and reel. Rec'd—10/26/2011. Est. Value—$400.00. Disposition—Transferred to General Services Administration | Shaanxi Youser Group, Xi'an Sha'anxi Province, China | Non-acceptance would cause embarrassment to donor and U.S. Government.
Dr. Kang B Lee, Electronics Engineer | TRAVEL: Airfare, registration fee, and lodging for the Third International Conference on Measuring Technology and Mechatronics Automation and to visit the Shanghai University of Engineering and Science. Rec'd—1/4/2011. Est. Value—$2,800.00 | International Conference on Measuring Technology and Mechatronics Automation | Non-acceptance would cause embarrassment to donor and U.S. Government.
Dr. Jack Douglas, Research Chemist | TRAVEL: Airfare, meals, lodging to present an invited talk at the Indo-U.S. Meeting/Workshop on Self-Assembled Fibrillar Gels. Rec'd—1/5/2011. Est. Value—$3,486.34 | Professor Uday Maitra, Department of Organic Chemistry, Indan Institute of Science, Bangalore, India | Non-acceptance would cause embarrassment to donor and U.S. Government.
Dr. James Porto, Physicist | TRAVEL: Lodging, meals, incidental expenses, and taxis—provided in order to present an invited talk, “Quantum Information: from Foundations to Applications” and meet with University staff. Rec'd—1/8/2011. Est. Value—$761.04 | Silke Froemmig, Universitat Hamburg, Germany | Non-acceptance would cause embarrassment to donor and U.S. Government.
Dr. Carelyn Campbell, Metallurgist | TRAVEL: Airfare provided in order to present a lecture in a research workshop entitled, “Multiscale Simulation of Heterogeneous Materials and Coupling Thermodynamic Models”. Rec'd—1/10/2011. Est. Value—$1,632.00 | Department of Metallurgy and Materials Engineering, Leuven, Belgium | Non-acceptance would cause embarrassment to donor and U.S. Government.
Dr. Adam Jacoff, Mechanical Engineer | TRAVEL: Airfare and miscellaneous expenses provided in order to attend the Test Method Experiments and Kisoi Award Ceremony. Rec'd—1/12/2011. Est. Value—$4,100.64 | Tohoku University, Sendai, Japan | Non-acceptance would cause embarrassment to donor and U.S. Government.
Dr. Willie E May, Director for Laboratory Programs | TRAVEL: Airfare, per diem, lodging provided in order to participate in the on-site peer review of Health Science's Chemical Metrology in the areas of inorganic and Organic Analysis. Rec'd—1/17/2011. Est. Value—$11,472.00 | Kee Tong Kool, Health Sciences Authority, Singapore | Non-acceptance would cause embarrassment to donor and U.S. Government.
Dr. Robert D Shull, NIST Fellow | TRAVEL: Airfare and ground transportation provided in order to participate and evaluate a proposal on the National Research Network High Performance Bulk Nanostructure Materials. Rec'd—1/20/2011. Est. Value—$1,417.30 | Austrian Science Fund, Sensengasse, Austria | Non-acceptance would cause embarrassment to donor and U.S. Government.
Dr. Charles W Clark, NIST Fellow | TRAVEL: Lodging, meals, local transportation, and miscellaneous expenses provided in order to present a briefing on joint U.S.-Singapore work in the field of quantum technologies. Rec'd—1/26/2011. Est. Value—$6,002.79 | National University of Singapore, Singapore | Non-acceptance would cause embarrassment to donor and U.S. Government.
Dr. James A Liddle, Group Leader | TRAVEL: Conference registration fee provided in order to present an invited talk and meet with world experts to discuss nanoscale science and technology at the AMN-5 Fifth International Conference on Advance Materials and Nanotechnology. Rec'd—2/7/2011. Est. Value—$674.19 | University of Canterbury, Christchurch, New Zealand | Non-acceptance would cause embarrassment to donor and U.S. Government.
Dr. David Nesbitt, NIST Fellow | TRAVEL: Airfare, lodging, meals, and ground transportation provided in order to attend the NSRRC's annual Science Advisor's Committee meeting and serve as an advisor. Rec'd—2/12/2011. Est. Value—$2,800.00 | National Synchrotron Radiation Research Center, Taiwan | Non-acceptance would cause embarrassment to donor and U.S. Government.
Dr. Steven Cundiff, Physicist | TRAVEL: Airfare, Lodging, and partial meal expenses provided in order to serve as a committee member on two students' thesis exams and collaborate with two professors. Rec'd—2/16/2011. Est. Value—$2,308.49 | Ecole Polytechnique Federal de Lausanne, Lausanne, Switzerland | Non-acceptance would cause embarrassment to donor and U.S. Government.
Magdalena Navarro, International Affairs Officer | TRAVEL: Conference registration fee, lodging, and airfare provided to present an invited talk to the Spanish fire protection community on the topics of “Collecting Charleston, SC Furniture Store Fire,” and “NIST Structural Fire Engineering Laboratory”. Rec'd—2/23/2011. Est. Value—$1,476.61 | Asociacion de Professionales de Ingenieria de Proteccion contra Incedios (APICI), Madrid, Spain | Non-acceptance would cause embarrassment to donor and U.S. Government.
Dr. Gleen Solomon, Physicist | TRAVEL: Airfare and lodging provided in order to attend the German Physical Society Annual meeting and present an invited talk entitled, “Two-photon Interference from Separate Quantum Dots”. Rec'd—3/13/2011. Est. Value—$1,272.24 | Deustche Physikalische Gesellschraft School, Badhonnef, Germany | Non-acceptance would cause embarrassment to donor and U.S. Government.
William C Barker, Associate Director and Chief Cyber Security Advisor | TRAVEL: Lodging provided in order to present an invited talk “U.S. Perspective” at the World Cyber Security Technology Research Summit. Rec'd—3/16/2011. Est. Value—$501.00 | Centre for Secure Information Technologies, Queen's University, Belfast, United Kingdom | Non-acceptance would cause embarrassment to donor and U.S. Government.
Dr. James K Thompson, Physicist | TRAVEL: Airfare, ground transportation, registration fee, meals, POV mileage, tolls, and parking provided in order to serve as a member of a review panel of Euro QUASAR and attend the Frontiers in Matter Optics Conference. Rec'd—3/26/2011. Est. Value—$2,952.91 | European Science Foundation, Cedex, France | Non-acceptance would cause embarrassment to donor and U.S. Government.
Dr. Steven Cundiff, Physicist | TRAVEL: Airfare, registration fees, meals, and lodging provided in order to serve as a review panel member of Euro QUASAR and attend the Frontiers in Matter Optics Conference. Rec'd—3/20/2011. Est. Value—$2,952.91 | European Science Foundation, Cedex, France | Non-acceptance would cause embarrassment to donor and U.S. Government.
Dr. Ian Speilman, Physicist | TRAVEL: Attend the Deustche Physikalishe Gesellschraft School on new advances in quantum gases and present an invited talk on “Artificial Magnetic Fields”. Rec'd—3/28/2011. Est. Value—$1,881.96 | Deustche Physikalische Gesellschraft School, Badhonnef, Germany | Non-acceptance would cause embarrassment to donor and U.S. Government.
Dr. William Rippey, Electronics Engineer | TRAVEL: Airfare and lodging in order to attend the Metromeet 2011 Conference and give a presentation on the QIF standards effort to publicize it, survey state of commercial dimensional metrology technology and standards in Europe, and encourage collaboration. Rec'd—3/28/2011. Est. Value—$955.59 | Innovalia Association, Bilbao, Spain | Non-acceptance would cause embarrassment to donor and U.S. Government.
Juan Ye, NIST Fellow | TRAVEL: Airfare, lodging, meals, and local transportation provided in order to present an invited talk at the IFRAF-Fermix Workshop. Rec'd—3/28/2011. Est. Value—$2,365.00 | Laboratoire Kaster Brossel, Ecole Normale Superieure, Paris, France | Non-acceptance would cause embarrassment to donor and U.S. Government.
Dr. Marcus Cicerone, Project Leader | TRAVEL: Airfare, lodging, meals, taxi, and local transportation provided in order to serve as an expert panel member for evaluation of EU-wide CARS cooperative grant program and for talk entitled “Broadband CARS Microscopy: Label-Free Chemical Imaging for Biology”. Rec'd—4/17/2011. Est. Value—$2,396.93 | European Cooperation in Science and Technology, Brussels, Belgium | Non-acceptance would cause embarrassment to donor and U.S. Government.
Dr. Angela Hight-Walker, Research Chemist | TRAVEL: Airfare, lodging, meals, and ground transportation provided in order to participate and present an invited talk, “Physicochemical Characterization of Engineered Nanoparticles: The measurands that influence Nano Environmental Health and Safety” at the KRISS Workshop on Environment, Health, and Safety in Nano-materials . Rec'd—4/28/2011. Est. Value—$2,025.00 | Korea Research Institute of Standards and Science, Deajeon, Korea | Non-acceptance would cause embarrassment to donor and U.S. Government.
Dr. Thomas Crowley, Physicist | TRAVEL: Airfare, lodging, and meals provided in order to discuss the Korean Research Institute of Standards and Science's work on microwave power measurements including plans for a calorimeter with 2.4 mm connectors and future technical collaborations. Rec'd—5/8/2011. Est. Value—$2,573.84 | Korea Research Institute of Standards and Science, Deajeon, Korea | Non-acceptance would cause embarrassment to donor and U.S. Government.
Dr. Dietrich Leibfried, Physicist | TRAVEL: Lodging and miscellaneous expenses provided in order to present an invited talk, “Towards Scalable Quantum Information Processing and Quantum Simulation with Trapped Ions”. Rec'd—5/10/2011. Est. Value—$313.48 | McGill University, Montreal, Canada | Non-acceptance would cause embarrassment to donor and U.S. Government.
Dr. Dietrich Leibfried, Physicist | TRAVEL: Lodging and miscellaneous expenses provided in order to present an invited talk, “Towards Scalable Quantum Information Processing and Quantum Simulation with Trapped Ions”. Rec'd—5/10/2011. Est. Value—$313.48 | Universite' de Sherbrooke, Sherbrook, Canada | Non-acceptance would cause embarrassment to donor and U.S. Government.
Dr. Eric Cornell, NIST Fellow | TRAVEL: Airfare, meals, ground transportation, lodging, and internet expenses provided in order to present an invited talk at the Griffin Fest of the University of Toronto Department of Physics. Rec'd—5/12/2011. Est. Value—$1,502.99 | University of Toronto, Department of Physics, Toronto, Canada | Non-acceptance would cause embarrassment to donor and U.S. Government.
David Nesbitt, NIST Fellow | TRAVEL: Airfare, lodging, meals incidental expenses, internet expenses, rental car, fuel, and public transportation provided in order to present an invited lecture for the Queen's University Department of Chemistry 2011 Frost Event. Rec'd—5/12/2011. Est. Value—$1,230.84 | Queen's University Department of Chemistry, Kingston, Canada | Non-acceptance would cause embarrassment to donor and U.S. Government.
Dr. Marcus Cicerone, Project Leader | TRAVEL: Airfare provided in order to present an invited talk about recent progress in programmatic focus area of CARS microscopy entitled “Broadband CARS Microscopy: Label-Free Chemical Imaging for Biology”. Rec'd—5/22/2011. Est. Value—$1,025.00 | University of Twente, Enschede, The Netherlands | Non-acceptance would cause embarrassment to donor and U.S. Government.
Jack Douglas, NIST Fellow | TRAVEL: Lodging provided in order to visit the Theoretical Chemistry Sector at Cambridge University. Rec'd—5/31/2011. Est. Value—$300.00 | University of Chemical Laboratories, Cambridge, United Kingdom | Non-acceptance would cause embarrassment to donor and U.S. Government.
Dr. Bradley Moore, Program Manager | TRAVEL: Airfare, lodging, and ground transportation provided in order to serve as a member of the Asian Pacific Laboratory Accreditation Cooperation Peer Evaluation Team. Rec'd—6/3/2011. Est. Value—$2,747.56 | Electromagenetic Compatibility and Telecommunications Laboratory Accreditions Center, Tokyo, Japan | Non-acceptance would cause embarrassment to donor and U.S. Government.
Dr. Dan Neumann, Physicist | TRAVEL: Airfare and lodging provided in order to attend and participate in the KENS-SAC KEK Neutron Science Advisory Committee meeting. Rec'd—6/7/2011. Est. Value—$3,543.04 | Institute of Materials Structure Science High Energy Accelerator Research Organization, Ibaraki, Japan | Non-acceptance would cause embarrassment to donor and U.S. Government.
Dr. David Newell, Research Physicist | TRAVEL: Airfare and lodging provided in order to present an invited talk, “The 2010 Adjustment of the Fundamental Constants and the New SI” at the seminar “Astrophysics, Clocks, and Fundamental Constants” in Physikzentrum Bad Honnef, Germany. Rec'd—6/26/2011. Est. Value—$1,854.63 | Wilhelm und Else Hereaus-Stifung, Hanau, Germany | Non-acceptance would cause embarrassment to donor and U.S. Government.
Dr. Bruce Miller, Physicist | TRAVEL: Lodging provided in order to attend the LaTeXML (computer program) Workshop in Bremen, Germany. Rec'd—7/3/2011. Est. Value—$467.87 | Jacobs University, Bremen, Germany | Non-acceptance would cause embarrassment to donor and U.S. Government.
Dr. Gregory Linteris, Mechanical Engineer | TRAVEL: Airfare, public transportation, foreign country exit fees, internet charges, parking, POV mileage, baggage fees, lodging, meals, incidental expenses, and miscellaneous expenses provided in order to make technical presentation and attend the BASF Flame Retardancy Symposium of 2011. Rec'd—7/4/2011. Est. Value—$2,867.70 | BASF, The Chemical Company, Ludwigshafen, Germany | Non-acceptance would cause embarrassment to donor and U.S. Government.
Dr. Ulf Griesman, Scientist | TRAVEL: Airfare, lodging, meals, ground transportation, and incidental expenses provided in order to participate in collaborative research with Australian Centre for Precision Optics. Rec'd—7/22/2011. Est. Value—$2,623.74 | Commonwealth Science and Industrial Research, Advanced Engineering Components Theme in the Future Manufacturing Flagship, Lindfield, Australia | Non-acceptance would cause embarrassment to donor and U.S. Government.
Dr. Robert McMichael, Physicist | TRAVEL: Lodging and meals provided in order to attend the “Magnonics: From Fundamentals to Applications 2nd International Workshop”. Rec'd—8/7/2011. Est. Value—$705.00 | Universidad Federal de Pernambuco, Recife, Brazil | Non-acceptance would cause embarrassment to donor and U.S. Government.
Dr. Joseph Stroscio, Physicist | TRAVEL: Lodging—provided in order to attend and present an invited plenary lecture, “Development of Ultra-Low Temperature Scanning Probe Microscopy Techniques and Their Application to Graphene Research” at the 26th International Conference on Low Temperature Physics in Beijing, China. Rec'd—8/10/2011. Est. Value—$770.00 | International Union of Pure and Applied Physics, Institute of Physics, London, United Kingdom | Non-acceptance would cause embarrassment to donor and U.S. Government.
Dr. Kang B Lee, Electronics Engineer | TRAVEL: Airfare, ground transportation, registration fee, meals, and lodging provided to the traveler in order to attend the 2011 International Conference on Electronic Measurement and Instruments. Will present an invited talk on smart sensors and networks in distributed systems. Rec'd—8/13/2011. Est. Value—$3,871.07 | International Conference on Electronic Measurement and Instruments 2011 Committee, Chengdu, China | Non-acceptance would cause embarrassment to donor and U.S. Government.
Dr. Peter Mohr, Physicist | TRAVEL: Airfare, lodging, registration fee, meals, and incidental expenses provided in order to attend the annual Ringberg Seminar and present an invited talk entitled, “The New Doata Fundamental Constants and the New SI”. Rec'd—8/27/2011. Est. Value—$1,314.14 | Max-Planck Institut fur Quantenoptik, Munich, Germany | Non-acceptance would cause embarrassment to donor and U.S. Government.
Dr. John B Schlager, Scientist | TRAVEL: Airfare, lodging, meals, incidental expenses, baggage fees, parking, tolls, mileage, local transportation, and internet expenses provided in order to attend the Chitose International Forum and present a talk. Will also visit Sophia University in Tokyo. Rec'd—8/27/2011. Est. Value—$2,183.23 | Chitose Institute of Science and Technology, Hokkaido, Japan | Non-acceptance would cause embarrassment to donor and U.S. Government.
Konrad Lehnert, Physicist | TRAVEL: Registration fee, lodging, airfare, and local transit provided in order to present a talk, “Generating Entanglement Among Microwave Photons” at the Quantum Information Processing and Communication 2011 Conference. Rec'd—9/4/2011. Est. Value—$3,147.35 | ETH Zurich, Switzerland | Non-acceptance would cause embarrassment to donor and U.S. Government.
Dr. David Nesbitt, NIST Fellow | TRAVEL: Registration fee, lodging, meals, and partial airfare provided in order to serve as a plenary speaker at the 2011 Conference on Molecular Energy Transfer. Rec'd—9/12/2011. Est. Value—$1,540.30 | Journal of Physical Chemistry/Chemical Physics, Royal Society of Chemistry, London, United Kingdom | Non-acceptance would cause embarrassment to donor and U.S. Government.
Dr. William Phillips, Physicist | TRAVEL: Lodging and meals provided in order to give an invited presentation at the Future Science Leadership Seminar. Rec'd—9/12/2011. Est. Value—$1,470.74 | Oxford University, Oxford, United Kingdom | Non-acceptance would cause embarrassment to donor and U.S. Government.
Dr. Jeffrey Fagan, Chemical Engineer | TRAVEL: Airfare, lodging, and meals provided in order to present a talk on “Carbon Nantube Fluorescence: the Effects of Local Environment”. Rec'd—9/13/2011. Est. Value—$1,054.74 | University of Strathclyde, Glasgow, Scotland | Non-acceptance would cause embarrassment to donor and U.S. Government.
Dr. Jack Douglas, Research Chemist | TRAVEL: Airfare, lodging, meals, provided in order to present an invited talk on “Influence of nanoparticles on Fragility and Collective Particle Motion in Polymer Glass Formation”. Rec'd—9/17/2011. Est. Value—$3,016.15 | Dalhousie University, St. John's, Newfoundland, Canada | Non-acceptance would cause embarrassment to donor and U.S. Government.
Dr. Dietrich Leibfreid, Physicist | TRAVEL: Airfare provided in order to attend the International Conference on Quantum, Atomic, Molecular, and Plasma Physics and present an invited talk, “Quantum Information Processing and Time-Keeping using Trapped Ions”. Rec'd—9/19/2011. Est. Value—$1,221.94 | University of Oxford, Oxford, United Kingdom | Non-acceptance would cause embarrassment to donor and U.S. Government.
Jeffrey T Fong, Physicist | TRAVEL: Lodging and local transportation provided in order to deliver lecture entitled “Design of Experiments and Advanced Techniques of Uncertainty Quantification for Life Estimation and Extensions of Full-Scale New and Aging Structures”. Rec'd—9/22/2011. Est. Value—$520.00 | State University of Campinas, Department of Mechanical Design, Cidade Universitaria, Sao Paulo, Brazil | Non-acceptance would cause embarrassment to donor and U.S. Government.
Jeffrey T Fong, Physicist | TRAVEL: Lodging and local transportation provided in order to deliver lecture entitled “Design of Experiments and Advanced Techniques of Uncertainty Quantification for Life Estimation and Extensions of Full-Scale New and Aging Structures.” Will also give two talks “NIST Research on Uncertainty Quantification in computational modeling for materials Science and Engineering” and “A Tutorial on a Statistical Analysis Software Package named DATAPLOT”. Rec'd—9/24/2011. Est. Value—$1,400.00 | Federal University of Rio Grande do Norte, Brazil | Non-acceptance would cause embarrassment to donor and U.S. Government.
Dr. Nathan R Newbury | TRAVEL: Airfare, lodging, ground transportation provided in order to attend the symposium on “A Revolution in Spectroscopy by the Optical Frequency Comb” and present an invited talk, “High Accuracy Broadband Spetroscopy with Dual Frequency Combs”. Rec'd—9/24/2011. Est. Value—$2,844.00 | National Metreology Insitute of Japan and National Insitute of Advanced Industrial Science and Technology, Tokyo, Japan | Non-acceptance would cause embarrassment to donor and U.S. Government.
Dr. Joseph Stroscio, Physicist | TRAVEL: Airfare, lodging, ground transportation provided in order to attend and present an invited talk “High Resolution Scanning Tunneling Spectroscopy of Graphene” at the International Workshop on Graphene Nanostructures. Rec'd—9/26/2011. Est. Value—$2,565.14 | German Science Foundation, Bonn, Germany | Non-acceptance would cause embarrassment to donor and U.S. Government.
Dr. Yi-hua Tang, Research Physicist | TRAVEL: Airfare, lodging, meals, provided in order to attend the Metrology 2011 Conference as a member of the International Technical Committee and give an invited talk. Will also perform a JVS direct comparison between NIST and INMETRO. Rec'd—9/27/2011. Est. Value—$4,122.00 | INMETRO, Xerem, Duque de Cazias, Brazil | Non-acceptance would cause embarrassment to donor and U.S. Government.
Dr. Willie E May, Director of Laboratory Programs | TRAVEL: Lodging provided in order to attend CIPM Meetings (The International Committee for Weights and Measures) and CGPM Meetings (General Conference on Weights and Measures). Rec'd—10/10/2011. Est. Value—$3,300.00 | Michael Kuehne, Directory, Bureau International des Poids et Measures, Servers, France | Non-acceptance would cause embarrassment to donor and U.S. Government.
David Nesbitt, NIST Fellow | TRAVEL: Airfare, ground transportation, lodging, partial meals provided in order to attend the Physical Chemistry Chemical Physics Meeting. Rec'd—10/14/2011. Est. Value—$1,895.94 | Journal of Physical Chemistry/Chemical Physics, Royal Society of Chemistry, London, United Kingdom | Non-acceptance would cause embarrassment to donor and U.S. Government.
Dr. William Ratcliff, Physicist | TRAVEL: Airfare, lodging, meals, and ground transportation provided in order to present an invited talk. Rec'd—10/19/2011. Est. Value—$800.00 | Dimitri Argyriou, European Spallation Source, Lund, Sweden | Non-acceptance would cause embarrassment to donor and U.S. Government.
Dr. Dietrich Leibfried | TRAVEL: Airfare and lodging provided in order to present invited talks. Rec'd—10/20/2011. Est. Value—$3,296.44 | University of Vienna, Wien, Austria | Non-acceptance would cause embarrassment to donor and U.S. Government.
Dr. Boualem Hammouda, Macromolecular Microstructural Scientist | TRAVEL: Lodging provided in order to conduct research. Rec'd—10/21/2011. Est. Value—$2,500.00 | Annie Brulet, Laboratoire Leon Brillouin, Cedex, France | Non-acceptance would cause embarrassment to donor and U.S. Government.
Dr. John E Kitching, Group Leader and Physicist | TRAVEL: Airfare, lodging, and miscellaneous expenses provided in order to attend the Frontiers Meeting. Rec'd—10/23/2011. Est. Value—$12,169.21 | Wellcome Trust, London, United Kingdom | Non-acceptance would cause embarrassment to donor and U.S. Government.
David Nesbitt, NIST Fellow | TRAVEL: Airfare, lodging, meals, provided in order to attend the Centenary Celebrations of the Fritz-Haber-Institut. Rec'd—10/24/2011. Est. Value—$2,506.40 | Fritz-Haber-Institu der Max-Planck-Gesellschaft, Berlin, Germany | Non-acceptance would cause embarrassment to donor and U.S. Government.
Rene Peralta, Computer Scientist | TRAVEL: Airfare, lodging, partial meals expenses provided in order to present an invited lecture at the Department of Mathematics and Computer Science. Rec'd—10/25/2011. Est. Value—$2,152.00 | Joan Boyar, University of Southern Denmark, Odense, Denmark | Non-acceptance would cause embarrassment to donor and U.S. Government.
Donna F Dodson, Chief—Computer Security Division | TRAVEL: Airfare, lodging, and meals provided in order to attend and deliver the keynote address at the Information-Technology Promotion Agency Forum 2011. Rec'd—10/26/2011. Est. Value—$2,871.00 | Information-Technology Promotion Agency, Tokyo, Japan | Non-acceptance would cause embarrassment to donor and U.S. Government.
Dr. Charles W Clark, NIST Fellow | TRAVEL: Airfare, lodging, meals, provided in order to serve as the Chair of the Advisory Board for the Centre for Anti-Matter Studies and give invited talks. Rec'd—10/31/2011. Est. Value—$4,380.00 | Australian Research Council Center of Excellence for Antimatter-Matter Studies, Australian National University, Canberra, Australia | Non-acceptance would cause embarrassment to donor and U.S. Government.
Dr. Daniel S Hussey, Physicist | TRAVEL: Lodging and meals, provided in order to attend the annual 14th Annual Chinese-American Kavil Frontiers of Science Symposium. Rec'd—11/2/2011. Est. Value—$1,490.00 | Chinese Academy of Sciences, Bureau of International Cooperation, Beijing, China | Non-acceptance would cause embarrassment to donor and U.S. Government.
Dr. Wen-li Wu, NIST Fellow | TRAVEL: Airfare and registration fee provided in order to present an invited talk at the International IRTG Symposium. Rec'd—11/8/2011. Est. Value—$1,300.00 | National Research Foundation of Korea, Daejeon, Korea and the Korean Federation of Science and Technology Societies, Seoul, Korea | Non-acceptance would cause embarrassment to donor and U.S. Government.
Timothy Grance, Computer Scientist | TRAVEL: Airfare, lodging, incidental and misc. expenses and meals, provided in order to give keynote address. Rec'd—12/4/2011. Est. Value—$10,300.00 | Hong Xiang, PhD, Chongqing, University, Chongqing, China | Non-acceptance would cause embarrassment to donor and U.S. Government.
Dr. Willie E May, Director of Laboratory Programs | TRAVEL: Air Fare, lodging, and ground transportation provided in order to attend Asia Pacific Legal Metrology Forum and provide keynote address. Rec'd—12/12/2011. Est. Value—$7,200.00 | Yu Yadong, Chairperson of the Asia Pacific Metrology Programme, Vice Director, National Institute of Metrology, Beijing, China | Non-acceptance would cause embarrassment to donor and U.S. Government.
Dr. Jun Ye, NIST Fellow | TRAVEL: Lodging, meals, and local transportation provided in order to visit the Beijing University School of Physics. Rec'd—12/21/2011. Est. Value—$700.00 | Beijing University Department of Physics, China | Non-acceptance would cause embarrassment to donor and U.S. Government.
Shujuan Cao, Commercial Specialist | TRAVEL: Lead a CRECC Delegation to attend the IBS Show and attend meetings with US Firms. Rec'd—1/10/2011. Est. Value—$3,490.00 | China Real Estate Chamber of Commerce | Non-acceptance would cause embarrassment to donor and U.S. Government.
Rosemary Gallant, Principal Commerical Officer | TRAVEL: Participate in the 8th clinical laboratory provider and blood transfusion equipment Expo. Rec'd—3/9/2011. Est. Value—$391.00 | National Association of Health Industry and Enterprise Management | Non-acceptance would cause embarrassment to donor and U.S. Government.
Aiqun Peng, Commercial Specialist | TRAVEL: Deliver presentation at Jiangxi Provincial foreign government loan seminar. Rec'd—4/26/2011. Est. Value—$588.00 | Jiangxi Development and Reform Commission | Non-acceptance would cause embarrassment to donor and U.S. Government.
Gregory M Wong, Principal Commercial Officer | TRAVEL: Courtesy to Guangxi on 4/18-21/2011. Rec'd—4/8/2011. Est. Value—$462.00 | Foreign Affairs Office of GuanXi, China | Non-acceptance would cause embarrassment to donor and U.S. Government.
Gregory M Wong, Principal Commercial Officer | TRAVEL: Attend the 2011 Nanning International Fashion Expo on 6/16-18/2011. Rec'd—6/10/2011. Est. Value—$470.00 | 2011 Nanning International Fashion Expo | Non-acceptance would cause embarrassment to donor and U.S. Government.
Gregory M Wong, Principal Commercial Officer | TRAVEL: Attend Hainan International golf industry Expo and Summit on 12/1-4/2011. Rec'd—11/18/2011. Est. Value—$372.00 | China Council for the Promotion of International Trade Hainan Sub-Council | Non-acceptance would cause embarrassment to donor and U.S. Government.
Jay Briggs, Commercial Officer | TRAVEL: Attend the Grand Investment Tour in GuangXi on 11/29-12/2/2011. Rec'd—11/20/2011. Est. Value—$1,490.00 | Investment Promotion of Ministry of Department of Commerce of GuangXi | Non-acceptance would cause embarrassment to donor and U.S. Government.
Boris Popovski, Commercial Specialist | TRAVEL: Delegation of Senior Serbijagas officials to Washington DC for meetings with EXIM Bank, American Petroleum Institute, GE Energy and other US companies. Rec'd—12/10-21/2011. Est. Value—$6,700.00 | Srbijagas (State-Owned gas company), Serbia | Non-acceptance would cause embarrassment to donor and U.S. Government.
Henley Jones, Deputy Senior Commercial Officers | TRAVEL: Keynote speakers at USA Day in Barcelona. Rec'd—6/15-16/2011. Est. Value—$470.00 | Barcelona Chamber of Commerce | Non-acceptance would cause embarrassment to donor and U.S. Government.
Mr. Ryan Mulholland, International Trade Specialist | TRAVEL: Discuss policy developments to promote renewable energy and ways to better cooperate with European Partners on deployment (EUVP). Rec'd—11/17-27/2011. Est. Value—$1,490.00 | EU Visitors Program (EUVP) | Non-acceptance would cause embarrassment to donor and U.S. Government.

Agency: Central Intelligence Agency
[Report of tangible gifts furnished by the Central Intelligence Agency]
Name and title of person accepting the gift on behalf of the U.S. Government | Gift, date of acceptance on behalf of the U.S. Government, estimated value, and current disposition or location | Identity of foreign donor and government | Circumstances justifying acceptance
The Honorable Leon E. Panetta, Director of the Central Intelligence Agency | Gold and Silver Incense Burner in a Green Leather case. Rec'd—1/30/2011. Est. Value—$500.00. Disposition—Pending Transfer to General Services Administration | 5 U.S.C. 7342(f)(4) | Non-acceptance would cause embarrassment to donor and U.S. Government.
The Honorable Leon E. Panetta, Director of the Central Intelligence Agency | Gold Tea set with three gold rimmed porcelain cups. Rec'd—1/30/2011. Est. Value—$700.00. Disposition—Pending Transfer to General Services Administration | 5 U.S.C. 7342(f)(4) | Non-acceptance would cause embarrassment to donor and U.S. Government.
The Honorable Leon E. Panetta, Director of the Central Intelligence Agency | Gold incense burner in a green leather box. Rec'd—1/30/2011. Est. Value—$800.00. Disposition—Pending Transfer to General Services Administration | 5 U.S.C. 7342(f)(4) | Non-acceptance would cause embarrassment to donor and U.S. Government.
The Honorable Leon E. Panetta, Director of the Central Intelligence Agency | Gold plated MP7 automatic rifle in a decorative black leather case. Rec'd—1/31/2011. Est. Value—$4,500.00. Location—On official display at the Agency | 5 U.S.C. 7342(f)(4) | Non-acceptance would cause embarrassment to donor and U.S. Government.
The Honorable Leon E. Panetta, Director of the Central Intelligence Agency | Silver palm tree in a green leather case. Rec'd—2/1/2011. Est. Value—$700.00. Disposition—Pending Transfer to General Services Administration | 5 U.S.C. 7342(f)(4) | Non-acceptance would cause embarrassment to donor and U.S. Government.
The Honorable Leon E. Panetta, Director of the Central Intelligence Agency | Large Decorative Chess set. Rec'd—2/1/2011. Est. Value—$800.00. Disposition—Pending Transfer to General Services Administration | 5 U.S.C. 7342(f)(4) | Non-acceptance would cause embarrassment to donor and U.S. Government.
The Honorable Leon E. Panetta, Director of the Central Intelligence Agency | Antique dagger in a sheath. Rec'd—2/2/2011. Est. Value—$700.00. Disposition—Pending Transfer to General Services Administration | 5 U.S.C. 7342(f)(4) | Non-acceptance would cause embarrassment to donor and U.S. Government.
The Honorable Leon E. Panetta, Director of the Central Intelligence Agency | Small decorative prayer rug. Rec'd—2/2/2011. Est. Value—$450.00. Disposition—Pending Transfer to General Services Administration | 5 U.S.C. 7342(f)(4) | Non-acceptance would cause embarrassment to donor and U.S. Government.
The Honorable Leon E. Panetta, Director of the Central Intelligence Agency | Large blue and gold vase in a velvet case. Rec'd—2/3/2011. Est. Value—$500.00. Disposition—Pending Transfer to General Services Administration | 5 U.S.C. 7342(f)(4) | Non-acceptance would cause embarrassment to donor and U.S. Government.
The Honorable Leon E. Panetta, Director of the Central Intelligence Agency | Large red, yellow, gold and blue silk carpet. Rec'd—2/4/2011. Est. Value—$800.00. Disposition—Pending Transfer to General Services Administration | 5 U.S.C. 7342(f)(4) | Non-acceptance would cause embarrassment to donor and U.S. Government.
The Honorable Leon E. Panetta, Director of the Central Intelligence Agency | Set of antique dueling pistols. Rec'd—5/23/2011. Est. Value—$7,000.00. Location—On official display at the Agency | 5 U.S.C. 7342(f)(4) | Non-acceptance would cause embarrassment to donor and U.S. Government.
The Honorable David H. Petraeus, Director of the Central Intelligence Agency | Gold plated and enamel model of a Horned Orxy and a Palm tree by a palace. Rec'd—10/3/2011. Est. Value—$500.00. Disposition—Pending Transfer to General Services Administration | 5 U.S.C. 7342(f)(4) | Non-acceptance would cause embarrassment to donor and U.S. Government.
The Honorable David H. Petraeus, Director of the Central Intelligence Agency | Annual edition 2005 Mont Blanc gold pen with the Director's name engraved on top. Rec'd—10/13/2011. Est. Value—$3,000.00. Disposition—Pending Transfer to General Services Administration | 5 U.S.C. 7342(f)(4) | Non-acceptance would cause embarrassment to donor and U.S. Government.
The Honorable David H. Petraeus, Director of the Central Intelligence Agency | Asfour crystal and gold-plated model of a horse drawn chariot. Rec'd—10/22/2011. Est. Value—$700.00. Disposition—On display in the Director's office | 5 U.S.C. 7342(f)(4) | Non-acceptance would cause embarrassment to donor and U.S. Government.
The Honorable David H. Petraeus, Director of the Central Intelligence Agency | Silver Falcon statue in a large presentation box. Rec'd—10/26/2011. Est. Value—$1,500.00. Disposition—Pending Transfer to General Services Administration | 5 U.S.C. 7342(f)(4) | Non-acceptance would cause embarrassment to donor and U.S. Government.
The Honorable David H. Petraeus, Director of the Central Intelligence Agency | Asfour facet-cut and iridescent glass five-light candelabrum. Rec'd—10/26/2011. Est. Value—$700.00. Disposition—Pending Transfer to General Services Administration | 5 U.S.C. 7342(f)(4) | Non-acceptance would cause embarrassment to donor and U.S. Government.
The Honorable David H. Petraeus, Director of the Central Intelligence Agency | Gold plated sculpture of a falcon and a plum tree on marble base. Rec'd—10/26/2011. Est. Value—$1,500.00. Disposition—Pending Transfer to General Services Administration | 5 U.S.C. 7342(f)(4) | Non-acceptance would cause embarrassment to donor and U.S. Government.
The Honorable David H. Petraeus, Director of the Central Intelligence Agency | Terracotta miniature sculpture of the “Madain Salah” in a wood frame. Rec'd—10/26/2011. Est. Value—$500.00. Disposition—Pending Transfer to General Services Administration | 5 U.S.C. 7342(f)(4) | Non-acceptance would cause embarrassment to donor and U.S. Government.
The Honorable David H. Petraeus, Director of the Central Intelligence Agency | Silver dagger in a brown presentation box with a plexiglass front. Rec'd—10/28/2011. Est. Value—$2,500.00. Disposition—On display in Director's office | 5 U.S.C. 7342(f)(4) | Non-acceptance would cause embarrassment to donor and U.S. Government.
The Honorable David H. Petraeus, Director of the Central Intelligence Agency | Framed golden mask replica framed in a black felt box. Rec'd—11/3/2011. Est. Value—$500.00. Disposition—Pending Transfer to General Services Administration | 5 U.S.C. 7342(f)(4) | Non-acceptance would cause embarrassment to donor and U.S. Government.
The Honorable David H. Petraeus, Director of the Central Intelligence Agency | Floral colored red, white, blue and gold vase. Rec'd—12/1/2011. Est. Value—$400.00. Disposition—On display in the Director's office | 5 U.S.C. 7342(f)(4) | Non-acceptance would cause embarrassment to donor and U.S. Government.
The Honorable David H. Petraeus, Director of the Central Intelligence Agency | Silver metal replica of a dagger mounted in a wood presentation shadow box. Rec'd—12/13/2011. Est. Value—$500.00. Disposition—On display in Director's office | 5 U.S.C. 7342(f)(4) | Non-acceptance would cause embarrassment to donor and U.S. Government.
The Honorable David H. Petraeus, Director of the Central Intelligence Agency | Turquoise wood naivete-farm hinged incense box with brass mounted fintal, hinges, and lock. Rec'd—12/14/2011. Est. Value—$500.00. Disposition—Pending Transfer to General Services Administration | 5 U.S.C. 7342(f)(4) | Non-acceptance would cause embarrassment to donor and U.S. Government.
The Honorable David H. Petraeus, Director of the Central Intelligence Agency | Silver metal scabbard dagger, 20th Century, in a fitted hinged top presentation case. Rec'd—12/14/2011. Est. Value—$500.00. Disposition—Pending Transfer to General Services Administration | 5 U.S.C. 7342(f)(4) | Non-acceptance would cause embarrassment to donor and U.S. Government.
The Honorable David H. Petraeus, Director of the Central Intelligence Agency | Revolving desk clock with a gilt metal shaking hands and golden spinning coin on top. Rec'd—12/19/2011. Est. Value—$500.00. Disposition—Pending Transfer to General Services Administration | 5 U.S.C. 7342(f)(4) | Non-acceptance would cause embarrassment to donor and U.S. Government.
The Honorable David H. Petraeus, Director of the Central Intelligence Agency | Blue and white polychrome enamled presentation clock. Rec'd—12/20/2011. Est. Value—$500.00. Disposition—Pending Transfer to General Services Administration | 5 U.S.C. 7342(f)(4) | Non-acceptance would cause embarrassment to donor and U.S. Government.
The Honorable David H. Petraeus, Director of the Central Intelligence Agency | Silver and gold soldier on a horse on a marble base. Rec'd—12/23/2011. Est. Value—$1,000.00. Disposition—On display in the director's office | 5 U.S.C. 7342(f)(4) | Non-acceptance would cause embarrassment to donor and U.S. Government.
Michael J. Morell, Deputy Director | Gilt silvered model of a palm tree on a marble base. Rec'd—3/3/2011. Est. Value—$700.00. Disposition—Pending Transfer to General Services Administration | 5 U.S.C. 7342(f)(4) | Non-acceptance would cause embarrassment to donor and U.S. Government.
Michael J. Morell, Deputy Director | Gold inlaid cut-glass model of a gate. Rec'd—3/3/2011. Est. Value—$700.00. Disposition—On display in the Deputy Director's office | 5 U.S.C. 7342(f)(4) | Non-acceptance would cause embarrassment to donor and U.S. Government.
Michael J. Morell, Deputy Director | Chrome and steel dress sword in a burgundy leather scabbard. Rec'd—3/6/2011. Est. Value—$1,500.00. Disposition—Pending Transfer to General Services Administration | 5 U.S.C. 7342(f)(4) | Non-acceptance would cause embarrassment to donor and U.S. Government.
Michael J. Morell, Deputy Director | Antique rifle made of walnut and steel. Rec'd—3/6/2011. Est. Value—$750.00. Disposition—Pending Transfer to General Services Administration | 5 U.S.C. 7342(f)(4) | Non-acceptance would cause embarrassment to donor and U.S. Government.
Michael J. Morell, Deputy Director | 4′ x 3′ silk rug multi-colored with a red background. Rec'd—4/4/2011. Est. Value—$8,500.00. Disposition—Pending Transfer to General Services Administration | 5 U.S.C. 7342(f)(4) | Non-acceptance would cause embarrassment to donor and U.S. Government.
Michael J. Morell, Deputy Director | Gold plated Fort with palm trees. Rec'd—5/18/2011. Est. Value—$1,200.00. Disposition—Pending Transfer to General Services Administration | 5 U.S.C. 7342(f)(4) | Non-acceptance would cause embarrassment to donor and U.S. Government.
Michael J. Morell, Deputy Director | Painted river landscape with sailboats. Rec'd—6/29/2011. Est. Value—$500.00. Disposition—Pending Transfer to General Services Administration | 5 U.S.C. 7342(f)(4) | Non-acceptance would cause embarrassment to donor and U.S. Government.
Michael J. Morell, Deputy Director | Silver jewelry set consisting of a necklace, bracelet, and earring. Rec'd—7/28/2011. Est. Value—$1,500.00. Disposition—Pending Transfer to General Services Administration | 5 U.S.C. 7342(f)(4) | Non-acceptance would cause embarrassment to donor and U.S. Government.
Michael J. Morell, Deputy Director | Round silver plate with moon and star design. Rec'd—8/18/2011. Est. Value—$500.00. Disposition—Pending Transfer to General Services Administration | 5 U.S.C. 7342(f)(4) | Non-acceptance would cause embarrassment to donor and U.S. Government.
Michael J. Morell, Deputy Director | 6′ x 4′ rug with a gold background and diagonal diamond shape rows. Rec'd—9/4/2011. Est. Value—$500.00. Disposition—Pending Transfer to General Services Administration | 5 U.S.C. 7342(f)(4) | Non-acceptance would cause embarrassment to donor and U.S. Government.
Michael J. Morell, Deputy Director | Silver hookah/Shish pipe. Rec'd—9/21/2011. Est. Value—$1,500.00. Disposition—Pending Transfer to General Services Administration | 5 U.S.C. 7342(f)(4) | Non-acceptance would cause embarrassment to donor and U.S. Government.
Michael J. Morell, Deputy Director | Pair of multi-colored glass candlesticks. Rec'd—11/7/2011. Est. Value—$400.00. Disposition—Pending Transfer to General Services Administration | 5 U.S.C. 7342(f)(4) | Non-acceptance would cause embarrassment to donor and U.S. Government.
Michael J. Morell, Deputy Director | Nacturnal Winter landscape with cottage and star; painting. Rec'd—11/8/2011. Est. Value—$500.00. Disposition—Pending Transfer to General Services Administration | 5 U.S.C. 7342(f)(4) | Non-acceptance would cause embarrassment to donor and U.S. Government.
Michael J. Morell, Deputy Director | Burlwood and satinwood hinged-top chess set. Rec'd—12/5/2011. Est. Value—$500.00. Disposition—Pending Transfer to General Services Administration | 5 U.S.C. 7342(f)(4) | Non-acceptance would cause embarrassment to donor and U.S. Government.
Michael J. Morell, Deputy Director | Silver curved dagger and scabbard. Rec'd—12/13/2011. Est. Value—$500.00. Disposition—Pending Transfer to General Services Administration | 5 U.S.C. 7342(f)(4) | Non-acceptance would cause embarrassment to donor and U.S. Government.
Michael J. Morell, Deputy Director | 6′ x 4′ rug with an emerald green background. Rec'd—12/15/2011. Est. Value—$500.00. Disposition—Pending Transfer to General Services Administration | 5 U.S.C. 7342(f)(4) | Non-acceptance would cause embarrassment to donor and U.S. Government.
An Agency Employee | Ebel Sports watch. Rec'd—12/4/2007. Est. Value—$900.00. Disposition—Destroyed | 5 U.S.C. 7342(f)(4) | Non-acceptance would cause embarrassment to donor and U.S. Government.
An Agency Employee | Breitling Watch. Rec'd—11/4/2009. Est. Value—$3,500.00. Disposition—Pending Transfer to General Services Administration | 5 U.S.C. 7342(f)(4) | Non-acceptance would cause embarrassment to donor and U.S. Government.
An Agency Employee | Men's Baume and Merler Wrist watch with a black leather strap. Rec'd—1/31/2011. Est. Value—$1,500.00. Disposition—Pending Transfer to General Services Administration | 5 U.S.C. 7342(f)(4) | Non-acceptance would cause embarrassment to donor and U.S. Government.
An Agency Employee | Lady's Barthelay Wrist watch with two rows of diamonds surrounding the face. Rec'd—1/31/2011. Est. Value—$8,500.00. Disposition—Pending Transfer to General Services Administration | 5 U.S.C. 7342(f)(4) | Non-acceptance would cause embarrassment to donor and U.S. Government.
An Agency Employee | Men's Tag Heuer wrist watch with a black leather strap. Rec'd—1/31/2011. Est. Value—$5,000.00. Disposition—Pending Transfer to General Services Administration | 5 U.S.C. 7342(f)(4) | Non-acceptance would cause embarrassment to donor and U.S. Government.
An Agency Employee | Lady's Baume and Mercier wrist watch with silver bracelet. Rec'd—1/31/2011. Est. Value—$2,000.00. Disposition—Pending Transfer to General Services Administration | 5 U.S.C. 7342(f)(4) | Non-acceptance would cause embarrassment to donor and U.S. Government.
An Agency Employee | Men's Balmain Wrist watch with black leather strap. Rec'd—1/31/2011. Est. Value—$2,000.00. Disposition—Pending Transfer to General Services Administration | 5 U.S.C. 7342(f)(4) | Non-acceptance would cause embarrassment to donor and U.S. Government.
An Agency Employee | Silver plated decorative image in a blue velvet with and easel stand. Rec'd—2/1/2011. Est. Value—$500.00. Disposition—Pending Transfer to General Services Administration | 5 U.S.C. 7342(f)(4) | Non-acceptance would cause embarrassment to donor and U.S. Government.
An Agency Employee | Silver plated decorative image in a blue velvet with and easel stand. Rec'd—2/1/2011. Est. Value—$500.00. Disposition—Pending Transfer to General Services Administration | 5 U.S.C. 7342(f)(4) | Non-acceptance would cause embarrassment to donor and U.S. Government.
An Agency Employee | Silver plated decorative image in a blue velvet with and easel stand. Rec'd—2/1/2011. Est. Value—$500.00. Disposition—Pending Transfer to General Services Administration | 5 U.S.C. 7342(f)(4) | Non-acceptance would cause embarrassment to donor and U.S. Government.
An Agency Employee | A DIOR Stylos silver pen, a crystal teapot, a crystal paperweight, and a plastic paperweight. Rec'd—3/9/2011. Est. Value—$500.00. Disposition—Pending Transfer to General Services Administration | 5 U.S.C. 7342(f)(4) | Non-acceptance would cause embarrassment to donor and U.S. Government.
An Agency Employee | Box of four silver coins, Peace Park Series. Rec'd—3/25/2011. Est. Value—$476.00. Disposition—Pending Transfer to General Services Administration | 5 U.S.C. 7342(f)(4) | Non-acceptance would cause embarrassment to donor and U.S. Government.
An Agency Employee | 3′ x 5′ silk rug. Rec'd—4/4/2011. Est. Value—$3,000.00. Disposition—Pending Transfer to General Services Administration | 5 U.S.C. 7342(f)(4) | Non-acceptance would cause embarrassment to donor and U.S. Government.
An Agency Employee | Omega Speedmosre professional wristwatch. Rec'd—4/9/2011. Est. Value—$3,500.00. Disposition—Pending Transfer to General Services Administration | 5 U.S.C. 7342(f)(4) | Non-acceptance would cause embarrassment to donor and U.S. Government.
An Agency Employee | Breitling Colt Chrono Sport watch with a black face and a black rubber wrist band. Rec'd—6/6/2011. Est. Value—$800.00. Disposition—Pending Transfer to General Services Administration | 5 U.S.C. 7342(f)(4) | Non-acceptance would cause embarrassment to donor and U.S. Government.
An Agency Employee | Ebel watch, Lady's Ebel watch, and 2 Apple iPads. Rec'd—6/12/2011. Est. Value—$5,400.00. Disposition—Pending Transfer to General Services Administration | 5 U.S.C. 7342(f)(4) | Non-acceptance would cause embarrassment to donor and U.S. Government.
An Agency Employee | Movado watch. Rec'd—9/25/2011. Est. Value—$1,000.00. Disposition—Pending Transfer to General Services Administration | 5 U.S.C. 7342(f)(4) | Non-acceptance would cause embarrassment to donor and U.S. Government.
An Agency Employee | Rolex watch, submariner model. Rec'd—10/10/2011. Est. Value—$5,000.00. Disposition—Pending Transfer to General Services Administration | 5 U.S.C. 7342(f)(4) | Non-acceptance would cause embarrassment to donor and U.S. Government.

Agency: Office of the Mayor
[Report of tangible gifts furnished by the Office of the Mayor]
Name and title of person accepting the gift on behalf of the U.S. Government | Gift, date of acceptance on behalf of the U.S. Government, estimated value, and current disposition or location | Identity of foreign donor and government | Circumstances justifying acceptance
The Honorable Vincent C. Gray, Mayor, Washington, DC | Tall vase, gold tinted with painted flowers. Rec'd—10/3/2011. Est. Value—$800.00. Disposition—Retain for Official Use | The Honorable Melih Gokcek, Mayor of Ankara of the Republic of Turkey | Non-acceptance would cause embarrassment to donor and U.S. Government.

Agency: U.S. European Command
[Report of tangible gifts furnished by U.S. European Command]
Name and title of person accepting the gift on behalf of the U.S. Government | Gift, date of acceptance on behalf of the U.S. Government, estimated value, and current disposition or location | Identity of foreign donor and government | Circumstances justifying acceptance
Admiral James G. Stavridis, Commander, U.S. European Command | 36″ x 24″ oil painting on canvas. Rec'd—7/18/2011. Est. Value—$600.00. Disposition—SHAPE Headquarters for Official Use | Colonel General Hryhorii Pedchenko, Chief of Defense of the Government of Ukraine | Non-acceptance would cause embarrassment to donor and U.S. Government.

Agency: National Aeronautics and Space Administration
[Report of travel furnished by the National Aeronautics and Space Administration]
Name and title of person accepting the gift on behalf of the U.S. Government | Gift, date of acceptance on behalf of the U.S. Government, estimated value, and current disposition or location | Identity of foreign donor and government | Circumstances justifying acceptance
Mr. Jeerapong Wongchote | All expense paid participation in the Thai-American Young Leadership Program sponsored by RTCG and TASC. Airfare, lodging, meals, and local transportation. Rec'd—9/16/25/2011. Est. Value—$2,218.38 | Roayl Thai Consulate General (RTCG) and Thai Association of Southern California (TASC) | Non-acceptance would cause embarrassment to donor and U.S. Government.

Agency: Department of Defense
[Report of tangible gifts furnished by the Department of Defense]
Name and title of person accepting the gift on behalf of the U.S. Government | Gift, date of acceptance on behalf of the U.S. Government, estimated value, and current disposition or location | Identity of foreign donor and government | Circumstances justifying acceptance
The Honorable Robert M. Gates, Secretary of Defense of the United States | Statue/Vessel: Cast bronze with black coating, having flaring square rim over 4 standing rams. Rec'd—1/10/2011. Est. Value—$585.00. Disposition—Pending Transfer to General Services Administration | His Excellency Liang Guanglie, Minister of National Defense of the People's Republic of China | Non-acceptance would cause embarrassment to donor and U.S. Government.
The Honorable Robert M. Gates, Secretary of Defense of the United States | Boat Statue/Bone Dragon boat, including 3 tiers of people standing on balcony/bridge. Rec'd—1/12/2011. Est. Value—$845.00. Disposition—Pending Transfer to General Services Administration | His Excellency General Xu Caihou, Vice Chairman of the Central Military Commission of the People's Republic of China | Non-acceptance would cause embarrassment to donor and U.S. Government.
The Honorable Robert M. Gates, Secretary of Defense of the United States | Silver Wine Goblets. Rec'd—3/22/2011. Est. Value—$520.00. Disposition—Pending Transfer to General Services Administration | His Excellency Anatoliy Serdyukov, Minister of Defense of the Russian Federation | Non-acceptance would cause embarrassment to donor and U.S. Government.
The Honorable Robert M. Gates, Secretary of Defense of the United States | Egyptian bronze statue/clock, designed as dial with Roman numerals on top of head of kneeling female. Rec'd—3/24/2011. Est. Value—$430.00. Disposition—Pending Transfer to General Services Administration | His Excellency Field Marshal Mohamed Hussein Tantawi, Minister of Defense of the Arab Republic of Egypt | Non-acceptance would cause embarrassment to donor and U.S. Government.
The Honorable Robert M. Gates, Secretary of Defense of the United States | Portrait/painting, acrylic on canvas, depicting 4 females including child on left standing behind seated woman with hand raised to her chin; Silver palm tree with 4 groups of goldtone fruited branches. Rec'd—4/7/2011. Est. Value—$1,445.00. Disposition—Pending Transfer to General Services Administration | His Excellency Jalal Talabani, President of the Republic of Iraq | Non-acceptance would cause embarrassment to donor and U.S. Government.
The Honorable Robert M. Gates, Secretary of Defense of the United States | Kurdish Rug/polished cotton, depicting 2 hooked hexagonal guls in pink, red, turquoise, black, green on white field; Wall clock, quartz movement behind round 7” metal plate. Rec'd—4/8/2011. Est. Value—$375.00 Disposition—Pending Transfer to General Services Administration | His Excellency Masoud Barzani, President of the Kurdistan Region of the Republic of Iraq | Non-acceptance would cause embarrassment to donor and U.S. Government.
The Honorable Robert M. Gates, Secretary of Defense of the United States | Marble Box, Box, rectangular, inside of polished black stone, outside clad in polished blue/gray/black stone panels. Rec'd—3/12/2011. Est. Value—$385.00. Disposition—Pending Transfer to General Services Administration | His Royal Highness Salman Bin Hamad Al Khalifa, Crown Prince of the Kingdom of Bahrain | Non-acceptance would cause embarrassment to donor and U.S. Government.
The Honorable Robert M. Gates, Secretary of Defense of the United States | Golden Camel Clock, polished brasstone ridged frame finial over octagonal brasstone case quartz clock. Rec'd—4/21/2011. Est. Value—$2,200.00. Disposition—Pending Transfer to General Services Administration | His Excellency Sheikh Hamad bin Khalifa Al- Thani, Amir of State of Qatar | Non-acceptance would cause embarrassment to donor and U.S. Government.
The Honorable Robert M. Gates, Secretary of Defense of the United States | Davidoff Piramides cigars (10); Andrea's Cigars (25). Rec'd—5/6/2011. Est. Value—$403.00. Disposition—Pending Transfer to General Services Administration | His Excellency Admiral Mariano Francisco Saynez Mendoza, Secretary of the Navy of the United Mexican States | Non-acceptance would cause embarrassment to donor and U.S. Government.
The Honorable Robert M. Gates, Secretary of Defense of the United States | Book: The Military Balance 2011. Rec'd—6/3/2011 Est. Value—$480.00. Disposition—Pending Transfer to General Services Administration | His Excellency Director-General John Chipman, Chief Executive of the International Institute for Strategic Studies of the United Kingdom | Non-acceptance would cause embarrassment to donor and U.S. Government.
The Honorable Robert M. Gates, Secretary of Defense of the United States | Rug, wool pile, hand woven, field displaying 11 rows of 8 retangles. Rec'd—6/5/2011. Est. Value—$1,000.00. Disposition—Pending Transfer to General Services Administration | His Excellency Hamid Karzai, President of the Islamic Republic of Afghanistan | Non-acceptance would cause embarrassment to donor and U.S. Government.
The Honorable Becky Gates, Spouse of Secretary of Defense of the United States | Pendant on neck chain, yellow gold, stamped in Arabic as 18K gold, the pendant shaped as inverted “u” with chased repousse scene of kneeling winged figure. Rec'd—3/24/2011. Est. Value—$820.00. Disposition—Pending Transfer to General Services Administration | Her Excellency Mrs. Wagida Tantawi, Spouse of the Minister of Defense of the Arab Republic of Egypt | Non-acceptance would cause embarrassment to donor and U.S. Government.
The Honorable Leon E. Panetta, Secretary of Defense of the United States | CD—Amadeus; Montblanc Ballpoint Pen. Rec'd—6/6/2011. Est. Value—$394.00. Disposition—Pending Transfer to General Services Administration | His Excellency Yousef Al Otaiba, Ambassador of the United Arab Emirates | Non-acceptance would cause embarrassment to donor and U.S. Government.
The Honorable Leon E. Panetta, Secretary of Defense of the United States | Blue Lapis Bowl. Rec'd—7/9/2011. Est. Value—$540.00. Disposition—Pending Transfer to General Services Administration | His Excellency Hamid Karzai, President of the Islamic Republic of Afghanistan | Non-acceptance would cause embarrassment to donor and U.S. Government.
The Honorable Leon E. Panetta, Secretary of Defense of the United States | Daggar, polished steel blade, secured in ivory-colored molded plastic handle; Romanian Plaque; Mantle clock, 19th century, cast metal depicting helmeted female holding spear sitting on plinth. Rec'd—9/13/2011. Est. Value—$885.00. Disposition—Pending Transfer to General Services Administration | His Excellency Gabriel Oprea, Minister of National Defense of Romania | Non-acceptance would cause embarrassment to donor and U.S. Government.
The Honorable Leon E. Panetta, Secretary of Defense of the United States | Crystal horse and chariot sculpture. Rec'd—10/4/2011. Est. Value—$465.00. Disposition—Pending Transfer to General Services Administration | His Excellency Field Marshal Mohamed Hussein Tantawi, Minister of Defense of the Arab Republic of Egypt | Non-acceptance would cause embarrassment to donor and U.S. Government.
The Honorable Leon E. Panetta, Secretary of Defense of the United States | Keris—antique knife in padded batik box. Rec'd—10/23/2011. Est. Value—$470.00. Disposition—Pending Transfer to General Services Administration | His Excellency Dr. Purnomo Yusgiantoro, Minister of Defense of the Republic of Indonesia | Non-acceptance would cause embarrassment to donor and U.S. Government.
The Honorable Admiral Michael G. Mullen, Chairman of the Joints Chiefs of Staff of the United States | Two Piece Wooden Candle Holder with Glass Case. Rec'd—1/1/2011. Est. Value—$680.00. Disposition—Pending Transfer to General Services Administration | His Majesty King Abdullah II ibn Al Hussein and Her Majesty Queen Rania Al Abdullah, King and Queen of the Hashemite Kingdom of Jordan | Non-acceptance would cause embarrassment to donor and U.S. Government.
The Honorable Admiral Michael G. Mullen, Chairman of the Joints Chiefs of Staff of the United States | ASFOUR Crystal Ramsiss/Wheel Art object, horse-drawn chariot composed of clear cut crystal and brass. Rec'd—1/28/2011. Est. Value—$550.00. Disposition—Pending Transfer to General Services Administration | His Excellency Lieutenant General Samy Enan, Chief of Staff of the Armed Forces of the Arab Republic of Egypt | Non-acceptance would cause embarrassment to donor and U.S. Government.
The Honorable Admiral Michael G. Mullen, Chairman of the Joints Chiefs of Staff of the United States | Hennessy Paradis Rare Cognac with Case. Rec'd—2/17/2011. Est. Value—$635.00. Disposition—Pending Transfer to General Services Administration | Admiral Edouard Guillaud, Chief of Staff of the Armed Forces of the French Republic | Non-acceptance would cause embarrassment to donor and U.S. Government.
The Honorable Admiral Michael G. Mullen, Chairman of the Joints Chiefs of Staff of the United States | Picture Frame/Map, French, 18th century, printed by Mondhare, depicting battle of Yorktown, Virginia. Rec'd—2/18/2011. Est. Value—$625.00. Disposition—Pending Transfer to General Services Administration | Admiral Edouard Guillaud, Chief of Staff of the Armed Forces of the French Republic | Non-acceptance would cause embarrassment to donor and U.S. Government.
The Honorable Admiral Michael G. Mullen, Chairman of the Joints Chiefs of Staff of the United States | Officer Briefing Pack With Mini Accessories (x2). Rec'd—2/21/2011. Est. Value—$580.00. Disposition—Pending Transfer to General Services Administration | His Excellency Opaid Muhammad Abdullah Al Kabi, Under Secretary of Defence of the United Arab Emirates | Non-acceptance would cause embarrassment to donor and U.S. Government.
The Honorable Admiral Michael G. Mullen, Chairman of the Joints Chiefs of Staff of the United States | Hand Falcon Plaque WITH Case. Rec'd—2/23/2011. Est. Value—$485.00. Disposition—Transferred to General Services Administration | Major General Hamed Bin Ali Al-Attiyah, Chief of Staff Qatar Armed Forces | Non-acceptance would cause embarrassment to donor and U.S. Government.
The Honorable Admiral Michael G. Mullen, Chairman of the Joints Chiefs of Staff of the United States | Artwork, comprised of framed print of Kuwaiti postage stamps fronted by goldtone 2-masted sailing ship (“boom”); Key Pad Case with iPad; Jacob and Co Watch Set with Case. Rec'd—2/24/2011. Est. Value—$29,450.00. Disposition—Transferred to General Services Administration | His Highness Sheikh Sabah Al-Ahmad Al-Jaber Al-Sabah, Amir of the State of Kuwait | Non-acceptance would cause embarrassment to donor and U.S. Government.
The Honorable Admiral Michael G. Mullen, Chairman of the Joints Chiefs of Staff of the United States | Keepsake box within a box, rectangular coffer shape having hinged lid with flat top over beveled edges. Rec'd—5/1/2011. Est. Value—$450.00. Disposition—Pending Transfer to General Services Administration | Unknown Donor from Romania | Non-acceptance would cause embarrassment to donor and U.S. Government.
The Honorable Admiral Michael G. Mullen, Chairman of the Joints Chiefs of Staff of the United States | Crystal Ball Of Admiral Mullen. Rec'd—5/17/2011. Est. Value—$420.00. Disposition—Transferred to General Services Administration | His Excellency General Chen Bingde, People's Liberation Army Chief of the General Staff of the People's Republic of China | Non-acceptance would cause embarrassment to donor and U.S. Government.
The Honorable Admiral Michael G. Mullen, Chairman of the Joints Chiefs of Staff of the United States | Pearl Necklace Set. Rec'd—5/17/2011. Est. Value—$1,740.00. Disposition—Transferred to General Services Administration | Mrs. Chen, Spouse of General Chen Bingde, Chief of Defense of the People's Republic of China | Non-acceptance would cause embarrassment to donor and U.S. Government.
The Honorable Admiral Michael G. Mullen, Chairman of the Joints Chiefs of Staff of the United States | Queen Nefertiti head gold necklace. Rec'd—6/8/2011. Est. Value—$840.00. Disposition—Transferred to General Services Administration | His Excellency Field Marshal Mohammed Hussein Tantawi, Minister of Defense of the Arab Republic of Egypt | Non-acceptance would cause embarrassment to donor and U.S. Government.
The Honorable Admiral Michael G. Mullen, Chairman of the Joints Chiefs of Staff of the United States | Silver Candle Stick Holder; Statue, gold and glass chariot with warrior, by Linea Argenti, cast white resin; Silver Bowl, Footed bowl, silver, stamped in Arabic as 900 grade (indicating 90% silver), having applied molded piercecut scrollwork rim band. Rec'd—6/8/2011. Est. Value—$1,455.00. Disposition—Pending Transfer to General Services Administration | His Excellency Lieutenant General Samy Enan, Chief of Staff of The Armed Forces of the Arab Republic of Egypt | Non-acceptance would cause embarrassment to donor and U.S. Government.
The Honorable Admiral Michael G. Mullen, Chairman of the Joints Chiefs of Staff of the United States | Painting/print, limited edition #1150, titled “Cowboy”, depicting human face in blue/brown, plus 2 green leaves dangling from neckline in molded goldtone frame. Rec'd—6/8/2011. Est. Value—$385.00. Disposition—Transferred to General Services Administration | His Excellency Air Marshal Fahad Al, Chief of Staff of the State of Kuwait | Non-acceptance would cause embarrassment to donor and U.S. Government.
The Honorable Admiral Michael G. Mullen, Chairman of the Joints Chiefs of Staff of the United States | Ankh gold necklace. Rec'd—6/8/2011. Est. Value—$1,280.00. Disposition—Pending Transfer to General Services Administration | His Excellency Field Marshal Mohammed Hussein Tantawi, Minister of Defense of the Arab Republic of Egypt | Non-acceptance would cause embarrassment to donor and U.S. Government.
The Honorable Admiral Michael G. Mullen, Chairman of the Joints Chiefs of Staff of the United States | Large Framed Painting, depicting 4 horses grazing amid trees in foreground, blue/white water in midplane, light green mountain in background. Rec'd—6/16/2011. Est. Value—$450.00. Disposition—Pending Transfer to General Services Administration | His Excellency Tsakhiagiin Elbegdorj, President of Mongolia | Non-acceptance would cause embarrassment to donor and U.S. Government.
The Honorable Admiral Michael G. Mullen, Chairman of the Joints Chiefs of Staff of the United States | Statue, by Linea Argenti, cast white resin, covered in silver and goldtone. Rec'd—6/17/2011. Est. Value—$385.00. Disposition—Transferred to General Services Administration | His Excellency Air Marshal Fahad Al, Chief of Staff of the State of Kuwait | Non-acceptance would cause embarrassment to donor and U.S. Government.
The Honorable Admiral Michael G. Mullen, Chairman of the Joints Chiefs of Staff of the United States | Men's Watch, silvertone face with black Roman numerals, pair of gold confronting long-tailed pheasants over 5-petal chrysanthemum; Women's Watch, silvertone face with black Roman numerals, pair of gold confronting long-tailed pheasants over 5-petal chrysanthemum. Rec'd—7/1/2011. Est. Value—$550.00. Disposition—Transferred to General Services Administration | His Excellency Kim Kwan-jin, Minister of Defense of the Republic of Korea | Non-acceptance would cause embarrassment to donor and U.S. Government.
The Honorable Admiral Michael G. Mullen, Chairman of the Joints Chiefs of Staff of the United States | Statue, horse with Japanese rider, handpainted cast metal depicting Samurai warrior. Rec'd—7/15/2011. Est. Value—$440.00. Disposition—Transferred to General Services Administration | General Ryoichi Oriki, Chief of Joint Staff Office of the Japanese Self Defense Force of Japan | Non-acceptance would cause embarrassment to donor and U.S. Government.
The Honorable Admiral Michael G. Mullen, Chairman of the Joints Chiefs of Staff of the United States | Desk Set, made of malachite, black marble, and bronze; a combination stationary stand with inset quartz clock. Rec'd—7/21/2011. Est. Value—$970.00. Disposition—Pending Transfer to General Services Administration | Unknown | Non-acceptance would cause embarrassment to donor and U.S. Government.
The Honorable Admiral Michael G. Mullen, Chairman of the Joints Chiefs of Staff of the United States | Silver Vase with glass/wooden case and carrying bag. Rec'd—8/2/2011. Est. Value—$465.00. Disposition—Transferred to General Services Administration | His Excellency General Zebari Babakir, Chief of Staff of the Iraqi Army | Non-acceptance would cause embarrassment to donor and U.S. Government.
The Honorable Admiral Michael G. Mullen, Chairman of the Joints Chiefs of Staff of the United States | Glass Decanter with emblem by Val Saint Lambert, clear crystal. Rec'd—9/17/2011. Est. Value—$665.00. Disposition—Pending Transfer to General Services Administration | His Excellency General August Van Daele, Chief of General Staff of the Kingdom of Belgium | Non-acceptance would cause embarrassment to donor and U.S. Government.
The Honorable Admiral Michael G. Mullen, Chairman of the Joints Chiefs of Staff of the United States | Canvas picture frame with case of white castle with orange/brown roofs; Wine—bottle of Cabernet Sauvignon 1993. Rec'd—9/30/2011. Est. Value—$483.00. Disposition—Pending Transfer to General Services Administration | His Excellency Lieutenant General Stefan Danila, Chief of Defense of Romania | Non-acceptance would cause embarrassment to donor and U.S. Government.
The Honorable Admiral Michael G. Mullen, Chairman of the Joints Chiefs of Staff of the United States | Plaque, wood rectangle with high polish fronted by plastic ruby-color ribbon crescent; Knight Statue with engraved case, cold cast bronze. Rec'd—9/30/2011. Est. Value—$505.00. Disposition—Pending Transfer to General Services Administration | His Excellency Gabriel Oprea, Minister of National Defense of Romania | Non-acceptance would cause embarrassment to donor and U.S. Government.
The Honorable Admiral Michael G. Mullen, Chairman of the Joints Chiefs of Staff of the United States | Large Sword/saber, curved steel blade engraved. Rec'd—9/30/2011. Est. Value—$780.00. Disposition—Pending Transfer to General Services Administration | His Excellency General Nikolai Makarov, Chief of General Staff of the Armed Forces of the Russian Federation | Non-acceptance would cause embarrassment to donor and U.S. Government.
The Honorable Admiral Michael G. Mullen, Chairman of the Joints Chiefs of Staff of the United States | Large Sword with cover, cutlass, antique, steel blade. Rec'd—9/30/2011. Est. Value—$780.00. Disposition—Pending Transfer to General Services Administration | Admiral Edouard Guillaud, Chief of Staff of the Armed Forces of the French Republic | Non-acceptance would cause embarrassment to donor and U.S. Government.
The Honorable Admiral Michael G. Mullen, Chairman of the Joints Chiefs of Staff of the United States | Engraved horse statue with box case. Rec'd—10/3/2011. Est. Value—$385.00. Disposition—Pending Transfer to General Services Administration | His Excellency Major General Aloiz Steiner, Chief of Defense of the Republic of Slovenia | Non-acceptance would cause embarrassment to donor and U.S. Government.
The Honorable General Martin E. Dempsey, Chairman of the Joint Chiefs of Staff of the United States | Silverware Set. Rec'd—10/11/2011. Est. Value—$950.00. Disposition—Pending Transfer to General Services Administration | His Excellency General Jean Kahwagi, Commander-in-Chief of the Lebanese Armed Forces | Non-acceptance would cause embarrassment to donor and U.S. Government.
The Honorable General Martin E. Dempsey, Chairman of the Joint Chiefs of Staff of the United States | Plaque, shield shape with incorporated foot, pressboard faux painted as wood; Tie & Tie Clip marked “India Navy”; Book, “India for a Billion Reasons”; Wooden Statue/carving, stained black depicting barebreasted female wearing necklaces; Kalamkari Robe/Dress, handpainted or block-printed cotton of red/green flowers. Rec'd—10/17/2011. Est. Value—$535.00. Disposition—Pending Transfer to General Services Administration | His Excellency Admiral Devendra Kumar Joshi, Chief of Naval Staff for the Republic of India | Non-acceptance would cause embarrassment to donor and U.S. Government.
The Honorable General Martin E. Dempsey, Chairman of the Joint Chiefs of Staff of the United States | Bag/clutch with red/yello orange rosettes; Scarf, of same design above in silk; Pen, ballpoint, limited edition. Rec'd—11/17/2011. Est. Value—$415.00. Disposition—Pending Transfer to General Services Administration | His Excellency Guillermo Galvan Galvan, Secretary of National Defense of the United Mexican States | Non-acceptance would cause embarrassment to donor and U.S. Government.
The Honorable William J. Lynn III, Deputy Secretary of Defense of the United States | Wooden Candle Holder, one holder round, beveled top and bottom, top inlaid with mother-of pearl disks. Rec'd—1/3/2011. Est. Value—$680.00. Disposition—Pending Transfer to General Services Administration | His Majesty King Abdullah II ibn Al Hussein and Her Majesty Queen Rania Al Abdullah, King and Queen of the Hashemite Kingdom of Jordan | Non-acceptance would cause embarrassment to donor and U.S. Government.
The Honorable Alexander Vershbow, Assistant Secretary of Defense for International Security Affairs of the United States | Silver bowl with sides detailed with floral repoussee in velvet gift case. Rec'd—2/11/2011. Est. Value—$390.00. Disposition—Pending Transfer to General Services Administration | His Excellency M. Vecdi Gonul, Minister of National Defense of the Republic of Turkey | Non-acceptance would cause embarrassment to donor and U.S. Government.
The Honorable Captain John DeNobile, Special Assistant to the Chairman Joint Chiefs of Staff of the United States | Baume and Mercier Watch with Case. Rec'd—2/24/2011. Est. Value—$650.00. Disposition—Pending Transfer to General Services Administration | His Highness Sheikh Sabah Al-Ahmad Al-Jaber Al-Sabah, Amir of the State of Kuwait | Non-acceptance would cause embarrassment to donor and U.S. Government.
The Honorable Captain John Kirby, Special Assistant for Public Affairs to the Chairman Joint Chiefs of Staff of the United States | Jacob and Co Watch Set with Case. Rec'd—2/24/2011. Est. Value—$28,600.00. Disposition—Transferred to General Services Administration | His Highness Sheikh Sabah Al-Ahmad Al-Jaber Al-Sabah, Amir of the State of Kuwait | Non-acceptance would cause embarrassment to donor and U.S. Government.
The Honorable Colonel James Baker, Director of Commander's Action Group for the Chairman Joint Chiefs of Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Captain John Wade, Deputy Executive Assistant to the Chairman Joint Chiefs of Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Colonel David Haight, Deputy Director for Pakistan-Afghanistan Coordination Cell for Joint Staff of the United State | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Colonel John Trumpfheller, Director Arab Division for Joint Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Donna Miles, Media Relations Analyst for the Joint Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Douglass Woods, Communication Technician for Joint Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable John Tigmo, Security Chief to the Chairman and Vice Chairman Joint Chiefs of Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Jared Sorenson, Special Assistant to the Chairman Joint Chiefs of Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Kevin McMillian, Technical Sergeant for Joint Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Kevin O'Neal, Special Assistant to the Chairman Joint Chiefs of Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Lieutenant Colonel David Womack, Political-Military Planner for Joint Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Major Judy Yoder, Aide-De-Camp for the Chairman Joint Chiefs of Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Mark Lovell, Analyst for Army Central Criminal Investigation Command for the Joint Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Master Sergeant David Washburn, Communication Technician for Joint Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Master Sergeant William Patrick, Executive Travel Communicator for the Joint Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Mathieu Rabechault, Media Relations Analyst for the Joint Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable MC1 Chad McNeeley, Photographer of the Chairman Joint Chiefs of Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Paul Broner, Analyst for Army Central Criminal Investigation Command for the Joint Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Robert Colin, Analyst for Army Central Criminal Investigation Command for the Joint Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Robert Trowbridge, Security Analyst for Joint Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Sarah Chayes, Special Assistant to the Chairman Joint Chiefs of Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Sean Sweeney, Communication Analyst to the Chairman Joint Chiefs of Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Sergeant First Class Brad Davis, Assistant to the Chairman Joint Chiefs of Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Shane Nisbet, Security Analyst for Joint Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Sonya Zimmerle, Analyst for Army Central Criminal Investigation Command for the Joint Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Techical Sergeant Robert Gorham, Executive Travel Communicator for the Joint Staff of the United States | Baume and Mercier Watch with Case. Rec'd—2/24/2011. Est. Value—$1,600.00. Disposition—Transferred to General Services Administration | His Highness Sheikh Sabah Al-Ahmad Al-Jaber Al-Sabah, Amir of the State of Kuwait | Non-acceptance would cause embarrassment to donor and U.S. Government.
The Honorable Joseph Skinner, Senior Taiwan Director for the Office of the Secretary of Defense Policy of the United States | Model jet fighter in gray, marked “F-5 53623” on tail and “5130” on side, mounted within glass display case. Rec'd—3/17/2011. Est. Value—$390.00. Disposition—Pending Transfer to General Services Administration | His Excellency Major General Kao Hua-Chu, Defense Minister of Taiwan | Non-acceptance would cause embarrassment to donor and U.S. Government.
The Honorable Michele Flournoy, Under Secretary of Defense for Policy of the United States | Afghanistan Pink Payal Bottom Dupatta Clothing; Beige Table Cloth and Napkin Set; Afghan Rug, wool pile, hand woven, field displaying 11 rows of 8 rectangles each, alternating in 4 different patterns of flowers/leaves; Prayer rug depicting archway in white outline topped by 3 arcaded buildings against red/tan/burgundy. Rec'd—4/12/2011. Est. Value—$860.00. Disposition—Pending Transfer to General Services Administration | His Excellency Hamid Karzai, President of the Islamic Republic of Afghanistan | Non-acceptance would cause embarrassment to donor and U.S. Government.
The Honorable Joseph McMillan, Principal Deputy Assistant Secretary of Defense for International Security Affairs of the United States | Statue, Equestrian metal (damaged tail) mounted on marble base; Book—Marrakesh; Book—Arabesques. Rec'd—4/29/2011. Est. Value—$1,368.00. Disposition—Pending Transfer to General Services Administration | His Excellency General Abdelaziz Bennani, Inspector General of the Royal Moroccan Armed Forces of the Kingdom of Morocco | Non-acceptance would cause embarrassment to donor and U.S. Government.
The Honorable David S. Sedney, Deputy Assistant Secretary of Defense for Afghanistan, Pakistan and Central Asia in the Office of the Assistant Secretary of Defense for Asian and Pacific Security Affairs of the United States | 2 Blue Lapis Metal boxes; 2 Table cloths with matching napkins. Rec'd—5/8/2011. Est. Value—$375.00. Disposition—Pending Transfer to General Services Administration | His Excellency Hamid Karzai, President of the Islamic Republic of Afghanistan | Non-acceptance would cause embarrassment to donor and U.S. Government.
The Honorable General James E. Cartwright, Vice Chairman of the Joint Chiefs of Staff of the United States | Dale of Norway Sweater. Rec'd—5/12/2011. Est. Value—$465.00. Disposition—Pending Transfer to General Services Administration | Vice Admiral Jan Eirik Finseth, Deputy Chief of Defense and Head of Defense Staff of the Norwegian Armed Forces | Non-acceptance would cause embarrassment to donor and U.S. Government.
The Honorable Grace D. Jacoby, Spouse of Lieutenant General Charles H. Jacoby Jr., Director of Strategic Plans and Policy for the Joint Staff of the United States | Dale of Norway Sweater. Rec'd—5/12/2011. Est. Value—$365.00. Disposition—Pending Transfer to General Services Administration | Vice Admiral Jan Eirik Finseth, Deputy Chief of Defense and Head of Defense Staff of the Norwegian Armed Forces | Non-acceptance would cause embarrassment to donor and U.S. Government.
The Honorable General James E. Cartwright, Vice Chairman of the Joint Chiefs of Staff of the United States | Tumbler Set/2 crystal glasses; Ceramic Serving Bowl with Floral Lid. Rec'd—5/16/2011. Est. Value—$470.00. Disposition—Pending Transfer to General Services Administration | His Excellency Aslan Guner, Chief of Defense of the Republic of Turkey | Non-acceptance would cause embarrassment to donor and U.S. Government.
The Honorable Brigadier General John W. Charlton, Deputy Director Politico-Military Affairs (Middle East) for the Joint Staff of the United States | Black box with the hinged lid of photographic reproduction brown marble; Wristwatch, Murex # ISC673, with silvertone rectangular white face; Ballpoint pen, having black lower shaft, polished silvertone upper; Black leather wallet having 2 long and 6 short interior pockets/slots; Pair of cufflinks, each a silvertone rectangle. Rec'd—5/17/2011. Est. Value—$1,510.00. Disposition—Pending Transfer to General Services Administration | General Abdullah Juma'an, General Coordinator of the Qatar Armed Forces and Chief of International Relations | Non-acceptance would cause embarrassment to donor and U.S. Government.
The Honorable Major General James M. Holmes, Assistant Deputy Chief of Staff for Operations, Plans and Requirements for the Joint Staff of the United States | Black polished wood box, with the hinged lid of photographic reproduction brown marble; Wristwatch by JBR, #GLSSB0539D80C 1, having hexagonal black face with white numerals; Wallet, black leather #30626 including flip tab on left with 4 pockets; Ballpoint pen, having black lower shaft, polished silvertone upper; Chain Chard/Charm, cell phone fob, polished silvertone. Rec'd—5/18/2011. Est. Value—$1,035.00. Disposition—Pending Transfer to General Services Administration | Major General Abdullah Juma'an, General Coordinator of the Qatar Armed Forces and Chief of International Relations | Non-acceptance would cause embarrassment to donor and U.S. Government.
The Honorable Major General James M. Holmes, Assistant Deputy Chief of Staff for Operations, Plans and Requirements for the Joint Staff of the United States | Hexagonal Wooden plaque, with incorporated hinged foot fronted by clear plastic hexagon; Artwork, hollow brass roundel depicting ship with 2 lateen sails and red/white/greenlblack enamel flag at stern over bird head. Rec'd—5/19/2011. Est. Value—$375.00. Disposition—Pending Transfer to General Services Administration | His Excellency General Khalid Al Jarra Al Sabah, Deputy Chief of Staff of Kuwait Armed Forces of the State of Kuwait | Non-acceptance would cause embarrassment to donor and U.S. Government.
The Honorable Paul Stockton, Assistant Secretary of Defense for Homeland Defense and Americas Security Affairs of the United States | Wristwatch, round, silvertone face with 12/3/6/9, wedges indicating other hours; Plaque, smoky plastic rectangle with adhered “MD” shield form over ribbon “Ministerio da Defesa“. Rec'd—6/9/2011. Est. Value—$370.00. Disposition—Pending Transfer to General Services Administration | His Excellency General De Nardi, Chief of the Armed Forces Joint Staff of the Federative Republic of Brazil | Non-acceptance would cause embarrassment to donor and U.S. Government.
The Honorable David S. Sedney, Deputy Assistant Secretary of Defense for Afghanistan, Pakistan and Central Asia in the Office of the Assistant Secretary of Defense for Asian and Pacific Security Affairs of the United States | Rug, wool pile, hand woven, featuring diamond design in red/tan on field, surrounded by 9 borders. Rec'd—8/1/2011. Est. Value—$400.00. Disposition—Pending Transfer to General Services Administration | His Excellency Hamid Karzai, President of the Islamic Republic of Afghanistan | Non-acceptance would cause embarrassment to donor and U.S. Government.
The Honorable Brigadier General Warren E. Phipps Jr., Deputy Director for Regional Operations for the Joint Staff of the United States | Gold Necklace with small hollow heart pendant, 2 spiral tubes; Afghan Clothing—pink top and bottom; Afghan Clothing—black top and bottom. Rec'd—9/1/2011. Est. Value—$510.00. Disposition—Pending Transfer to General Services Administration | His Excellency Leiutenant General Fazludin Ayar, Commander of the 202 Shamshad Zone of the Afghan National Police of the Islamic Republic of Afghanistan | Non-acceptance would cause embarrassment to donor and U.S. Government.
The Honorable James Schear, Deputy Assistant Secretary of Defense for Partnership Strategy and Stability Operations of the United States | Buddha, sculpture, seated, knotted hair, holding bowl in hands, legs crossed. Rec'd—9/20/2011. Est. Value—$385.00. Disposition—Pending Transfer to General Services Administration | His Excellency Sharat Singh Bhandari, Minister of Defense of the Federal Democratic Republic of Nepal | Non-acceptance would cause embarrassment to donor and U.S. Government.
The Honorable Drew Thompson, Director for China, Taiwan and Mongolia in the Office of the Assistant Secretary of Defense for Asian and Pacific Security Affairs of the United States | Name Chop/chop stamp, black marble rectangular with white dots; Command Coin (R.O.C. Marine Corps); Command Coin (Flying Tigers); Command Coin (DCGS); Command Coin; Naval Baseball Cap (Green); Naval Baseball Cap (Blue); Naval Baseball Cap (PFG); Naval Baseball Cap (ROC); 2 boxes of tea; 2 books (1 brief & 1 report). Rec'd—9/23/2011. Est. Value—$410.00. Disposition—Pending Transfer to General Services Administration | Lieutenant General Hsia Fu-Hua, Commandant of the Marine Corps of Taiwan | Non-acceptance would cause embarrassment to donor and U.S. Government.
The Honorable David S. Sedney, Deputy Assistant Secretary of Defense for Afghanistan, Pakistan and Central Asia in the Office of the Assistant Secretary of Defense for Asian and Pacific Security Affairs of the United State | Wooden Plaque, walnut rectangle, with metal screw foot, laser-etched, stating “Arrival of PAF F-16s Peace Drive—1”; Wooden Plaque, walnut rectangle with incorporated hinged foot, laser-etched, stating “Friends, Allies Peace Drive—1 F-16 Block—52+”; Wooden Plaque, fronted by color photo of standing female and 4 males marked “Operation Enduring Freedom 08 August 2010”; Table Ornament, of laser-etched clear crystal block stating “F-16 C Block 52 Pakistan Air Force ”; Block Ornament, adhered to beveled wood base incised “Induction Ceremony F-16 Block-52”; Cufflinks, displaying Pakistani military emblem over “Pakistan”; Cufflink/Tie Bar, stating “Pakistan Air Force/JF-17” surrounding fighter jet; Tie Tac; Key Chain; Medallion, enameled, stating “Pakistan Air Force” surrounding flying bird on one side, reverse stating “Symbol of Trust Between Two Allies/Arrival of P AF F-16 Peace Drive 1”; Necktie, depicting diagonal rows of fighter jets in yellow outline on navy blue. Rec'd—11/15/2011. Est. Value—$356.00. Disposition—Pending Transfer to General Services Administration | His Excellency Rao Qamar Suleman, Chief of Pakistan Air Force of the Islamic Republic of Pakistan | Non-acceptance would cause embarrassment to donor and U.S. Government.
The Honorable Admiral James A. Winnefeld, Jr., Vice Chairman of the Joint Chiefs of Staff of the United States | Commemorative Plaque with marble base; 1970 cufflinks with Brunei royal crest. Rec'd—12/6/2011. Est. Value—$500.00. Disposition—Pending Transfer to General Services Administration | His Royal Highness Prince Haji Al-Muhtadee Billah ibni, His Majesty Sultan Haji Hassanal Bolkiah Mu'izzaddin Waddaulah, Crown Prince of Brunei Darussalam | Non-acceptance would cause embarrassment to donor and U.S. Government.
The Honorable Vicki J. Huddleston, Deputy Assistant Secretary of Defense for African Affairs of the Secretary of Defense of the United States | Miniature bush with spiral twist silver wires; Artwork, 3 palm trees plus foliage silver-class over molded material. Rec'd—12/12/2011. Est. Value—$415.00. Disposition—Pending Transfer to General Services Administration | His Excellency Colonel Nouri Ben Taous, Ministry of Defense of Republic of Tunisia | Non-acceptance would cause embarrassment to donor and U.S. Government.

Agency: Department of Justice
[Report of tangible gifts furnished by the Department of Justice]
Name and title of person accepting the gift on behalf of the U.S. Government | Gift, date of acceptance on behalf of the U.S. Government, estimated value, and current disposition or location | Identity of foreign donor and government | Circumstances justifying acceptance
The Honorable Eric H. Holder, Attorney General of the United States | Swarovski binoculars. Rec'd—3/9/2011. Est. Value—$745.00. Disposition—Accepted by DOJ | The Honorable Maria Fekter, Minister of Interior of Austria | Non-acceptance would cause embarrassment to donor and U.S. Government.

Agency: United States Agency for International Development
[Report of travel furnished by the United States Agency for International Development]
Name and title of person accepting the gift on behalf of the U.S. Government | Gift, date of acceptance on behalf of the U.S. Government, estimated value, and current disposition or location | Identity of foreign donor and government | Circumstances justifying acceptance
Inna Loukovenko, Senior DG Governance Advisor | Travel to Stockholm, Sweden. Rec'd—8/20-24/2011. Est. Value—$735.00 | Mr. Tomas Brundin, Senior Advisor of the Ministry of Foreign Affairs of Sweden | Non-acceptance would cause embarrassment to donor and U.S. Government.

Agency: Department of the Navy
[Report of tangible gifts and travel furnished by the Department of the Navy]
Name and title of person accepting the gift on behalf of the U.S. Government | Gift, date of acceptance on behalf of the U.S. Government, estimated value, and current disposition or location | Identity of foreign donor and government | Circumstances justifying acceptance
Vice Admiral Mark Fox and Spouse, U.S. Navy, Commander, U.S. Naval Forces Central Command | Necklace, 18K gold with pendant. Rec'd—1/12/2011. Est. Value—$626.00. Disposition-Purchased by recipient | His Excellency Lieutenant General Samy Enan, Chief of Staff of the Armed Forces of the Arab Republic of Egypt | Non-acceptance would cause embarrassment to donor and U.S. Government.
Vice Admiral Mark Fox, U.S. Navy, Commander, U.S. Naval Forces Central Command | Desk clock; Chopard gold desk clock. Rec'd—6/26/2011. Est. Value—$1,331.92. Disposition—Retained by recipient | His Majesty King Hamad bin Isa Al Khalifa, King of the Kingdom of Bahrain | Non-acceptance would cause embarrassment to donor and U.S. Government.
General James Mattis, US Marine Corps, Commander, U.S. Central Command | Rug, 3′10″ x 6′2″ hand woven wool and silk with center medallion on an open field of gold surrounded by multiple border of floral pattern of pale gold, green, rasberry, yellow, royal blue, white, cream and taupe. Rec'd—3/28/2011. Est. Value—$6,800.00. Location—General Services Administration | Colonel Hassan Quanbazard (Retired), Kuwait | Non-acceptance would cause embarrassment to donor and U.S. Government.
Major General Kenneth McKenzie, Jr., U.S. Marine Corps, CDR, Strategy, Plans and Policy, U.S. Central Comand | Watch, Women's Christian Dior, black high tech ceramic and steel case and bracelet, rotating, black lacquered dial set with diamonds, anti-reflective sapphire crystal glass; Watch, Women's Chanel, black ceramic case with a black ceramic link bracelet, bi-directional rotating black ceramic bezel, black dial with luminous hands and arabic numeral hour markers. Rec'd—10/26/2011. Est. Value—$9,549. Disposition—Transferred to General Services Administration | Major General Hamad bin Ali Al-Attiyah, Chief of Staff of the Qatar Armed Forces | Non-acceptance would cause embarrassment to donor and U.S. Government.
Commander Brett Crozier, U.S. Navy, Air Operations Director, Naval Striking and Support Forces NATO | Watch, Hamilton men's, stainless steel case, black dial with stainless steel bracelet; Watch, women's Salvatore Ferragamo, red lizard print band, stainless steel Amethyst white dial with guilloche Gancino decoration. Rec'd—10/30/2011. Est. Value—$2,545.00. Disposition—Transferred to General Services Administration | Brigadier General Khalid Amamed Khalfan Al Kuwari, Qatari Military Liaison Officer, Qatar Armed Forces | Non-acceptance would cause embarrassment to donor and U.S. Government.
Colonel Peter Yeager, U.S. Marine Corps, Deputy Director of the Resources Directorate for Combined Joint Task Unified Protector | Watch, men's Navitec Tango Charlie automatic winding, chronograph, hours, minutes and seconds, black band; Watch, Grovana women's chronograph, stainless steel case with ceramic case and bracelet, sapphire crystal. Rec'd—11/1/2011. Est. Value—$8,000.00. Disposition—Transferred to General Services Administration | Brigadier General Khalid Amamed Khalfan Al Kuwari, Qatari Military Liaison Officer, Qatar Armed Forces | Non-acceptance would cause embarrassment to donor and U.S. Government.
Rear Admiral John Christenson, U.S. Navy, President, Naval War College | Watch, Etienne Aigner men's stainless steel watch, brown and black case with rose gold face, brown dial, roman numerals, black leather strap with horseshoe shaped clasp, serial A38104. Rec'd—5/16/2011. Est. Value—$1,058.85. Location—General Services Administration | Rear Admiral Ibrahim Al-Musharrakh, Commander of the United Arab Emirates Naval Forces | Non-acceptance would cause embarrassment to donor and U.S. Government.
Rear Admiral John Christenson, U.S. Navy, President, Naval War College | Watch, Versace Character Tonneau men's chronograph, stainless steel bracelet, crystal dial, mother of pearl face. Rec'd—10/20/2011. Est. Value—$1,700.00. Disposition—Transferred to GSA | Rear Admiral Ibrahim Al-Musharrakh, Commander of the United Arab Emirates Naval Forces | Non-acceptance would cause embarrassment to donor and U.S. Government.
Rear Admiral Sinclair Harris, U.S. Navy, Director, Navy Irregular Warfare Office | Watch, Etienne Aigner men's stainless steel watch, brown and black case with rose gold face, brown dial, roman numerals, black leather strap with horseshoe shaped clasp, serial A38104. Rec'd—5/17/2011. Est. Value—$1,058.85. Disposition—Transferred to GSA | Rear Admiral Ibrahim Al-Musharrakh, Commander of the United Arab Emirates Naval Forces | Non-acceptance would cause embarrassment to donor and U.S. Government.
Admiral Gary Roughead, U.S. Navy, Chief of Naval Operations | Plate, 11¼-d″ Sterling silver plate, rim band of 5 eight-petal rosettes within foliate, scrollwork flanking 5 cartouches, 4 of which are engraved with images (gazelle, fortress, building and boat), plus fifth engraved “With the Compliments of Salman Bin Hamad Al Khalifa Crown Prince of King of Bahrain”. Rec'd—8/23/2009. Est. Value—$1,050.00. Disposition—Transferred to GSA | His Royal Highness Salman Bin Hamad Al Khalifa, Crown Prince of the Kingdom of Bahrain | Non-acceptance would cause embarrassment to donor and U.S. Government.
Admiral Gary Roughead, U.S. Navy, Chief of Naval Operations | Watch, Mavado men's Series 800 retrograde chronograph, stainless steel case with black aluminum bezel, black dial with 3 retrograde counters and small seconds sub-chronograph movement. Rec'd—5/18/2011. Est. Value—$1,295.00. Disposition—Transferred to GSA | Real Admiral Ibrahim Al Musharrakh, Commander of the United Arab Emirates Naval Forces | Non-acceptance would cause embarrassment to donor and U.S. Government.
Vice Admiral John Richardson, U.S. Navy, Commander, Submarine Force Atlantic | Wall display, wooden shadow box of the Silver Type 209 Peruvian Submarine. Rec'd—6/20/2011. Est. Value—$400.00. Disposition—Retained by recipient | Admiral Jorge De La Puente Ribeyro, Commanding General of the Peruvian Naval Forces | Non-acceptance would cause embarrassment to donor and U.S. Government.
Captain B. J. Muilenburg, U.S. Navy, Commander, Thirteenth Naval Construction Regiment | Rug, 86 x 62″ Afghan rug. Rec'd—9/10/2011. Est. Value—$955.00. Disposition—Retained by recipient | Major General Abdul Raziq Sherzai, Commander of the 738th AEW of the Islamic Republic of Afghanistan | Non-acceptance would cause embarrassment to donor and U.S. Government.
Admiral Gary Roughead, U.S. Navy, Chief of Naval Operations | Picture, 14.5″ x 12.15″ drawing, The View of Flacious Amphitheater known as the Colosseum by Achille Parboni in 25 x 21″ frame. Rec'd—8/18/2009. Est. Value—$540.00. Disposition—Transferred to GSA | Admiral Paolo La Rosa, Chief of the Italian Navy of the Italian Republic | Non-acceptance would cause embarrassment to donor and U.S. Government.
Admiral Gary Roughead, U.S. Navy, Chief of Naval Operations | Dagger, 10.5″ scabbard with black leather belt, with 6.5″ blade in a metallic silver presented in green velvet box. Rec'd—11/9/2009. Est. Value—$525.00. Disposition—Transferred to GSA | Vice Admiral Fahd Bin Abdullah (Retired), Commander of the Royal Saudi Naval Forces | Non-acceptance would cause embarrassment to donor and U.S. Government.
Admiral Gary Roughead, U.S. Navy, Chief of Naval Operations | Dagger, 35″ silver blade with wood handle, leather sheath with black and silver tassels. Rec'd—12/24/2008. Est. Value—$1,000.00. Disposition—Transferred to GSA | Brigadier General Abdulla Saeed Al-Mansoori, Royal Bahrain Naval Forces Commander | Non-acceptance would cause embarrassment to donor and U.S. Government.
Admiral Gary Roughead, U.S. Navy, Chief of Naval Operations | Cologne, 100 ml Opuland Sheik in black leather case; Perfume, 1.7 fl. Oz. Durat Al Bahrain silver beaded casing in lacquer box. Rec'd—4/14/2008. Est. Value—$564.99. Disposition—Transferred to GSA | Brigadier General Abdulla Saeed Al-Mansoori, Royal Bahrain Naval Forces Commander | Non-acceptance would cause embarrassment to donor and U.S. Government.
Captain Kenneth Norton, U.S. Navy, Commanding Officer, USS Ronald Reagan (CVN 76) | Barge, 18″ replica of the Thai Royal Barge Suphannahonse; made from wood and painted gold and red. Rec'd—9/23/2009. Est. Value—$950.00. Disposition—Transferred to GSA | Rear Admiral Sarayuth Dangteth, Assistant Chief of Staff Officer to Commander of the Royal Thai Navy | Non-acceptance would cause embarrassment to donor and U.S. Government.
Rear Admiral Thomas Cropper, U.S. Navy, Deputy Commander, U.S. Naval Forces Central Command | Watch, Hamilton Khaki Field multi touch men's watch; bruched stainless steel case, luminescent white hands, black numbers, digital display, thermometer, barometer, altimeter, chronometer, campass and alarm function quartz movement, water resistant, black rubber strap, serial H915340. Rec'd—10/24/2008. Est. Value—$550.00. Disposition—Transferred to GSA | Rear Admiral Ibrahim Al-Musharrakh, Commander of the United Arab Emirates Naval Forces | Non-acceptance would cause embarrassment to donor and U.S. Government.
Vice Admiral William Gortney, U.S. Navy, U.S. Naval Forces Central Command | Watch gift set, Givenchy men's swiss made, stainless steel case and bracelet, pearl dial color, mineral crystal, water resistant; silver pen; silver cufflinks with black jewels inset and black leather wallet in white lacquered box; Watch gift set, Givency men's watch, swiss made stainless case with Givenchy logo, brown leather strap, chronograph, mineral crystal; ball point pen; gold cufflinks with logo on top and brown leather wallet in white lacquered box. Rec'd—8/4/2008. Est. Value—$610.00. Disposition—Transferred to GSA | Major General Hamad bin Ali Al-Attiyah, Chief of Staff of the Qatar Armed Forces | Non-acceptance would cause embarrassment to donor and U.S. Government.
Admiral Samuel Locklear, U.S. Navy, Commander, U.S. Naval Forces, Europe/Commander, U.S. Naval Forces, Africa and one accompanying staff member | TRAVEL: Lodging in Macedonia. Rec'd—6/7-9/2011. Est. Value—$530.16 | Lieutenant General Miroslav Stojanovski, Chief of General Staff of the Macedonian Army | Non-acceptance would cause embarrassment to donor and U.S. Government.
Admiral Samuel Locklear, U.S. Navy, Commander, U.S. Naval Forces, Europe/Commander, U.S. Naval Forces, Africa and one accompanying staff member | TRAVEL: Lodging in Macedonia. Rec'd—8/29-30/2011. Est. Value—$1,021.48 | Major General Hamad bin Ali Al-Attiyah, Chief of Staff of the Qatar Armed Forces | Non-acceptance would cause embarrassment to donor and U.S. Government.
Vice Admiral Harry Harris, Jr., U.S. Navy, Deputy Commander, U.S. Naval Forces, Europe/Commander U.S. Naval Forces, Africa and seven accompanying staff members | TRAVEL: Lodging in Venice, Italy. Rec'd—8/28-9/1/2011. Est. Value—$7,923.36 | Vice Admiral Jan Eirik Finseth, Deputy Chief of Defense and Head of Defense Staff of the Norwegian Armed Forces | Non-acceptance would cause embarrassment to donor and U.S. Government.
Mark Clookie, Director, Naval Criminal Investigative Service | TRAVEL: Lodging in Singapore. Rec'd—5/16-20/2011. Est. Value—$1,071.00. Disposition—Transferred to GSA | Rear Admiral Ng Chee Peng Chief of Navy of the Republic of Singapore | Non-acceptance would cause embarrassment to donor and U.S. Government.
Darrell Gilliard, Naval Criminal Investigative Service | TRAVEL: Lodgings in Singapore. Rec'd—5/16-20/2011. Est. Value—$1,071.00. Disposition—Transferred to GSA | Rear Admiral Ng Chee Peng, Chief of Navy of the Republic of Singapore | Non-acceptance would cause embarrassment to donor and U.S. Government.

Agency: Department of the Treasury
[Report of tangible gifts and travel furnished by the Department of the Treasury]
Name and title of person accepting the gift on behalf of the U.S. Government | Gift, date of acceptance on behalf of the U.S. Government, estimated value, and current disposition or location | Identity of foreign donor and government | Circumstances justifying acceptance
Timothy Geithner, Secretary of the Treasury | “Hibiscus” Franz Vase with white and red flowers. Rec'd—4/4/2011. Est. Value—$850.00. Disposition—Retain for official Use | His Excellency Hu Jintao, President of the People's Republic of China | Non-acceptance would cause embarrassment to donor and U.S. Government.
Barbara Opper, Intermittent Advisor (Government Debt and Issuance Management) | Lodging in Luanda, Angola; Hotel De Convenceos de Talatona. Talatona CCB4 GU02, Rua Luanda Sul; Voucher processed and benefit to government accrued in processing. Rec'd—9/25-10/7/2011. Est. Value—$2,280.00 | Ministry of Finance of Angola | Non-acceptance would cause embarrassment to donor and U.S. Government.
Emmitt Summers, Intermittent Advisor (Government Debt and Issuance Management) | Lodging in Luanda, Angola; Hotel De Convenceos de Talatona. Talatona CCB4 GU02, Rua Luanda Sul; Voucher processed and benefit to government accrued in processing. Rec'd—9/25-10/7/2011. Est. Value—$2,280.00 | Ministry of Finance of Angola | Non-acceptance would cause embarrassment to donor and U.S. Government.
Daniel Patrick O'Connell, Resident Advisor Mongolia (Government Debt and Issuance Management) | Accomodations and food Fairmont Le Montreux Palace Montreux, Switzerland. Rec'd—10/23-25/2011. Est. Value—$1,316.00 | Sovereign Wealth Fund Institute | Non-acceptance would cause embarrassment to donor and U.S. Government.
Jean-Jacques Deschamps, Regional Banking Advisor | Hotel Expenses in Jakarta Indonesia. Rec'd—11/12/2011. Est. Value—$1,068.12. Disposition—Transfer to Treasury Office of Personal Property on February 25, 2009 | Lembaga Penjamin Simpanan (Indonesia Deposit Insurance Corporation = IDIC); Government of Indonesia | Non-acceptance would cause embarrassment to donor and U.S. Government.
Philip Watson Morris, Resident Banking Advisor | Roundtrip airline tickets from Abuja to Lagos, Nigeria. Two nights accomodation in Lagos. Advisor participation in meetings that furthered goals outlined in the project Terms of Reference with the Government of Nigeria. Rec'd—7/28-30/2011. Est. Value—$1,400.00 | Nigerian Deposit Insurance Corporation of the Federal Republic of Nigeria | Non-acceptance would cause embarrassment to donor and U.S. Government.
Lael Brainard, Under Secreaty for International Affairs | Heli-Artic Parka and Seal Skin Mitts. Rec'd—5/4/2011. Est. Value—$1,029.00. Disposition—Pending Transfer to General Services Administration | The Honorable James M. Flaherty, P.C., M.P., Minister of Finance of Canada | Non-acceptance would cause embarrassment to donor and U.S. Government.
David Cohen, Assistant Secretary of Terrorist Financing | Cartier “Tank” Wristwatch and 100 Riyal Gold Coin. Rec'd—10/4/2011. Est. Value—$4,265.00. Disposition—Pending Transfer to General Services Administration | Ali Bin Mohsen Bin Fetais Al-Marri, Attorney General of the State of Qatar | Non-acceptance would cause embarrassment to donor and U.S. Government.

Agency: United States Marine Corps
[Report of tangible gifts and travel furnished by the United States Marine Corps]
Name and title of person accepting the gift on behalf of the U.S. Government | Gift, date of acceptance on behalf of the U.S. Government, estimated value, and current disposition or location | Identity of foreign donor and government | Circumstances justifying acceptance
Dr. Edward Erickson, Associate Professor of Military Studies | Attendance and participation at the “Chief of Australian Army History Conference from 27 Sep to 1 Oct 2011. Rec'd—7/25/2011. Est. Value—$17,031.00 | Government of the Commonwealth of Australia | Non-acceptance would cause embarrassment to donor and U.S. Government.
Dr. Paolo Tripodi, Professor of Ethics & Leadership | Attendance and participation at Konrad Adenauer Foundation's VII International Security Conference of Forte de Copacabana—“A European-South American Dialogue”; 4 Nov 2011. Rec'd—10/7/2011. Est. Value—$3,400.00 | Konrad Adenauer Foundation, Rio de Janeiro, Brazil | Non-acceptance would cause embarrassment to donor and U.S. Government.
The officers at Marine Barracks Washington | Ceremonial Drum. Rec'd—7/27/2011. Est. Value—$560.00. Disposition—On display in Center House, Marine Barracks Washington, DC | Major General F.H.R. Howes, Commandant General of the Royal Marines of the United Kingdom of Great Britain and Northern Ireland | Non-acceptance would cause embarrassment to donor and U.S. Government.

Agency: Department of Homeland Security
[Report of tangible gifts & travel furnished by the Department of Homeland Security]
Name and title of person accepting the gift on behalf of the U.S. Government | Gift, date of acceptance on behalf of the U.S. Government, estimated value, and current disposition or location | Identity of foreign donor and government | Circumstances justifying acceptance
The Honorable Janet Napolitano, Secretary of Homeland Security | Cartier watch, model W6701005. Polished steel case, 12 black Roman numerals, close railtrack, calendar date window, sword-shaped blue steel hands. Rec'd—1/2/2011. Est. Value—$2,625.00. Disposition—Department of Homeland Security Headquarters, Office of International Affairs | Ali Bin Mohsen Bin Fetais Al-Marri, Attorney General of the State of Qatar | Non-acceptance would cause embarrassment to donor and U.S. Government.
The Honorable Janet Napolitano, Secretary of Homeland Security | Black Swarovski Optic binoculars. 8 x 30W. Model A781484533. Came in a black, vinyl travel case with a black leather neckstrap. Rec'd—3/10/2011. Est. Value—$916.96. Disposition—Deparment of Homeland Security Headquarters | The Honorable Maria Fekter, Minister of Interior of Austria | Non-acceptance would cause embarrassment to donor and U.S. Government.
The Honorable Janet Napolitano, Secretary of Homeland Security | Swarovski crystal horse. 6″ high by 6″ wide. Rec'd—7/1/2011. Est. Value—$400.00. Disposition—Deparment of Homeland Security Headquarters | The Honorable Johanna Mikl-Leitner, Minister of Interior of Austria | Non-acceptance would cause embarrassment to donor and U.S. Government.
The Honorable Janet Napolitano, Secretary of Homeland Security | ST Dupont, Paris “Liberte” pen. Pearlized white color ballpoint with matching cap with silver-toned trim. In a black presentation box. With engraved plate identifying the donor. Rec'd—12/1/2011. Est. Value—$387.50. Disposition—Deparment of Homeland Security Headquarters, Secretary's Office (for display) | The Honorable Claude Guéant, Minister of Interior, Overseas Territories, Territorial Collectivities and Immigration Affairs of the French Republic | Non-acceptance would cause embarrassment to donor and U.S. Government.
The Honorable Janet Napolitano, Secretary of Homeland Security | Cartier watch, model 3701004. Ronde Solo Small Steel series. Rec'd—12/4/2011. Est. Value—$2,438.00. Disposition—Deparment of Homeland Security Headquarters | Ali Bin Mohsen Bin Fetais Al-Marri, Attorney General of the State of Qatar | Non-acceptance would cause embarrassment to donor and U.S. Government.
Mr. Robert Fenton, Assistant Administrator, Response Directorate | TRAVEL: Speaker at the HCFDC Emergency Management Conference. Paris, France. Rec'd—1/14/2011. Est. Value—$4,027.57 | The French High Committee for Civil Defence (HCFDC) | Non-acceptance would cause embarrassment to donor and U.S. Government.
Mr. Michael Matthews, S&T Program Manager, Department of Homeland Security | TRAVEL: Attended the 1st International Sports Security Conference (ISSC). Sponsored participation was a direct result of Mr. Matthew's work in the SERRI-funded Sport-Evac project. The ISSC was a major international initiative aimed at assembling key decision makers to shape the international agenda on sports integrity and security, while enhancing global cooperation. The event offered delegates not only thorough debate but also an opportunity to network with international counterparts. The conference was in Doha, Qatar, on 9th and 10th March 2011 and was limited to a select delegation of 150 figures, all of whom were personally invited by the organizers and come from the world of Sport and Security. This was a seminal site visit in an international forum and demonstrated the international flavor of the world class research DHS S&T is doing. Participation provided an excellent opportunity to forge valuable partnerships. Rec'd—1/31/2011. Est. Value—$8,186.00 | Mr. Heimunn Li, Monitor Group, Michelin House, Fulham Road, London SW3 6RD | Non-acceptance would cause embarrassment to donor and U.S. Government.
Mr. Haroon Azar | TRAVEL: Participation in a Department of State education and cultural exchange program. Participants included interagency personnel and a Congressional delegation. Funds covered transportation and lodging costs. Rec'd—1/14/2011. Est. Value—$4,027.57 | Ministry of Foreign Affairs of the State of Qatar | Non-acceptance would cause embarrassment to donor and U.S. Government.
Mr. David Trissell, DHS/FEMA Attache to European Union | TRAVEL: Presenter at the Polish Presidency Workshop on Crisis Communication. Rec'd—7/19/2011. Est. Value—$3,928.00 | The State Fire Service of the Republic of Poland | Non-acceptance would cause embarrassment to donor and U.S. Government.
Mr. Timothy Manning, Deputy Administrator Protection and Prevention | TRAVEL: Speaker (and attendee) at the Asia Pacific Economic Cooperation Emergency Management Workshop on Private Sector Emergency Preparedness, Sendai, Japan. Rec'd—7/30/2011. Est. Value—$589.00 | Ministry of Foreign Affairs of the Government of Japan | Non-acceptance would cause embarrassment to donor and U.S. Government.
Candice Abinanti, International Affairs Specialist | TRAVEL: Attendee at the Asia Pacific Economic Cooperation Emergency Management Workshop on Private Sector Emergency Preparedness, Sendai, Japan. Rec'd—7/30/2011. Est. Value—$589.00 | Ministry of Foreign Affairs of the Government of Japan | Non-acceptance would cause embarrassment to donor and U.S. Government.
Candice Abinanti, International Affairs Specialist | TRAVEL: Attendee at the Asia Pacific Economic Cooperation Emergency Management Workshop on Private Sector Emergency Preparedness, Sendai, Japan. Rec'd—7/30/2011. Est. Value—$589.00 | Ministry of Foreign Affairs of the Government of Japan | Non-acceptance would cause embarrassment to donor and U.S. Government.
Mr. Douglas Bausch, Physical Scientist, Region 8, Mitigation | TRAVEL: Instructor at the HAZUS Technical Training Workshop, Jeddah, Saudi Arabia. Rec'd—10/5/2011. Est. Value—$5,750.00 | Saudi Geological Survey of the Ministry | Non-acceptance would cause embarrassment to donor and U.S. Government.
Jesee Rozell, Risk Analyst, Region 8 | TRAVEL: Instructor at the HAZUS Technical Training Workshop, Jeddah, Saudi Arabia. Rec'd—10/5/2011. Est. Value—$5,750.00 | Saudi Geological Survey of the Ministry | Non-acceptance would cause embarrassment to donor and U.S. Government.
Mr. Lance Brooks, Branch Chief, Chemical Biological Research and Development, Chemical and Biological Defense Division, Science & Technology, Department of Homeland Security | TRAVEL: This trip was considered mission critical by the Office of Science and Technology—Mr. Lance Brooks was invited by the Inter-American Committee against Terrorist (CICTE)'s Secretariat of the Organization of American State (OAS) to participate in a table top exercise and present as a subject matter expert on Biological Detection & Remediation. OAS provided invitational travel for the traveler. High ranking public officials from Chile, Argentina, Brazil, Paraguay, and Uruguay participated in the exercise; other international experts were invited as subject matter experts. Participation supported the DHS commitment plan's regional integration which highlights the OAS as the main hemispheric forum and highlights the need to enhance civilian response to disasters. In addition to the total amount paid for airfare and lodging ($1952.10), OAS/CICTE paid $25 per day for lunch, which was provided at the workshop location. Mr. Brooks also received $50 per day for dinner, $30 each way to/from the airport in both the US and Chile, and $140 to pay for the reciprocity fee charged to US citizens entering Chile—all totaling $410. The total including airfare, lodging (which included breakfast), lunch, dinner, fees, and transportation for three days of travel. Rec'd—10/25/2011. Est. Value—$2,437.10 | Mr. Alejandro Diaz de Leon, Program Manager Inter-American Committee against Terrorism Secretariat of Multidimensional Security Organization of American States | Non-acceptance would cause embarrassment to donor and U.S. Government.
Mr. Timothy Curry, Deputy Director, Counterterrorism & Security Policy, Office of Policy, U.S. Department of Homeland Security | TRAVEL: DHS Representative a the “Training Workshop on Countering Violent Extremist Messaging” conference sponsored by the Ministry of Interior, Kingdom of Saudi Arabia. Rec'd—12/7/2011. Est. Value—$3,992.73 | Mr. Mohammad Al Subaie, Ministry of Interior of the Kindom of Saudi Arabia | Non-acceptance would cause embarrassment to donor and U.S. Government.
Mr. Mark Koumans, Deputy Assistant Secretary, Office of Policy-International Affairs, Department of Homeland Security | Cartier watch, model W6701005. Polished steel case, 12 black Roman numerals, close railtrack, calendar date window, sword-shaped blue steel hands. Rec'd—1/2/2011. Est. Value—$2,625.00. Disposition—Department of Homeland Security Headquarters, Office of International Affairs | Ali Bin Mohsen Bin Fetais Al-Marri, Attorney General of the State of Qatar | Non-acceptance would cause embarrassment to donor and U.S. Government.
Mr. Tom Warrick, Deputy Assistant Secretary for Counterterrorism Policy, Office of Policy-Policy Development, Department of Homeland Security | Cartier watch, model W6701005. Polished steel case, 12 black Roman numerals, close railtrack, calendar date window, sword-shaped blue steel hands. Rec'd—1/2/2011. Est. Value—$2,625.00. Disposition—Department of Homeland Security Headquarters, Office of International Affairs | Ali Bin Mohsen Bin Fetais Al-Marri, Attorney General of the State of Qatar | Non-acceptance would cause embarrassment to donor and U.S. Government.
Mr. Noah Kroloff, Chief of Staff, Department of Homeland Security | Cartier watch, model W6701005. Polished steel case, 12 black Roman numerals, close railtrack, calendar date window, sword-shaped blue steel hands. Rec'd—1/2/2011. Est. Value—$2,625.00. Disposition—Department of Homeland Security Headquarters, Office of International Affairs | Ali Bin Mohsen Bin Fetais Al-Marri, Attorney General of the State of Qatar | Non-acceptance would cause embarrassment to donor and U.S. Government.

Agency: Federal Emergency Management Agency
[Report of travel furnished by the Federal Emergency Management Agency]
Name and title of person accepting the gift on behalf of the U.S. Government | Gift, date of acceptance on behalf of the U.S. Government, estimated value, and current disposition or location | Identity of foreign donor and government | Circumstances justifying acceptance
Edward J. Kaplan, USFA Education Specialist | TRAVEL: IAFC Volunteer & Combination Section Summit. Rec'd—3/17-19/2011. Est. Value—$536.00 | IAFC (International Association of Fire Chiefs) | Non-acceptance would cause embarrassment to donor and U.S. Government.
Alexander Furr, Director, Natl Fire Prog | TRAVEL: IAFC Volunteer & Combination Section Summit. Rec'd—3/17-19/2011. Est. Value—$528.00 | IAFC (International Association of Fire Chiefs) | Non-acceptance would cause embarrassment to donor and U.S. Government.
Sandra Facinoli, Chief, Prevention & Info Branch, USFA | TRAVEL: IAFC Volunteer & Combination Section Summit. Rec'd—3/17-19/2011. Est. Value—$536.00 | IAFC (International Association of Fire Chiefs) | Non-acceptance would cause embarrassment to donor and U.S. Government.
Teresa Neal, Fire Prog Specialist | TRAVEL: IAFC Volunteer & Combination Section Summit. Rec'd—3/17-19/2011. Est. Value—$476.00 | IAFC (International Association of Fire Chiefs) | Non-acceptance would cause embarrassment to donor and U.S. Government.
Ken Farmer, Supv Prog Specialist | TRAVEL: IAFC Volunteer & Combination Section Summit. Rec'd—3/17-19/2011. Est. Value—$536.00 | IAFC (International Association of Fire Chiefs) | Non-acceptance would cause embarrassment to donor and U.S. Government.
Robert Fenton, Asst Administrator for Response | TRAVEL: HCFDC Emergency Mgmt Conference in Paris, France. Rec'd—1/14-19/2011. Est. Value—$2,013.57 | The French High Committee for Civil Defense (HCFDC) | Non-acceptance would cause embarrassment to donor and U.S. Government.
Daniel McElhinney, FEMA Liaison to NATO | TRAVEL: NATO Studies Support Group/COIAT Mtg in Hague, Netherlands. Rec'd—1/22-29/2011. Est. Value—$3,382.67 | NATO Civil Emergency Preparedness Directorate | Non-acceptance would cause embarrassment to donor and U.S. Government.
Daniel McElhinney, FEMA Liaison to NATO | TRAVEL: NATO Studies Support Group/Defense Civil Military Coop Seminar in Hague, Netherlands.Rec'd—3/14-18/2011. Est. Value—$2,400.75 | NATO Civil Emergency Preparedness Directorate (NATO CEP) | Non-acceptance would cause embarrassment to donor and U.S. Government.
Dan McElhinney, Grants Division Director/FEM Aliaison to NATO | TRAVEL: NATO COIAT CEP Support Meeting in Hague, Netherlands.Rec'd—9/24-10/1/2011. Est. Value—$3,525.09 | NATO Civil Emergency Preparedness (CEP) Directorate | Non-acceptance would cause embarrassment to donor and U.S. Government.
Dan McElhinney, Grants Division Director/FEM Aliaison to NATO | TRAVEL: NATO CEPC Seminar in Budapest, Hungary.Rec'd—10/4-6/2011. Est. Value—$3,524.43 | NATO Civil Emergency Preparedness (CEP) Directorate | Non-acceptance would cause embarrassment to donor and U.S. Government.
Dan McElhinney, Grants Division Director/FEM Aliaison to NATO | TRAVEL: NATO COIAT CEP Support Meeting in Hague, Netherlands. Rec'd—11/28-12/3-2011. Est. Value—$2,895.00 | NATO Civil Emergency Preparedness (CEP) Directorate | Non-acceptance would cause embarrassment to donor and U.S. Government.
Doug Bauch, Physical Scientist | TRAVEL: HAZUS Tech Training in Jeddah, Saudi Arabia. Rec'd—10/5-12/2011. Est. Value—$536.00 | Saudi Geological Survey of the Ministry | Non-acceptance would cause embarrassment to donor and U.S. Government.
Jesse Rozelle, Risk Analyst | TRAVEL: HAZUS Tech Training in Jeddah, Saudi Arabia. Rec'd—10/5-12/2011. Est. Value—$536.00 | Saudi Geological Survey of the Ministry | Non-acceptance would cause embarrassment to donor and U.S. Government.
Ed Conley, External Affairs Officer | TRAVEL: NATO MD/CEP COIAT CEP Support Meeting in Hague, Netherlands. Rec'd—9/26-10/1/2011. Est. Value—$2,550.00 | NATO Civil Emergency Preparedness (CEP) Directorate | Non-acceptance would cause embarrassment to donor and U.S. Government.
Chad Gorman, Chemical Biological Radiological Nuclear Explosive (CBRNE) Branch Chief | TRAVEL: SecureTech Conference in Ottawa, Canada. Rec'd—10/24-26/2011. Est. Value—$1,267.30 | Candian Assoc of Defense and Security Industries (CADSI) | Non-acceptance would cause embarrassment to donor and U.S. Government.
Russell Fox, Continuity Manager | TRAVEL: Latin America Continuity Conference in Bogota, Colombia. Rec'd—11/16-19/2011. Est. Value—$1,731.00 | iTEAM | Non-acceptance would cause embarrassment to donor and U.S. Government.
Denis Onieal, Superintendent, National Fire Academy | TRAVEL: Speaker at Taiwan Fire Agency Conference in Taipei, Taiwan. Rec'd—11/6-10/2011. Est. Value—$6,500.00 | National Fire Agency of Taiwan | Non-acceptance would cause embarrassment to donor and U.S. Government.
Ed Conley, External Affairs Officer | TRAVEL: Nordic Crisis Communicaitons Conference in Oslo, Norway. Rec'd—11/1-4/2011. Est. Value—$2,300.00 | Norway Directorate for Civil Protection | Non-acceptance would cause embarrassment to donor and U.S. Government.
David Trissell, DHS/FEMA Attache to European Union | TRAVEL: Presenter at the Polish Presidency Workshop on Crisis Communication in Warsaw, Poland. Rec'd—7/19/2011. Est. Value—$1,964.00 | Government of the Republic of Poland | Non-acceptance would cause embarrassment to donor and U.S. Government.
Timothy Manning, Deputy Administrator Protection and Preparedness | TRAVEL: Attendee & Speaker Asia Pacific Economic Cooperation (APEC) Emergency Management Workshop on Private Sector Emergency Preparedness in Sendai, Japan. Rec'd—7/30/2011. Est. Value—$589.00 | Ministry of Foreign Affairs of the Government of Japan | Non-acceptance would cause embarrassment to donor and U.S. Government.
Candice Abinanti, International Affairs Specialist | TRAVEL: Attendee & Speaker Asia Pacific Economic Cooperation (APEC) Emergency Management Workshop on Private Sector Emergency Preparedness in Sendai, Japan. Rec'd—7/30/2011. Est. Value—$589 | Ministry of Foreign Affairs of the Government of Japan | Non-acceptance would cause embarrassment to donor and U.S. Government.
Denis Onieal, Superintendent, National Fire Academy | TRAVEL: Speaker at Taiwan Fire Agency Conference in Taipei, Taiwan. Rec'd—11/6-10/2011. Est. Value—$6,500.00 | National Fire Agency of Taiwan | Non-acceptance would cause embarrassment to donor and U.S. Government.
Denis Onieal, Superintendent, National Fire Academy | TRAVEL: Speaker at Taiwan Fire Agency Conference in Taipei, Taiwan. Rec'd—11/6-10/2011. Est. Value—$6,500.00 | National Fire Agency of Taiwan | Non-acceptance would cause embarrassment to donor and U.S. Government.
Denis Onieal, Superintendent, National Fire Academy | TRAVEL: Speaker at Taiwan Fire Agency Conference in Taipei, Taiwan. Rec'd—11/6-10/2011. Est. Value—$6,500.00 | National Fire Agency of Taiwan | Non-acceptance would cause embarrassment to donor and U.S. Government.
Denis Onieal, Superintendent, National Fire Academy | TRAVEL: Speaker at Taiwan Fire Agency Conference in Taipei, Taiwan. Rec'd—11/6-10/2011. Est. Value—$6,500.00 | National Fire Agency of Taiwan | Non-acceptance would cause embarrassment to donor and U.S. Government.

Agency: Office of the Director of National Intelligence
[Report of tangible gifts furnished by the office of the Director of National Intelligence]
Name and title of person accepting the gift on behalf of the U.S. Government | Gift, date of acceptance on behalf of the U.S. Government, estimated value, and current disposition or location | Identity of foreign donor and government | Circumstances justifying acceptance
5 U.S.C. 7342(f)(4), as amended | Rug—3″ x 4″ wool, beige field with floral patter; plaque—wood with brass seal. Rec'd 7/21/2011. Est. Value—$400.00. Disposition—For Official Use | 5 U.S.C. 7342(f)(4), as amended | Non-acceptance would cause embarrassment to donor and U.S. Government.
5 U.S.C. 7342(f)(4), as amended | Gold coin, 1 sleung, 2006, 16g, in Lucite coin holder, Cambodian Ancient Naga coin, Nordic-gold Proof like coin; dish 7″ diameter, silver with repousse border, center decorated with a vew of the Angkor Wat, Cambodia, 21st century, 4ozsT. Rec'd—8/12/2011. Est. Value—$1,100.00. Disposition—For Official Use | 5 U.S.C. 7342(f)(4), as amended | Non-acceptance would cause embarrassment to donor and U.S. Government.
5 U.S.C. 7342(f)(4), as amended | Palte 9¾″ diameter, silver with repousse border, Cambodia, 21st centur, 10ozsT. Rec'd—8/13/2011. Est. Value—$500.00. Disposition—For Official Use | 5 U.S.C. 7342(f)(4), as amended | Non-acceptance would cause embarrassment to donor and U.S. Government.
5 U.S.C. 7342(f)(4), as amended | Sculpture 14″ H, bronze with dark patination, standing Roman Infantry soldier, by Noee, Romania, 21st century, 10ozsT. Rec'd—9/16/2011. Est. Value—$400.00. Disposition—For Official Use | 5 U.S.C. 7342(f)(4), as amended | Non-acceptance would cause embarrassment to donor and U.S. Government.
5 U.S.C. 7342(f)(4), as amended | Rug—Indo-Keshan silk rug, 3′10″ x 2′7″, post 1950's navy blue ground with palmette and trellising vine field, centering a pulled lobed medallion on ivory ground, complementary spandrels and guard border on brown ground. Rec'd—10/26/2011. Est. Value—$500.00. Disposition—For Official Use | 5 U.S.C. 7342(f)(4), as amended | Non-acceptance would cause embarrassment to donor and U.S. Government.

Agency: U.S. House of Representatives
[Report of tangible gifts furnished by the U.S. House of Representatives]
Name and title of person accepting the gift on behalf of the U.S. Government | Gift, date of acceptance on behalf of the U.S. Government, estimated value, and current disposition or location | Identity of foreign donor and government | Circumstances justifying acceptance
The Honorable Henry Cuellar, Member of Congress | Transportation from Islamabad to Karachi, Pakistan. Rec'd—11/8/2011. Est. Value—Unknown | His Excellency Asif Ali Zardari, President of the Islamic Republic of Pakistan | Non-acceptance would cause embarrassment to donor and U.S. Government.
The Honorable Jeff Duncan, Member of Congress | Transportation from Islamabad to Karachi, Pakistan. Rec'd—11/8/2011. Est. Value—Unknown | His Excellency Asif Ali Zardari, President of the Islamic Republic of Pakistan | Non-acceptance would cause embarrassment to donor and U.S. Government.
The Honorable Mike Fitzpatrick, Member of Congress | Transportation from Islamabad to Karachi, Pakistan. Rec'd—11/8/2011. Est. Value—Unknown | His Excellency Asif Ali Zardari, President of the Islamic Republic of Pakistan | Non-acceptance would cause embarrassment to donor and U.S. Government.
The Honorable Gene Green, Member of Congress | Transportation from Islamabad to Karachi, Pakistan. Rec'd—11/8/2011. Est. Value—Unknown | His Excellency Asif Ali Zardari, President of the Islamic Republic of Pakistan | Non-acceptance would cause embarrassment to donor and U.S. Government.
The Honorable Michael McCaul, Member of Congress | Transportation from Islamabad to Karachi, Pakistan. Rec'd—11/8/2011. Est. Value—Unknown | His Excellency Asif Ali Zardari, President of the Islamic Republic of Pakistan | Non-acceptance would cause embarrassment to donor and U.S. Government.

Agency: United States Senate
[Report of tangible gifts and travel furnished by the United States Senate]
Name and title of person accepting the gift on behalf of the U.S. Government | Gift, date of acceptance on behalf of the U.S. Government, estimated value, and current disposition or location | Identity of foreign donor and government | Circumstances justifying acceptance
The Honorable Jon Tester, United States Senator | Yemen Silver Jambyah. Rec'd—1/20/2011. Est. Value—$850.00. Location—Deposited with the Secretary of the Senate | Dr. Rashad Mohamed Al-Alimi, Deputy Prime Minister for Security Forces of the Republic of Yemen | Non-acceptance would cause embarrassment to donor and U.S. Government.
The Honorable Mitch McConnell, United States Senator | Moon Jar. Rec'd—3/29/2011. Est. Value—$2,000.00. Location—Deposited with the Secretary of the Senate | The National Assembly of the Republic of Korea | Non-acceptance would cause embarrassment to donor and U.S. Government.
The Honorable Jack Reed, United States Senator | Yemen Silver Jambyah. Rec'd—5/3/2011. Est. Value—$850.00. Location—Deposited with the Secretary of the Senate | Dr. Rashad Mohamed Al-Alimi, Deputy Prime Minister for Security Forces of the Republic of Yemen | Non-acceptance would cause embarrassment to donor and U.S. Government.
The Honorable Carl Levin, United States Senator | Yemen Silver Jambyah. Rec'd—6/11/2011. Est. Value—$850.00. Location—Deposited with the Secretary of the Senate | Dr. Rashad Mohamed Al-Alimi, Deputy Prime Minister for Security Forces of the Republic of Yemen | Non-acceptance would cause embarrassment to donor and U.S. Government.
The Honorable Tom R. Carper, United States Senator | 4′4″ x 6″ Afghan Rug. Rec'd—6/9/2011. Est. Value—$900.00. Location—Deposited with the Secretary of the Senate | His Excellency Hamid Karzai, President of the Islamic Republic of Afghanistan | Non-acceptance would cause embarrassment to donor and U.S. Government.
The Honorable John McCain, United States Senator | 6 x 4 Indian Rug. Rec'd—8/17/2011. Est. Value—$1,500.00. Location—Deposited with the Secretary of the Senate | Omar Abdullah, Chief Minister of Jammu and Kashmir of the Republic of India | Non-acceptance would cause embarrassment to donor and U.S. Government.
The Honorable John McCain, United States Senator | iPod Touch; Incense Burner. Rec'd—10/23/2011. Est. Value—$455.00. Location—Deposited with the Secretary of the Senate | His Majesty King Abdullah II ibn Al Hussein, King of the Hashemite Kingdom of Jordan | Non-acceptance would cause embarrassment to donor and U.S. Government.
The Honorable Mitch McConnell, United States Senator | 2 White Porcelain Pottery Figures. Rec'd—10/14/2011. Est. Value—$350.00. Location—Deposited with the Secretary of the Senate | His Excellency Lee Myung-bak, President of the Republic of Korea | Non-acceptance would cause embarrassment to donor and U.S. Government.
The Honorable Mike Lee, United States Senator | Tai-Hwa Vase. Rec'd—10/19/2011. Est. Value—$400.00. Location—Deposited with the Secretary of the Senate | Representative Jason Yuan, Representative of the Taipei Economic and Cultural Representative Office in the United States | Non-acceptance would cause embarrassment to donor and U.S. Government.
The Honorable Susan Collins, United States Senator | iPod Touch; Incense Burner. Rec'd—10/22/2011. Est. Value—$549.00. Location—Deposited with the Secretary of the Senate | His Majesty King Abdullah II ibn Al Hussein, King of the Hashemite Kingdom of Jordan | Non-acceptance would cause embarrassment to donor and U.S. Government.
The Honorable Mark Kirk, United States Senator | TRAVEL: Transportation from Djibouti to Bosasso, Somalia. Rec'd—4/30/2011. Est. Value—Unknown | Government of Puntland, Somalia | Non-acceptance would cause embarrassment to donor and U.S. Government.
Dennis Balkham, Minority Staff Director, Subcommittee on Military Construction, United States Senate | TRAVEL: Transportation from Djibouti to Bosasso, Somalia. Rec'd—4/30/2011. Est. Value—Unknown | Government of Puntland, Somalia | Non-acceptance would cause embarrassment to donor and U.S. Government.
Patrick Magnuson, Legislative Director, Office of Senator Mark Kirk | TRAVEL: Transportation from Djibouti to Bosasso, Somalia. Rec'd—4/30/2011. Est. Value—Unknown | Government of Puntland, Somalia | Non-acceptance would cause embarrassment to donor and U.S. Government.
Michael T. Behan, Chief Counsel and Legislative Director, Senator Bernard Sanders | TRAVEL: Local Transportation, Lodging and Meals. Rec'd—5/29-6/1/2011. Est. Value—Unknown | European Parliament | Non-acceptance would cause embarrassment to donor and U.S. Government.
Matthew S. Giroux, Professional Staff Member, Committee on the Budget, United States Senate | TRAVEL: Government of Germany. Rec'd—6/22-7/3/2011. Est. Value—Unknown | Government of Puntland, Somalia | Non-acceptance would cause embarrassment to donor and U.S. Government.
Jon Wolfsthal, Special Advisor to the Vice President, Office of the President of the Senate | TRAVEL: Lodging, Meals, Ground Transportation, and Conference Fee. Rec'd—12/12-14/2011. Est. Value—Unknown | Government of the United Kingdom of Great Britain and Northern Ireland | Non-acceptance would cause embarrassment to donor and U.S. Government.

Agency: Environmental Protection Agency
[Report of travel furnished by the Environmental Protection Agency]
Name and title of person accepting the gift on behalf of the U.S. Government | Gift, date of acceptance on behalf of the U.S. Government, estimated value, and current disposition or location | Identity of foreign donor and government | Circumstances justifying acceptance
Peter Banwell, Energy Star Program Manager | TRAVEL: Hotel and per diem in Paris France. Rec'd—7/9/2011. Est. Value—$1,215.00 | United Nations Environment Program | Non-acceptance would cause embarrassment to donor and U.S. Government.
Peter Banwell, Energy Star Program Manager | TRAVEL: Partial per diem, 2 days, $188 per day. Full per diem, 2 days, $226 per day (includes hotel and meals) in Santo Domingo, Dominican Republic. Rec'd—8/5/2011. Est. Value—$838.00 | United Nations Environment Program | Non-acceptance would cause embarrassment to donor and U.S. Government.
Amy Benson, Toxicologist | TRAVEL: Expenses accepted to support the detail in Paris, France include: (1)Travel expenses (plane fare and baggage fees totaling $1180.97); (2) Housing allowance (November 29, 2010 to March 31, 2011 totaling $9882). Rec'd—11/29/2010-3/31/2011 Est. Value—$11,062.97 | Organization of Economic Cooperation and Development | Non-acceptance would cause embarrassment to donor and U.S. Government.
Adele Cardenas Malott, Senior Policy Advisor, Region 6 | TRAVEL: Lodging, per diem and travel expenses in Dubrovnik, Croatia. Rec'd—10/14-23/2011. Est. Value—$2,234.00 | Organization of American States | Non-acceptance would cause embarrassment to donor and U.S. Government.
Chris Corton, Senior Research Biologist | TRAVEL: Hotel $1000, local transportation $150, and meals $641 in Lyon, France. Rec'd—2/12-23/2011. Est. Value—$1,791.00 | International Agency for Research on Cancer | Non-acceptance would cause embarrassment to donor and U.S. Government.
Vicki Dellarco, Senior Scientist, Office of Pesticide Programs | TRAVEL: Geneva, Switzerland: Hotel (11 nights at $1815.28); Meals, local transportation, and misc expenses (13 days at $3675.72). Rec'd—9/18-30/2011. Est. Value—$5,491.00 | World Health Organization | Non-acceptance would cause embarrassment to donor and U.S. Government.
David DeMarini, Genetic Toxicologist | TRAVEL: Hotel $1000, local transportation $150, and meals $641 in Lyon, France. Rec'd—2/12-23/2011. Est. Value—$1,791.00 | International Agency for Research on Cancer | Non-acceptance would cause embarrassment to donor and U.S. Government.
William H. Donovan, Senior Chemist | TRAVEL: Hotels: 1) Hotel Suisse, 9/14-9/19/2011, at $1191. 2) Hotel Excelsior, 9/19-9/30/2011, at $2114. Per diem for 16 days at $200/day for a total of $3200. Rec'd—9/13-30/2011. Est. Value—$6,505.00 | Food and Agriculture Organization of the United Nations | Non-acceptance would cause embarrassment to donor and U.S. Government.
Miguel I. Flores, Director of the Water Quality Protection Division, Region 6 | TRAVEL: Lodging, per diem and travel expenses in Dubrovnik, Croatia. Rec'd—10/14-23/2011. Est. Value—$2,234.00 | Organization of American States | Non-acceptance would cause embarrassment to donor and U.S. Government.
Gary Foley, Senior Advisor | TRAVEL: Travel expenses accepted included hotel, meals, and incidentals while in London, Britain. Rec'd—9/12-14/2011. Est. Value—$1,195.68 | Pauline Mungo, Division of Early Warning and Assessment, United Nations Environment Program | Non-acceptance would cause embarrassment to donor and U.S. Government.
Benjamin Franco, On Scene Coordinator, Region 4 | TRAVEL: $75 Overweight baggage; $700 Per Diem in San Salvador, El Salvador. Rec'd—12/13-21/2011. Est. Value—$775.00 | Ministry of the Environment and Natural Resources of the Republic of El Salvador | Non-acceptance would cause embarrassment to donor and U.S. Government.
Neil Frank, Physical Scientist | TRAVEL: Travel expenses accepted included hotel, meals, and local transportation while in Beijing, China. Rec'd—12/12-18/2011. Est. Value—$1,233.16 | World Bank | Non-acceptance would cause embarrassment to donor and U.S. Government.
Lois Gartner, Program Analyst | TRAVEL: Per diem/lodging. Rec'd—9/26-10/23/2011. Est. Value—$774.00 | International Atomic Energy Agency | Non-acceptance would cause embarrassment to donor and U.S. Government.
Jeffrey Scott Gift, Physical Scientist | TRAVEL: Lodging, meals, local transportation in Ottawa, Canada. Rec'd—9/26-27/2011. Est. Value—$385.63 | Health Canada of Canada | Non-acceptance would cause embarrassment to donor and U.S. Government.
Greg Helms, Environmental Protection Specialist | TRAVEL: Lodging, meals, and local transportation in Geneva, Switzerland. Rec'd—7/3-7/2011. Est. Value—$1,800.00 | United Nations Environment Program | Non-acceptance would cause embarrassment to donor and U.S. Government.
Leif Hockstad, Environmental Engineer | TRAVEL: Meals, lodging, local transportation in Bonn, Germany. Rec'd—8/22-26/2011. Est. Value—$854.25 | Secretariat of the United Nations Framework Convention on Climate Change (UNFCCC) | Non-acceptance would cause embarrassment to donor and U.S. Government.
Patrick F. Kuefler, Section Chief, Region 5 | TRAVEL: Logding, meals, and local transportation in Dhaka, Bangladesh. Rec'd—5/7-13/2011. Est. Value—$1,044.97 | World Bank | Non-acceptance would cause embarrassment to donor and U.S. Government.
Dr. Henry Lee II, Marine Ecologist | TRAVEL: Lodging, meals, and local transportation in Khabarovsk, Russia. Rec'd—10/10-23/2011. Est. Value—$2,160.00 | North Pacific Marine Science Organization (PICES) | Non-acceptance would cause embarrassment to donor and U.S. Government.
Kristan Markey, Chemist | TRAVEL: Expenses accepted to support six-month detail in Paris, France: (1)Travel expenses to travel to three meetings in foreign countries while stationed in Paris; (2) Housing allowance (March through September 2011). Rec'd—3/8-10/1/2011. Est. Value—$23,759.61 | Organization of Economic Cooperation and Development | Non-acceptance would cause embarrassment to donor and U.S. Government.
Richard Martyn, On-Scene Coordinator, Region 9 | TRAVEL: Meals while on travel in Perth, Australia. Rec'd—7/29-8/12/2011. Est. Value—$1,027.00 | Department of Environment and Conservation, Western Australia, The Commonwealth of Australia | Non-acceptance would cause embarrassment to donor and U.S. Government.
David J. Miller, Supervisory Chemist | TRAVEL: Lodging and meals in Parma, Italy. Rec'd—3/12-17/2011. Est. Value—$548.00 | European Food Safety Authority | Non-acceptance would cause embarrassment to donor and U.S. Government.
José A. Negrón, On Scene Coordinator, Region 4 | TRAVEL: Overweight baggage; Per Diem in San Salvador, El Salvador. Rec'd—12/13-21/2011. Est. Value—$775.00 | Ministry of the Environment and Natural Resources of the Republic of El Salvador | Non-acceptance would cause embarrassment to donor and U.S. Government.
Kimberly Nesci, Special Assistant, Registration Division, Office of Pesticide Programs | TRAVEL: Travel expenses accepted included meals, transportation, incidental expenses (e.g., internet access) and lodging while in Geneva, Switzerland. Rec'd—8/27-9/1/2011. Est. Value—$2,163.00 | World Health Organization of the United Nations | Non-acceptance would cause embarrassment to donor and U.S. Government.
Kimberly Nesci, Special Assistant, Registration Division, Office of Pesticide Programs | TRAVEL: Travel expenses accepted included meals, transportation, incidental expenses (e.g., internet access) and lodging while in Rome, Italy. Rec'd—10/9-16/2011. Est. Value—$2,352.00 | Food and Agriculture Organization of the United Nations | Non-acceptance would cause embarrassment to donor and U.S. Government.
Kimberly Nesci, Special Assistant, Registration Division, Office of Pesticide Programs | TRAVEL: Travel expenses accepted included meals, transportation, incidental expenses (e.g., internet access) and lodging while in St. Lucia. Rec'd—11/7-14/2011. Est. Value—$1,278.00 | Food and Agriculture Organization of the United Nations | Non-acceptance would cause embarrassment to donor and U.S. Government.
Nhan Nguyen, Chief, Chemical Engineering Branch, Office of Pollution Prevention and Toxics | TRAVEL: Lodging expenses in Ottawa, Canada. Rec'd—12/11-13/2011. Est. Value—$427.00 | Health Canada of Canada | Non-acceptance would cause embarrassment to donor and U.S. Government.
Dr. Edward V. Ohanian, Associate Director for Science, Office of Water | TRAVEL: Traveler received $2650.00 in cash on 7/1 to cover meals, lodging, and local transportation while in Singapore. Rec'd—6/28-7/8/2011. Est. Value—$2,650.00 | World Health Organization | Non-acceptance would cause embarrassment to donor and U.S. Government.
Bruce Potoka, Environmental Scientist | TRAVEL: Meals while on travel in Perth, Australia. Rec'd—7/29-8/12/2011. Est. Value—$1,027.00 | Department of Environment and Conservation, Western Australia, The Commonwealth of Australia | Non-acceptance would cause embarrassment to donor and U.S. Government.
Mary Elissa Reaves, Ph.D., Toxicologist | TRAVEL: Travel to Amesterdam for the WHO Immunotoxicity Conference. Expenses included (1) Taxi to the hotel: $140 Euro, (2) Food: $50 Euro, (3) Taxi to the airport: $120 Euro, and (4) Hotel: $302.75 Euro. Rec'd—10/1-5/2011. Est. Value—$816.67 | World Health Organization | Non-acceptance would cause embarrassment to donor and U.S. Government.
P.V. Shah, Chief, Inert Ingredient Assessment Branch; Office of Pesticide Programs, Registration Division | TRAVEL: For travel to Geneva, Switzerland: 1) Hotel (12 nights)—$2117.65 and 2) Meals, local transportation, and misc expenses (14 days)—$ 3958.47. Rec'd—9/18-10/1/2011. Est. Value—$6,076.12 | World Health Organization | Non-acceptance would cause embarrassment to donor and U.S. Government.
Ralph David Simpson, Economist, National Center for Environmental Economics, Office of Policy | TRAVEL: Expenses incurred during traveler's stay in London: Ground transportation and meals. Rec'd—12/4-7/2011. Est. Value—$360.00 | European Environmental Agency, European Union | Non-acceptance would cause embarrassment to donor and U.S. Government.
Katherine Sleasman, Environmental Protection Specialist | TRAVEL: Received hotel, ground transportation, and meals while in Bangkok, Thailand. Rec'd—8/30-9/4/2011. Est. Value—$1,000.00 | United Nations Industrial Development Organization | Non-acceptance would cause embarrassment to donor and U.S. Government.
Thomas F. Speth, Acting Director, Water Supply and Water Resources Division, National Risk Management Research Laboratory | TRAVEL: Traveler accepted meals and taxis while in Singapore. Rec'd—12/2-8/2011. Est. Value—$1,156.35 | National University of Singapore | Non-acceptance would cause embarrassment to donor and U.S. Government.
Fred B. Stroud, Environmental Scientist | TRAVEL: Travel benefits accepted while in Germany and Switzerland: (1) Lodging, (2) M&IE, (3) Local transportation, (4) Currency conversion fee, and (5) Internet Connection. Rec'd—6/11-25/2011. Est. Value—$4,516.50 | United Nations Environment Program | Non-acceptance would cause embarrassment to donor and U.S. Government.
Sara Terry, Senior Policy Advisor, Office of Air Quality Planning and Standards | TRAVEL: Daily subsistence expenses to cover meals and in-country transit for the period of September 4-9 while in Bangkok, Thailand. Rec'd—9/4-9/2011. Est. Value—$580.00 | United Nations Environment Programme | Non-acceptance would cause embarrassment to donor and U.S. Government.
Sara Terry, Senior Policy Advisor, Office of Air Quality Planning and Standards | TRAVEL: Daily subsistence expenses to cover meals and in-country transit for the period of September 25-28 while in Paris, France. Rec'd—9/25-28/2011. Est. Value—$350.00 | United Nations Environment Programme | Non-acceptance would cause embarrassment to donor and U.S. Government.
Sara Terry, Senior Policy Advisor, Office of Air Quality Planning and Standards | TRAVEL: Daily subsistence expenses to cover meals and in-country transit for the period of October 17-21 while in Dhaka, Bangladesh. Rec'd—10/17-21/2011. Est. Value—$420.00 | United Nations Environment Programme | Non-acceptance would cause embarrassment to donor and U.S. Government.
Lesley Vazquez-Coriano, DrPH, Microbiologist | TRAVEL: Meals, hotel, and local transportation while attending the WHO meeting on Microbial Risk Assessment in Geneva, Switzerland. Rec'd—2/19-26/2011. Est. Value—$1,699.58 | World Health Organization | Non-acceptance would cause embarrassment to donor and U.S. Government.
Albert D. Venosa, Director, Land Remediation and Pollution Control Division, National Risk Management Research Laboratory | TRAVEL: Traveler accepted meals and taxis while in Singapore. Rec'd—12/2-8/2011. Est. Value—$1,156.35 | National University of Singapore | Non-acceptance would cause embarrassment to donor and U.S. Government.
Mike Wireman, National Groundwater Expert | TRAVEL: Reimbursed expenses included per diem for 7 days, transportation, and hotels in rural villages. Rec'd—6/11-18/2011. Est. Value—$1,000.00 | World Bank | Non-acceptance would cause embarrassment to donor and U.S. Government.
David P. Wright, Director, Environmental Response Team | TRAVEL: Hotel, meals, and local transportation while attending conference on environmental emergencies. Rec'd—9/11-15/2011. Est. Value—$1,786.54 | United Nations Office for the Coordination of Humanitarian Affairs | Non-acceptance would cause embarrassment to donor and U.S. Government.
Tseming Yang, Deputy General Counsel, Office of General Counsel | TRAVEL: Kuala Lumpur, Malaysia: Hotel (2 nights)—$ 294.37; Meals, local transportation, and misc expenses (6 days)—$ 929.30. Rec'd—10/10-16/2011. Est. Value—$1,223.67 | United Nations Environment Programme | Non-acceptance would cause embarrassment to donor and U.S. Government.
Charles Richard Ziegler, Physical Scientist | TRAVEL: While in Ispra, Italy, UNEP provided its standard per diem for each day of trip, September 10-18, 2011, except one day (the traveler's personal day, Saturday the 17th), for a total of 8 per diem days. UNEP reimbursed traveler $1311.00 USD. Traveler paid for his hotel (approximately $709 USD), food and incidentals, which the UNEP reimbursement covered. Rec'd—9/10-18/2011. Est. Value—$1,311.00 | United Nations Environment Programme | Non-acceptance would cause embarrassment to donor and U.S. Government.

[FR Doc. 2013-09945 Filed 4-25-13; 8:45 am]

BILLING CODE 4710-20-P]